FEDERAL COMMUNICATIONS COMMISSION

47 CFR Ch. I

Unified Agenda of Federal Regulatory and Deregulatory Actions—Spring 2017

AGENCY: Federal Communications Commission.

ACTION: Semiannual regulatory agenda.

SUMMARY: Twice a year, in spring and fall, the Commission publishes in the Federal Register a list in the Unified Agenda of those major items and other significant proceedings under development or review that pertain to the Regulatory Flexibility Act. (U.S.C. 602). The Unified Agenda also provides the Code of Federal Regulations citations and legal authorities that govern these proceedings. The complete Unified Agenda will be published on the Internet in a searchable format at www.reginfo.gov.

ADDRESSES: Federal Communications Commission, 445 12th Street SW., Washington, DC 20554.

FOR FURTHER INFORMATION CONTACT: Maura McGowan, Telecommunications Policy Specialist, Federal Communications Commission, 445 12th Street SW., Washington, DC 20554, (202) 418-0990.

SUPPLEMENTARY INFORMATION:

Unified Agenda of Major and Other Significant Proceedings

The Commission encourages public participation in its rulemaking process. To help keep the public informed of significant rulemaking proceedings, the Commission has prepared a list of important proceedings now in progress. The General Services Administration publishes the Unified Agenda in the Federal Register in the spring and fall of each year.

The following terms may be helpful in understanding the status of the proceedings included in this report:

Docket Number—assigned to a proceeding if the Commission has issued either a Notice of Proposed Rulemaking or a Notice of Inquiry concerning the matter under consideration. The Commission has used docket numbers since January 1, 1978. Docket numbers consist of the last two digits of the calendar year in which the docket was established plus a sequential number that begins at 1 with the first docket initiated during a calendar year (e.g., Docket No. 15-1 or Docket No. 17-1). The abbreviation for the responsible bureau usually precedes the docket number, as in “MB Docket No. 15-137,” which indicates that the responsible bureau is the Media Bureau. A docket number consisting of only five digits (e.g., Docket No. 29622) indicates that the docket was established before January 1, 1978.

Notice of Inquiry (NOI)—issued by the Commission when it is seeking information on a broad subject or trying to generate ideas on a given topic. A comment period is specified during which all interested parties may submit comments.

Notice of Proposed Rulemaking (NPRM)—issued by the Commission when it is proposing a specific change to Commission rules and regulations. Before any changes are actually made, interested parties may submit written comments on the proposed revisions.

Further Notice of Proposed Rulemaking (FNPRM)—issued by the Commission when additional comment in the proceeding is sought.

Memorandum Opinion and Order (MO&O)—issued by the Commission to deny a petition for rulemaking, conclude an inquiry, modify a decision, or address a petition for reconsideration of a decision.

Rulemaking (RM) Number—assigned to a proceeding after the appropriate bureau or office has reviewed a petition for rulemaking, but before the Commission has taken action on the petition.

Report and Order (R&O)—issued by the Commission to state a new or amended rule or state that the Commission rules and regulations will not be revised.

Marlene H. Dortch,
Secretary, Federal Communications Commission.

Consumer and Governmental Affairs Bureau—Long-Term Actions
Sequence No. | Title | Regulation Identifier No.
277 | Implementation of the Telecom Act of 1996; Access to Telecommunications Service, Telecommunications Equipment, and Customer Premises Equipment by Persons With Disabilities (WT Docket No. 96-198) | 3060-AG58
278 | Rules and Regulations Implementing the Telephone Consumer Protection Act (TCPA) of 1991 (CG Docket No. 02-278) | 3060-AI14
279 | Rules and Regulations Implementing Section 225 of the Communications Act (Telecommunications Relay Service) (CG Docket No. 03-123) | 3060-AI15
280 | Consumer Information, Disclosure, and Truth in Billing and Billing Format | 3060-AI61
281 | Closed-Captioning of Video Programming; CG Docket Nos. 05-231 and 06-181 (Section 610 Review) | 3060-AI72
282 | Accessibility of Programming Providing Emergency Information; MB Docket No. 12-107 | 3060-AI75
283 | Empowering Consumers to Avoid Bill Shock (Docket No. 10-207) | 3060-AJ51
284 | Contributions to the Telecommunications Relay Services Fund (CG Docket No. 11-47) | 3060-AJ63
285 | Empowering Consumers to Prevent and Detect Billing for Unauthorized Charges (“Cramming”) | 3060-AJ72
286 | Implementation of the Middle Class Tax Relief and Job Creation Act of 2012/Establishment of a Public Safety Answering Point Do-Not-Call Registry | 3060-AJ84
287 | Implementation of Sections 716 and 717 of the Communications Act of 1934, as Enacted by the Twenty-First Century Communications and Video Accessibility Act of 2010 (CG Docket No. 10-213) | 3060-AK00
288 | Misuse of Internet Protocol (IP) Captioned Telephone Service; Telecommunications Relay Services and Speech-to-Speech Services; CG Docket No. 13-24 | 3060-AK01
289 | Transition From TTY to Real-Time Text Technology (GN Docket No. 15-178) | 3060-AK58

Office of Engineering and Technology—Long-Term Actions
Sequence No. | Title | Regulation Identifier No.
290 | New Advanced Wireless Services (ET Docket No. 00-258) | 3060-AH65
291 | Exposure to Radiofrequency Electromagnetic Fields (ET Docket No. 10-97) | 3060-AI17
292 | Unlicensed Operation in the TV Broadcast Bands (ET Docket No. 04-186) | 3060-AI52
293 | Fixed and Mobile Services in the Mobile Satellite Service (ET Docket No. 10-142) | 3060-AJ46
294 | Operation of Radar Systems in the 76-77 GHz Band (ET Docket No. 11-90) | 3060-AJ68
295 | Federal Earth Stations-Non Federal Fixed Satellite Service Space Stations; Spectrum for Non-Federal Space Launch Operations; ET Docket No. 13-115 | 3060-AK09
296 | Authorization of Radiofrequency Equipment; ET Docket No. 13-44 | 3060-AK10
297 | Operation of Radar Systems in the 76-77 GHz Band (ET Docket No. 15-26) | 3060-AK29
298 | Spectrum Access for Wireless Microphone Operations (GN Docket Nos. 14-166 and 12-268) | 3060-AK30

Office of Engineering and Technology—Completed Actions
Sequence No. | Title | Regulation Identifier No.
299 | Radio Experimentation and Market Trials Under Part 5 of the Commission's Rules and Streamlining Other Related Rules (ET Docket No. 10-236) | 3060-AJ62
300 | WRC-07 Implementation (ET Docket No. 12-338) | 3060-AJ93

International Bureau—Final Rule Stage
Sequence No. | Title | Regulation Identifier No.
301 | Comprehensive Review of Licensing and Operating Rules for Satellite Services (IB Docket No. 12-267) | 3060-AJ98

International Bureau—Long-Term Actions
Sequence No. | Title | Regulation Identifier No.
302 | International Settlements Policy Reform (IB Docket No. 11-80) | 3060-AJ77
303 | Expanding Broadband and Innovation Through Air-Ground Mobile Broadband Secondary Service for Passengers Aboard Aircraft in the 14.0-14.5 GHz Band; GN Docket No. 13-114 | 3060-AK02
304 | Terrestrial Use of the 2473-2495 MHz Band for Low-Power Mobile Broadband Networks; Amendments to Rules of Mobile Satellite Service System; IB Docket No. 13-213 | 3060-AK16
305 | Review of Foreign Ownership Policies for Broadcast, Common Carrier and Aeronautical Radio Licensees Under Section 310(b)(4) of the Communications Act of 1934, as Amended (Docket No. 15-236) | 3060-AK47
306 | Update to Parts 2 and 25 Concerning NonGeostationary, Fixed-Satellite Service Systems and Related Matters; IB Docket No. I6-408 | 3060-AK59

International Bureau—Completed Actions
Sequence No. | Title | Regulation Identifier No.
307 | Space Station Licensing Reform (IB Docket No. 02-34) | 3060-AH98

Media Bureau—Proposed Rule Stage
Sequence No. | Title | Regulation Identifier No.
308 | Authorizing Permissive Use of the “Next Generation” Broadcast Television Standard (GN Docket No. 16-142) | 3060-AK56

Media Bureau—Final Rule Stage
Sequence No. | Title | Regulation Identifier No.
309 | Channel Sharing by Full Power and Class A Stations Outside of the Incentive Auction Context; (MB Docket No. 15-137) | 3060-AK42

Media Bureau—Long-Term Actions
Sequence No. | Title | Regulation Identifier No.
310 | Broadcast Ownership Rules | 3060-AH97
311 | Establishment of Rules for Digital Low-Power Television, Television Translator, and Television Booster Stations (MB Docket No. 03-185) | 3060-AI38
312 | Promoting Diversification of Ownership in the Broadcast Services (MB Docket No. 07-294) | 3060-AJ27
313 | Closed Captioning of Internet Protocol-Delivered Video Programming: Implementation of the Twenty-First Century Communications and Video Accessibility Act of 2010 (MB Docket No. 11-154) | 3060-AJ67
314 | Noncommercial Educational Station Fundraising for Third-Party Nonprofit Organizations (MB Docket No. 12-106) | 3060-AJ79
315 | Accessibility of User Interfaces and Video Programming Guides and Menus (MB Docket No. 12-108) | 3060-AK11
316 | Revision to Public Inspection Requirements (MB Docket No. 16-161) | 3060-AK50

Office of Managing Director—Long-Term Actions
Sequence No. | Title | Regulation Identifier No.
317 | Assessment and Collection of Regulatory Fees for Fiscal Year 2016 | 3060-AK53

Public Safety and Homeland Security Bureau—Long-Term Actions
Sequence No. | Title | Regulation Identifier No.
318 | Revision of the Rules To Ensure Compatibility With Enhanced 911 Emergency Calling Systems (CC Docket No. 94-102; PS Docket No. 07-114) | 3060-AG34
319 | Enhanced 911 Services for Wireline and Multi-Line Telephone Systems; PS Docket Nos. 10-255 and 07-114 | 3060-AG60
320 | Implementation of 911 Act (CC Docket No. 92-105, WT Docket No. 00-110) | 3060-AH90
321 | Commission Rules Concerning Disruptions to Communications (PS Docket No. 11-82) | 3060-AI22
322 | E911 Requirements for IP-Enabled Service Providers (Dockets Nos. GN 11-117, PS 07-114, WC 05-196, WC 04-36) | 3060-AI62
323 | Wireless E911 Location Accuracy Requirements; PS Docket No. 07-114 | 3060-AJ52
324 | Proposed Amendments to Service Rules Governing Public Safety Narrowband Operations in the 769-775 and 799-805 MHz Bands; PS Docket No. 13-87 | 3060-AK19
325 | Improving Outage Reporting for Submarine Cables and Enhancing Submarine Cable Outage Data; GN Docket No. 15-206 | 3060-AK39
326 | Amendments to Part 4 of the Commission's Rules Concerning Disruptions to Communications; PS Docket No. 15-80 | 3060-AK40
327 | New Part 4 of the Commission's Rules Concerning Disruptions to Communications; ET Docket No. 04-35 | 3060-AK41
328 | Wireless Emergency Alerts (WEA); PS Docket No. 15-91 | 3060-AK54

Public Safety and Homeland Security Bureau—Completed Actions
Sequence No. | Title | Regulation Identifier No.
329 | 700 MHz Public Safety Broadband—First Net (PS Docket Nos. 12-94 & 06-229 and WT 06-150) | 3060-AJ99
330 | Amendment of Part 90 of the Commission's Rules To Enable Railroad Police Officers to Access Public Safety Interoperability and Mutual Aid Channels | 3060-AK51

Wireless Telecommunications Bureau—Final Rule Stage
Sequence No. | Title | Regulation Identifier No.
331 | Promoting Technological Solutions to Combat Wireless Contraband Device Use in Correctional Facilities; GN Docket No. 13-111 | 3060-AK06
332 | 800 MHz Cellular Telecommunications Licensing Reform; Docket No. 12-40 | 3060-AK13
333 | Updating Part 1 Competitive Bidding Rules (WT Docket No. 14-170) | 3060-AK28

Wireless Telecommunications Bureau—Long-Term Actions
Sequence No. | Title | Regulation Identifier No.
334 | Reexamination of Roaming Obligations of Commercial Mobile Radio Service Providers | 3060-AH83
335 | Review of Part 87 of the Commission's Rules Concerning Aviation (WT Docket No. 01-289) | 3060-AI35
336 | Implementation of the Commercial Spectrum Enhancement Act (CSEA) and Modernization of the Commission's Competitive Bidding Rules and Procedures (WT Docket No. 05-211) | 3060-AI88
337 | Facilitating the Provision of Fixed and Mobile Broadband Access, Educational, and Other Advanced Services in the 2150-2162 and 2500-2690 MHz Bands | 3060-AJ12
338 | Service Rules for Advanced Wireless Services in the 2155-2175 MHz Band; WT Docket No. 13-185 | 3060-AJ19
339 | Amendment of the Commission's Rules to Improve Public Safety Communications in the 800 MHz Band, and to Consolidate the 800 MHz and 900 MHz Business and Industrial/Land Transportation Pool Channels | 3060-AJ22
340 | Amendment of Part 101 to Accommodate 30 MHz Channels in the 6525 to 6875 MHz Band and Provide Conditional Authorization on Channels in the 21.8-22.0 and 23.0-23.2 GHz Band (WT Docket No. 04-114) | 3060-AJ28
341 | Amendment of Part 90 of the Commission's Rules | 3060-AJ37
342 | Amendment of Part 101 of the Commission's Rules for Microwave Use and Broadcast Auxiliary Service Flexibility | 3060-AJ47
343 | Universal Service Reform Mobility Fund (WT Docket No. 10-208) | 3060-AJ58
344 | Fixed and Mobile Services in the Mobile Satellite Service Bands at 1525-1559 MHz and 1626.5-1660.5 MHz, 1610-1626.5 MHz and 2483.5-2500 MHz, and 2000-2020 MHz and 2180-2200 MHz | 3060-AJ59
345 | Improving Spectrum Efficiency Through Flexible Channel Spacing and Bandwidth Utilization for Economic Area-Based 800 MHz Specialized Mobile Radio Licensees (WT Docket Nos. 12-64 and 11-110) | 3060-AJ71
346 | Service Rules for Advanced Wireless Services in the 2000-2020 MHz and 2180-2200 MHz Bands | 3060-AJ73
347 | Expanding the Economic and Innovation Opportunities of Spectrum Through Incentive Auctions; (GN Docket No. 12-268) | 3060-AJ82
348 | Service Rules for Advanced Wireless Services of the Middle Class Tax Relief and Job Creation Act of 2012 Related to the 1915-1920 MHz and 1995-2000 MHz Bands (WT Docket No. 12-357) | 3060-AJ86
349 | Amendment of Parts 1, 2, 22, 24, 27, 90 and 95 of the Commission's Rules to Improve Wireless Coverage Through the Use of Signal Boosters (WT Docket No. 10-4) | 3060-AJ87
350 | Amendment of the Commission's Rules Governing Certain Aviation Ground Station Equipment (Squitter) (WT Docket Nos. 10-61 and 09-42) | 3060-AJ88
351 | Amendment of the Commission's Rules Concerning Commercial Radio Operators (WT Docket No. 10-177) | 3060-AJ91
352 | Amendment of Part 90 of the Commission's Rules to Permit Terrestrial Trunked Radio (TETRA) Technology; WT Docket No. 11-6 | 3060-AK05
353 | Enabling Small Cell Use in the 3.5 GHz Band | 3060-AK12
354 | Use of Spectrum Bands Above 24 GHz for Mobile Services—Spectrum Frontiers; WT Docket 10-112 | 3060-AK44

Wireless Telecommunications Bureau—Completed Actions
Sequence No. | Title | Regulation Identifier No.
355 | Implementation of the Communications Act, Amendment of the Commission's Rules—Broadband PCS Competitive Bidding and the Commercial Mobile Radio Service Spectrum Cap | 3060-AG21

Wireline Competition Bureau—Proposed Rule Stage
Sequence No. | Title | Regulation Identifier No.
356 | Jurisdictional Separations | 3060-AJ06

Wireline Competition Bureau—Final Rule Stage
Sequence No. | Title | Regulation Identifier No.
357 | Comprehensive Review of the Part 32 Uniform System of Accounts (WC Docket No. 14-130) | 3060-AK20
358 | Protecting and Promoting the Open Internet; (WC Docket No. 14-28) | 3060-AK21

Wireline Competition Bureau—Long-Term Actions
Sequence No. | Title | Regulation Identifier No.
359 | Telecommunications Carriers' Use of Customer Proprietary Network Information and Other Customer Information (CC Docket No. 96-115) | 3060-AG43
360 | 2000 Biennial Regulatory Review—Telecommunications Service Quality Reporting Requirements | 3060-AH72
361 | Numbering Resource Optimization | 3060-AH80
362 | National Exchange Carrier Association Petition | 3060-AI47
363 | IP-Enabled Services; WC Docket No. 04-36 | 3060-AI48
364 | Service Quality, Customer Satisfaction, Infrastructure and Operating Data Gathering (WC Docket Nos. 08-190, 07-139, 07-204, 07-273, 07-21) | 3060-AJ14
365 | Development of Nationwide Broadband Data To Evaluate Reasonable and Timely Deployment of Advanced Services to All Americans | 3060-AJ15
366 | Local Number Portability Porting Interval and Validation Requirements (WC Docket No. 07-244) | 3060-AJ32
367 | Implementation of Section 224 of the Act; A National Broadband Plan for Our Future (WC Docket No. 07-245, GN Docket No. 09-51) | 3060-AJ64
368 | Rural Call Completion; WC Docket No. 13-39 | 3060-AJ89
369 | Rates for Inmate Calling Services; WC Docket No. 12-375 | 3060-AK08
370 | Technology Transitions; GN Docket No. 13-5, WC Docket No. 05-25 | 3060-AK32
371 | Modernizing Common Carrier Rules, WC Docket No. 15-33 | 3060-AK33
372 | Numbering Policies for Modern Communications, WC Docket No. 13-97 | 3060-AK36
373 | Implementation of the Universal Service Portions of the 1996 Telecommunications Act | 3060-AK57

FEDERAL COMMUNICATIONS COMMISSION (FCC)

Consumer and Governmental Affairs Bureau

Long-Term Actions

277. Implementation of the Telecom Act of 1996; Access to Telecommunications Service, Telecommunications Equipment, and Customer Premises Equipment by Persons With Disabilities (WT Docket No. 96-198)

Legal Authority: 47 U.S.C. 255; 47 U.S.C. 251(a)(2)

Abstract: These proceedings implement the provisions of sections 255 and 251(a)(2) of the Communications Act and related sections of the Telecommunications Act of 1996 regarding the accessibility of telecommunications equipment and services to persons with disabilities.

Timetable:

Action | Date | FR Cite
R&O | 08/14/96 | 61 FR 42181
NOI | 09/26/96 | 61 FR 50465
NPRM | 05/22/98 | 63 FR 28456
R&O | 11/19/99 | 64 FR 63235
Further NOI | 11/19/99 | 64 FR 63277
Public Notice | 01/07/02 | 67 FR 678
R&O | 08/06/07 | 72 FR 43546
Petition for Waiver | 11/01/07 | 72 FR 61813
Public Notice | 11/01/07 | 72 FR 61882
Final Rule | 04/21/08 | 73 FR 21251
Public Notice | 08/01/08 | 73 FR 45008
Extension of Waiver | 05/15/08 | 73 FR 28057
Extension of Waiver | 05/06/09 | 74 FR 20892
Public Notice | 05/07/09 | 74 FR 21364
Extension of Waiver | 07/29/09 | 74 FR 37624
NPRM | 03/14/11 | 76 FR 13800
NPRM Comment Period Extended | 04/12/11 | 76 FR 20297
FNPRM | 12/30/11 | 76 FR 82240
Comment Period End | 03/14/12
R&O | 12/30/11 | 76 FR 82354
Announcement of Effective Date | 04/25/12 | 77 FR 24632
2nd R&O | 05/22/13 | 78 FR 30226
FNPRM | 12/20/13 | 78 FR 77074
FNPRM Comment Period End | 02/18/14
Next Action Undetermined

Regulatory Flexibility Analysis Required: Yes.

Agency Contact: Rosaline Crawford, Attorney, Disability Rights Office, Federal Communications Commission, 445 12th Street SW., Washington, DC 20554, Phone: 202 418-2075, Email: rosaline.crawford@fcc.gov.

RIN: 3060-AG58

278. Rules and Regulations Implementing the Telephone Consumer Protection Act (TCPA) of 1991 (CG Docket No. 02-278)

Legal Authority: 47 U.S.C. 227

Abstract: On July 3, 2003, the Commission released a Report and Order establishing, along with the FTC, a national do-not-call registry. The Commission's Report and Order also adopted rules on the use of predictive dialers, the transmission of caller ID information by telemarketers, and the sending of unsolicited fax advertisements. On September 21, 2004, the Commission released an Order amending existing safe harbor rules for telemarketers subject to the do-not-call registry to require such telemarketers to access the do-not-call list every 31 days, rather than every 3 months. On April 5, 2006, the Commission adopted a Report and Order and Third Order on Reconsideration amending its facsimile advertising rules to implement the Junk Fax Protection Act of 2005. On October 14, 2008, the Commission released an Order on Reconsideration addressing certain issues raised in petitions for reconsideration and/or clarification of the Report and Order and Third Order on Reconsideration. On January 4, 2008, the Commission released a Declaratory Ruling, clarifying that autodialed and prerecorded message calls to wireless numbers that are provided by the called party to a creditor in connection with an existing debt are permissible as calls made with the “prior express consent” of the called party. Following a December 4, 2007, NPRM, on June 17, 2008, the Commission released a Report and Order amending its rules to require sellers and/or telemarketers to honor registrations with the National Do-Not-Call Registry indefinitely, unless the registration is cancelled by the consumer or the number is removed by the database administrator. Following a January 22, 2010, NPRM, the Commission released a Report and Order (on February 15, 2012), requiring telemarketers to obtain prior express written consent, including by electronic means, before making an autodialed or prerecorded telemarketing call to a wireless number or before making a prerecorded telemarketing call to a residential line; eliminating the “established business relationship” exemption to the consent requirement for prerecorded telemarketing calls to residential lines; requiring telemarketers to provide an automated, interactive “opt-out” mechanism during autodialed or prerecorded telemarketing calls to wireless numbers and during prerecorded telemarketing calls to residential lines; and requiring that the abandoned call rate for telemarketing calls be calculated on a “per-campaign” basis. On November 29, 2012, the Commission released a Declaratory Ruling clarifying that sending a one-time text message confirming a consumer's request that no further text messages be sent does not violate the Telephone Consumer Protection Act (TCPA) or the Commission's rules as long as the confirmation text only confirms receipt of the consumer's opt-out request, and does not contain marketing, solicitations, or an attempt to convince the consumer to reconsider his or her opt-out decision. The ruling applies only when the sender of the text messages has obtained prior express consent, as required by the TCPA and Commission rules, from the consumer to be sent text messages using an automatic telephone dialing system. On May 9, 2013, the Commission released a declaratory ruling clarifying that while a seller does not generally “initiate” calls made through a third-party telemarketer, within the meaning of the Telephone Consumer Protection Act (TCPA), it nonetheless may be held vicariously liable under Federal common law principles of agency for violations of either section 227(b) or section 227(c) that are committed by third-party telemarketers.

On July 10, 2015, the commission released a Declaratory Ruling and Order resolving 21 separate requests for clarification or other action regarding the TCPA. It clarified, among other things, that: Nothing in the Communications Act of the Commission's rules prohibits carriers or other service providers from implementing consumer-initiated call-blocking technologies; equipment meets the TCPA's definition of “autodialer” if it has the “capacity” to store or produce random sequential numbers, and to dial them, even if it is not presently used for that purpose; an “app” provider that plays a minimal role in making a call, such as just proving the app itself, is not the maker of the call for TCPA purposes; consumers who have previously consented to robocalls may revoke that consent at any time and through any reasonable means; the TCPA requires the consent of the party called—the subscriber to a phone number or the customary user of the number—not the intended recipient of the call; and callers who make calls without knowledge or reassignment of a wireless phone number and with a reasonable basis to believe that they have valid consent to make the call to the wireless number should be able to initiate one call after reassignment as an additional opportunity to gain actual or constructive knowledge of the reassignment and cease future calls to the new subscriber. The Commission also exempted certain financial and healthcare-related calls, when free to the consumer, from the TCPA's consumer-consent requirement.

Following a May 6, 2016, NPRM, the Commission released a Report and Order on August 11, 2016, adopting rules governing federal debt collection calls as required by Budget Act amendments to the TCPA. Among other things, the rules make clear that certain debt servicing calls are permitted under the exception; cap the number of permitted calls to wireless numbers at no more than three within a thirty-day period; ensure that consumers have the right to stop such calls at any time; specify who may make covered calls; and determine who may be called.

Timetable:

Action | Date | FR Cite
NPRM | 10/08/02 | 67 FR 62667
FNPRM | 04/03/03 | 68 FR 16250
Order | 07/25/03 | 68 FR 44144
Order Effective | 08/25/03
Order on Reconsideration | 08/25/03 | 68 FR 50978
Order | 10/14/03 | 68 FR 59130
FNPRM | 03/31/04 | 69 FR 16873
Order | 10/08/04 | 69 FR 60311
Order | 10/28/04 | 69 FR 62816
Order on Reconsideration | 04/13/05 | 70 FR 19330
Order | 06/30/05 | 70 FR 37705
NPRM | 12/19/05 | 70 FR 75102
Public Notice | 04/26/06 | 71 FR 24634
Order | 05/03/06 | 71 FR 25967
NPRM | 12/14/07 | 72 FR 71099
Declaratory Ruling | 02/01/08 | 73 FR 6041
R&O | 07/14/08 | 73 FR 40183
Order on Reconsideration | 10/30/08 | 73 FR 64556
NPRM | 03/22/10 | 75 FR 13471
R&O | 06/11/12 | 77 FR 34233
Public Notice | 06/30/10 | 75 FR 34244
Public Notice (Reconsideration Petitions Filed) | 10/03/12 | 77 FR 60343
Announcement of Effective Date | 10/16/12 | 77 FR 63240
Opposition End Date | 10/18/12
Rule Corrections | 11/08/12 | 77 FR 66935
Declaratory Ruling (release date) | 11/29/12
Declaratory Ruling (release date) | 05/09/13
Declaratory Ruling and Order | 10/09/15 | 80 FR 61129
NPRM | 05/20/16 | 81 FR 31889
Declaratory Ruling | 07/05/16
R&O | 11/16/16 | 81 FR 80594
Next Action Undetermined

Regulatory Flexibility Analysis Required: Yes.

Agency Contact: Kristi Thornton, Attorney Advisor, Federal Communications Commission, 445 12th Street SW., Washington, DC 20554, Phone: 202 418-2467, Email: kristi.thornton@fcc.gov.

RIN: 3060-AI14

279. Rules and Regulations Implementing Section 225 of the Communications Act (Telecommunications Relay Service) (CG Docket No. 03-123)

Legal Authority: 47 U.S.C. 151; 47 U.S.C. 154; 47 U.S.C. 225

Abstract: This proceeding established a new docket flowing from the previous telecommunications relay service (TRS) history, CC Docket No. 98-67. This proceeding continues the Commission's inquiry into improving the quality of TRS and furthering the goal of functional equivalency, consistent with Congress' mandate that TRS regulations encourage the use of existing technology and not discourage or impair the development of new technology. In this docket, the Commission explores ways to improve emergency preparedness for TRS facilities and services, new TRS technologies, public access to information and outreach, and issues related to payments from the Interstate TRS Fund.

Timetable:

Action | Date | FR Cite
NPRM | 08/25/03 | 68 FR 50993
R&O, Order on Reconsideration | 09/01/04 | 69 FR 53346
FNPRM | 09/01/04 | 69 FR 53382
Public Notice | 02/17/05 | 70 FR 8034
Declaratory Ruling/Interpretation | 02/25/05 | 70 FR 9239
Public Notice | 03/07/05 | 70 FR 10930
Order | 03/23/05 | 70 FR 14568
Public Notice/Announcement of Date | 04/06/05 | 70 FR 17334
Order | 07/01/05 | 70 FR 38134
Order on Reconsideration | 08/31/05 | 70 FR 51643
R&O | 08/31/05 | 70 FR 51649
Order | 09/14/05 | 70 FR 54294
Order | 09/14/05 | 70 FR 54298
Public Notice | 10/12/05 | 70 FR 59346
R&O/Order on Reconsideration | 12/23/05 | 70 FR 76208
Order | 12/28/05 | 70 FR 76712
Order | 12/29/05 | 70 FR 77052
NPRM | 02/01/06 | 71 FR 5221
Declaratory Ruling/Clarification | 05/31/06 | 71 FR 30818
FNPRM | 05/31/06 | 71 FR 30848
FNPRM | 06/01/06 | 71 FR 31131
Declaratory Ruling/Dismissal of Petition | 06/21/06 | 71 FR 35553
Clarification | 06/28/06 | 71 FR 36690
Declaratory Ruling on Reconsideration | 07/06/06 | 71 FR 38268
Order on Reconsideration | 08/16/06 | 71 FR 47141
MO&O | 08/16/06 | 71 FR 47145
Clarification | 08/23/06 | 71 FR 49380
FNPRM | 09/13/06 | 71 FR 54009
Final Rule; Clarification | 02/14/07 | 72 FR 6960
Order | 03/14/07 | 72 FR 11789
R&O | 08/06/07 | 72 FR 43546
Public Notice | 08/16/07 | 72 FR 46060
Order | 11/01/07 | 72 FR 61813
Public Notice | 01/04/08 | 73 FR 863
R&O/Declaratory Ruling | 01/17/08 | 73 FR 3197
Order | 02/19/08 | 73 FR 9031
Order | 04/21/08 | 73 FR 21347
R&O | 04/21/08 | 73 FR 21252
Order | 04/23/08 | 73 FR 21843
Public Notice | 04/30/08 | 73 FR 23361
Order | 05/15/08 | 73 FR 28057
Declaratory Ruling | 07/08/08 | 73 FR 38928
FNPRM | 07/18/08 | 73 FR 41307
R&O | 07/18/08 | 73 FR 41286
Public Notice | 08/01/08 | 73 FR 45006
Public Notice | 08/05/08 | 73 FR 45354
Public Notice | 10/10/08 | 73 FR 60172
Order | 10/23/08 | 73 FR 63078
2nd R&O and Order on Reconsideration | 12/30/08 | 73 FR 79683
Order | 05/06/09 | 74 FR 20892
Public Notice | 05/07/09 | 74 FR 21364
NPRM | 05/21/09 | 74 FR 23815
Public Notice | 05/21/09 | 74 FR 23859
Public Notice | 06/12/09 | 74 FR 28046
Order | 07/29/09 | 74 FR 37624
Public Notice | 08/07/09 | 74 FR 39699
Order | 09/18/09 | 74 FR 47894
Order | 10/26/09 | 74 FR 54913
Public Notice | 05/12/10 | 75 FR 26701
Order Denying Stay Motion (Release Date) | 07/09/10
Order | 08/13/10 | 75 FR 49491
Order | 09/03/10 | 75 FR 54040
NPRM | 11/02/10 | 75 FR 67333
NPRM | 05/02/11 | 76 FR 24442
Order | 07/25/11 | 76 FR 44326
Final Rule (Order) | 09/27/11 | 76 FR 59551
Final Rule; Announcement of Effective Date | 11/22/11 | 76 FR 72124
Proposed Rule (Public Notice) | 02/28/12 | 77 FR 11997
Proposed Rule (FNPRM) | 02/01/12 | 77 FR 4948
First R&O | 07/25/12 | 77 FR 43538
Public Notice | 10/29/12 | 77 FR 65526
Order on Reconsideration | 12/26/12 | 77 FR 75894
Order | 02/05/13 | 78 FR 8030
Order (Interim Rule) | 02/05/13 | 78 FR 8032
NPRM | 02/05/13 | 78 FR 8090
Announcement of Effective Date | 03/07/13 | 78 FR 14701
NPRM Comment Period End | 03/13/13
FNPRM | 07/05/13 | 78 FR 40407
FNPRM Comment Period End | 09/18/13
R&O | 07/05/13 | 78 FR 40582
R&O | 08/15/13 | 78 FR 49693
FNPRM | 08/15/13 | 78 FR 49717
FNPRM Comment Period End | 09/30/13
R&O | 08/30/13 | 78 FR 53684
FNPRM | 09/03/13 | 78 FR 54201
NPRM | 10/23/13 | 78FR 63152
FNPRM Comment Period End | 11/18/13
Petiton for Reconsideration; Request for Comment | 12/16/13 | 78 FR 76096
Petition for Reconsideration; Request for Comment | 12/16/13 | 78 FR 76097
Request for Clarification; Request for Comment; Correction | 12/30/13 | 78 FR 79362
Petition for Reconsideration Comment Period End | 01/10/14
NPRM Comment Period End | 01/21/14
Announcement of Effective Date | 07/11/14 | 79 FR 40003
Announcement of Effective Date | 08/28/14 | 79 FR 51446
Correction—Announcement of Effective Date | 08/28/14 | 79 FR 51450
Technical Amendments | 09/09/14 | 79 FR 53303
Public Notice | 09/15/14 | 79 FR 54979
R&O and Order | 10/21/14 | 79 FR 62875
FNPRM | 10/21/14 | 79 FR 62935
FNPRM Comment Period End | 12/22/14
Final Action (Announcement of Effective Date) | 10/30/14 | 79 FR 64515
Final Rule Effective | 10/30/14
FNPRM | 11/08/15 | 80 FR 72029
FNPRM Comment Period End | 01/01/16
Public Notice | 01/20/16 | 81 FR 3085
Public Notice Comment Period End | 02/16/16
R&O | 03/21/16 | 81 FR 14984
FNPRM | 08/24/16 | 81 FR 57851
FNPRM Comment Period End | 09/14/16
Next Action Undetermined

Regulatory Flexibility Analysis Required: Yes.

Agency Contact: Eliot Greenwald, Deputy Chief, Disability Rights Office, Federal Communications Commission, 445 12th Street SW., Washington, DC 20554, Phone: 202 418-2235, Email: eliot.greenwald@fcc.gov.

RIN: 3060-AI15

280. Consumer Information, Disclosure, and Truth in Billing and Billing Format

Legal Authority: 47 U.S.C. 201; 47 U.S.C. 258

Abstract: In 1999, the Commission adopted truth-in-billing rules to address concerns that there is consumer confusion relating to billing for telecommunications services. On March 18, 2005, the Commission released an Order and Further Notice of Proposed Rulemaking (FNPRM) to further facilitate the ability of telephone consumers to make informed choices among competitive service offerings. On August 28, 2009, the Commission released a Notice of Inquiry that asks questions about information available to consumers at all stages of the purchasing process for all communications services, including: (1) Choosing a provider; (2) choosing a service plan; (3) managing use of the service plan; and (4) deciding whether and when to switch an existing provider or plan. On October 14, 2010, the Commission released a Notice of Proposed Rulemaking (NPRM) proposing rules that would require mobile service providers to provide usage alerts and information that will assist consumers in avoiding unexpected charges on their bills. On July 12, 2011, the Commission released an NPRM proposing rules that would assist consumers in detecting and preventing the placement of unauthorized charges on their telephone bills, an unlawful and fraudulent practice, commonly referred to as “cramming.” On April 27, 2012, the Commission adopted rules to address “cramming” on wireline telephone bills and released an FNPRM seeking comment on additional measures to protect wireline and wireless consumers from unauthorized charges.

Timetable:

Action | Date | FR Cite
FNPRM | 05/25/05 | 70 FR 30044
R&O | 05/25/05 | 70 FR 29979
NOI | 08/28/09
Public Notice | 05/20/10 | 75 FR 28249
Public Notice | 06/11/10 | 75 FR 33303
NPRM | 11/26/10 | 75 FR 72773
NPRM | 08/23/11 | 76 FR 52625
NPRM Comment Period End | 11/21/11
Order (Reply Comment Period Extended) | 11/30/11 | 76 FR 74017
Reply Comment Period End | 12/05/11
R&O | 05/24/12 | 77 FR 30915
FNPRM | 05/24/12 | 77 FR 30972
FNPRM Comment Period End | 07/09/12
Order (Comment Period Extended) | 07/17/12 | 77 FR 41955
Comment Period End | 07/20/12
Announcement of Effective Dates | 10/26/12 | 77 FR 65230
Correction of Final Rule | 11/30/12 | 77 FR 71353
Correction of Final Rule | 11/30/12 | 77 FR 71354
Next Action Undetermined

Regulatory Flexibility Analysis Required: Yes.

Agency Contact: Richard D. Smith, Special Counsel, Consumer Policy Division, Federal Communications Commission, Consumer and Governmental Affairs Bureau, 445 12th Street SW., Washington, DC 20554, Phone: 717 338-2797, Fax: 717 338-2574, Email: richard.smith@fcc.gov.

RIN: 3060-AI61

281. Closed-Captioning of Video Programming; CG Docket Nos. 05-231 and 06-181 (Section 610 Review)

Legal Authority: 47 U.S.C. 613

Abstract: The Commission's closed-captioning rules are designed to make video programming more accessible to deaf and hard-of-hearing Americans. This proceeding resolves some issues regarding the Commission's closed-captioning rules that were raised for comment in 2005, and also seeks comment on how a certain exemption from the closed-captioning rules should be applied to digital multicast broadcast channels.

Timetable:

Action | Date | FR Cite
NPRM | 02/03/97 | 62 FR 4959
R&O | 09/16/97 | 62 FR 48487
Order on Reconsideration | 10/20/98 | 63 FR 55959
NPRM | 09/26/05 | 70 FR 56150
Order and Declaratory Ruling | 01/13/09 | 74 FR 1594
NPRM | 01/13/09 | 74 FR 1654
Final Rule Correction | 09/11/09 | 74 FR 46703
Final Rule (Announcement of Effective Date) | 02/19/10 | 75 FR 7370
Order | 02/19/10 | 75 FR 7368
Order Suspending Effective Date | 02/19/10 | 75 FR 7369
Waiver Order | 10/04/10 | 75 FR 61101
Public Notice | 11/17/10 | 75 FR 70168
Interim Final Rule (Order) | 11/01/11 | 76 FR 67376
Final Rule (MO&O) | 11/01/11 | 76 FR 67377
NPRM | 11/01/11 | 76 FR 67397
NPRM Comment Period End | 12/16/11
Public Notice | 05/04/12 | 77 FR 26550
Public Notice | 12/15/12 | 77 FR 72348
Final Rule Effective | 03/16/15
FNPRM | 03/27/14 | 79 FR 17094
R&O | 03/31/14 | 79 FR 17911
FNPRM Comment Period End | 07/25/14
Final Action (Announcement of Effective Date) | 12/29/14 | 79 FR 77916
2nd FNPRM | 12/31/14 | 79 FR 78768
Comment Period End | 01/30/15
2nd R&O | 08/23/16 | 81 FR 57473
Next Action Undetermined

Regulatory Flexibility Analysis Required: Yes.

Agency Contact: Eliot Greenwald, Deputy Chief, Disability Rights Office, Federal Communications Commission, 445 12th Street SW., Washington, DC 20554, Phone: 202 418-2235, Email: eliot.greenwald@fcc.gov.

RIN: 3060-AI72

282. Accessibility of Programming Providing Emergency Information; MB Docket No. 12-107

Legal Authority: 47 U.S.C. 613

Abstract: In this proceeding, the Commission adopted rules detailing how video programming distributors must make emergency information accessible to persons with hearing and visual disabilities.

Timetable:

Action | Date | FR Cite
FNPRM | 01/21/98 | 63 FR 3070
NPRM | 12/01/99 | 64 FR 67236
NPRM Correction | 12/22/99 | 64 FR 71712
Second R&O | 05/09/00 | 65 FR 26757
R&O | 09/11/00 | 65 FR 54805
Final Rule; Correction | 09/20/00 | 65 FR 5680
NPRM | 11/28/12 | 77 FR 70970
NPRM Comment Period Extended | 12/20/12 | 77 FR 75404
NPRM Comment Period Extension End | 01/07/13
R&O | 05/24/13 | 78 FR 31770
FNPRM | 05/24/13 | 78 FR 31800
FNPRM | 12/20/13 | 78 FR 77074
FNPRM Comment Period End | 02/18/14
NPRM | 06/18/13 | 78 FR 36478
NPRM Comment Period End | 08/07/13
R&O | 12/20/13 | 78 FR 77210
Petition for Reconsideration | 01/31/14 | 79 FR 5364
Comment Period End | 02/25/14
Correcting Amendments | 02/10/14 | 79 FR 7590
Announcement of Effective Date | 04/16/14 | 79 FR 21399
Final Action (Announcement of Effective Date) | 01/26/15 | 80 FR 3913
Final Action Effective | 01/26/15
2nd R&O | 07/10/15 | 80 FR 39698
2nd FNPRM | 07/10/15 | 80 FR 39722
2nd FNPRM Comment Period End | 09/08/15
Next Action Undetermined

Regulatory Flexibility Analysis Required: Yes.

Agency Contact: Eliot Greenwald, Deputy Chief, Disability Rights Office, Federal Communications Commission, 445 12th Street SW., Washington, DC 20554, Phone: 202 418-2235, Email: eliot.greenwald@fcc.gov.

RIN: 3060-AI75

283. Empowering Consumers To Avoid Bill Shock (Docket No. 10-207)

Legal Authority: 47 U.S.C. 201; 47 U.S.C. 303; 47 U.S.C. 332

Abstract: On October 14, 2010, the Commission released a Notice of Proposed Rulemaking which proposes a rule that would require mobile service providers to provide usage alerts and information to help consumers avoid unexpected charges on their bills.

Timetable:

Action | Date | FR Cite
Public Notice | 05/20/10 | 75 FR 28249
NPRM | 11/26/10 | 75 FR 72773
Next Action Undetermined

Regulatory Flexibility Analysis Required: Yes.

Agency Contact: Richard D. Smith, Special Counsel, Consumer Policy Division, Federal Communications Commission, Consumer and Governmental Affairs Bureau, 445 12th Street SW., Washington, DC 20554, Phone: 717 338-2797, Fax: 717 338-2574, Email: richard.smith@fcc.gov.

RIN: 3060-AJ51

284. Contributions to the Telecommunications Relay Services Fund (CG Docket No. 11-47)

Legal Authority: 47 U.S.C. 151; 47 U.S.C. 154; 47 U.S.C. 225; 47 U.S.C. 616

Abstract: The Commission prescribes by regulation the obligations of each provider of interconnected and non-interconnected Voice over Internet Protocol (VoIP) service to participate in and contribute to the Interstate Telecommunications Relay Services Fund in a manner that is consistent with and comparable to such fund.

Timetable:

Action | Date | FR Cite
NPRM | 04/04/11 | 76 FR 18490
NPRM Comment Period End | 05/04/11
Final Rule | 10/25/11 | 76 FR 65965
Next Action Undetermined

Regulatory Flexibility Analysis Required: Yes.

Agency Contact: Rosaline Crawford, Attorney, Disability Rights Office, Federal Communications Commission, 445 12th Street SW., Washington, DC 20554, Phone: 202 418-2075, Email: rosaline.crawford@fcc.gov.

RIN: 3060-AJ63

285. Empowering Consumers To Prevent and Detect Billing for Unauthorized Charges (“Cramming”)

Legal Authority: 47 U.S.C. 201; 47 U.S.C. 301; 47 U.S.C. 303; 47 U.S.C. 332

Abstract: On July 12, 2011, the Commission released a Notice of Proposed Rulemaking proposing rules that would help consumers detect and prevent the placement of unauthorized charges on telephone bills, an unlawful and fraudulent practice commonly referred to as “cramming.” On April 27, 2012, the Commission adopted rules to address “cramming” on wireline telephone bills and released a Further Notice of Proposed Rulemaking seeking comment on additional measures to protect wireline and wireless consumers from unauthorized charges.

Timetable:

Action | Date | FR Cite
NPRM | 08/23/11 | 76 FR 52625
NPRM Comment Period End | 11/21/11
Order (Extends Reply Comment Period) | 11/30/11 | 76 FR 74017
NPRM Comment Period End | 12/05/11
FNPRM | 05/24/12 | 77 FR 30972
R&O | 05/24/12 | 77 FR 30915
FNPRM Comment Period End | 07/09/12
Order (Extends Reply Comment Period) | 07/17/12 | 77 FR 41955
FNPRM Comment Period End | 07/20/12
Announcement of Effective Dates | 10/26/12 | 77 FR 65230
Correction of Final Rule | 11/30/12 | 77 FR 71354
Correction of Final Rule | 11/30/12 | 77 FR 71353
Next Action Undetermined

Regulatory Flexibility Analysis Required: Yes.

Agency Contact: Richard D. Smith, Special Counsel, Consumer Policy Division, Federal Communications Commission, Consumer and Governmental Affairs Bureau, 445 12th Street SW., Washington, DC 20554, Phone: 717 338-2797, Fax: 717 338-2574, Email: richard.smith@fcc.gov.

RIN: 3060-AJ72

286. Implementation of the Middle Class Tax Relief and Job Creation Act of 2012/Establishment of a Public Safety Answering Point Do-Not-Call Registry

Legal Authority: Pub. L. 112-96, sec. 6507

Abstract: The Commission issued, on May 22, 2012, an NPRM to initiate a proceeding to create a Do-Not-Call registry for public safety answer points (PSAPs), as required by section 6507 of the Middle Class Tax Relief and Job Creation Act of 2012. The statute requires the Commission to establish a registry that allows PSAPs to register their telephone numbers on a do-not-call list; prohibit the use of automatic dialing equipment to contact registered numbers; and implement a range of monetary penalties for disclosure of registered numbers and for use of automatic dialing equipment to contact such numbers. On October 17, 2012, the Commission adopted final rules implementing the statutory requirements described above.

Timetable:

Action | Date | FR Cite
NPRM | 06/21/12 | 77 FR 37362
R&O | 10/29/12 | 77 FR 71131
Correction Amendments | 02/13/13 | 78 FR 10099
Announcement of Effective Date | 03/26/13 | 78 FR 18246
Next Action Undetermined

Regulatory Flexibility Analysis Required: Yes.

Agency Contact: Richard D. Smith, Special Counsel, Consumer Policy Division, Federal Communications Commission, Consumer and Governmental Affairs Bureau, 445 12th Street SW., Washington, DC 20554, Phone: 717 338-2797, Fax: 717 338-2574, Email: richard.smith@fcc.gov.

RIN: 3060-AJ84

287. Implementation of Sections 716 and 717 of the Communications Act of 1934, as Enacted by the Twenty-First Century Communications and Video Accessibility Act of 2010 (CG Docket No. 10-213)

Legal Authority: 47 U.S.C. 151; 47 U.S.C. 154; 47 U.S.C. 255; 47 U.S.C. 617 to 619

Abstract: These proceedings implement sections 716, 717, and 718 of the Communications Act, which were added by the Twenty-First Century Communications and Video Accessibility Act of 2010 (CVAA), related to the accessibility of advanced communications services and equipment (section 716), recordkeeping and enforcement requirements for entities subject to sections 255, 716, and 718 (section 717), and accessibility of Internet browsers built into mobile phones (section 718).

Timetable:

Action | Date | FR Cite
NPRM | 03/14/11 | 76 FR 13800
NPRM Comment Period Extended | 04/12/11 | 76 FR 20297
NPRM Comment Period End | 05/13/11
FNPRM | 12/30/11 | 76 FR 82240
R&O | 12/30/11 | 76 FR 82354
FNPRM Comment Period End | 03/14/12
Announcement of Effective Date | 04/25/12 | 77 FR 24632
2nd R&O | 05/22/13 | 78 FR 30226
R&O on Remand, Declaratory Ruling, and Order | 04/13/15 | 80 FR 19738
Next Action Undetermined

Regulatory Flexibility Analysis Required: Yes.

Agency Contact: Rosaline Crawford, Attorney, Disability Rights Office, Federal Communications Commission, 445 12th Street SW., Washington, DC 20554, Phone: 202 418-2075, Email: rosaline.crawford@fcc.gov.

RIN: 3060-AK00

288. Misuse of Internet Protocol (IP) Captioned Telephone Service; Telecommunications Relay Services and Speech-to-Speech Services; CG Docket No. 13-24

Legal Authority: 47 U.S.C. 151; 47 U.S.C. 154; 47 U.S.C. 225

Abstract: The FCC initiated this proceeding in its effort to ensure that IP CTS is available for eligible users only. In doing so, the FCC released an Interim Order and Notice of Proposed Rulemaking (NPRM) to address certain practices related to the provision and marketing of Internet Protocol Captioned Telephone Service (IP CTS). IP CTS is a form of relay service designed to allow people with hearing loss to speak directly to another party on a telephone call and to simultaneously listen to the other party and read captions of what that party is saying over an IP-enabled device. To ensure that IP CTS is provided efficiently to persons who need to use this service, this new Order establishes several requirements on a temporary basis from March 7, 2013, to September 3, 2013.

Timetable:

Action | Date | FR Cite
NPRM | 02/05/13 | 78 FR 8090
Order (Interim Rule) | 02/05/13 | 78 FR 8032
Order | 02/05/13 | 78 FR 8030
Announcement of Effective Date | 03/07/13 | 78 FR 14701
NPRM Comment Period End | 03/12/13
R&O | 08/30/13 | 78 FR 53684
FNPRM | 09/30/13 | 78FR 54201
FNPRM Comment Period End | 11/18/13
Petition for Reconsideration Request for Comment | 12/16/13 | 78 FR 76097
Petiton for Reconsideration Comment Period End | 01/10/14
Announcement of Effective Date | 08/28/14 | 79 FR 51446
Correction—Announcement of Effective Date | 08/28/14 | 79 FR 51450
Technical Amendments | 09/09/14 | 79 FR 53303
Next Action Undetermined

Regulatory Flexibility Analysis Required: Yes.

Agency Contact: Eliot Greenwald, Deputy Chief, Disability Rights Office, Federal Communications Commission, 445 12th Street SW., Washington, DC 20554, Phone: 202 418-2235, Email: eliot.greenwald@fcc.gov.

RIN: 3060-AK01

289. • Transition From TTY to Real-Time Text Technology (GN Docket No. 15-178)

Legal Authority: Pub. L. 111-260, sec. 106; 47 U.S.C. 154(i); 47 U.S.C. 225; 225, 255, 301, 303(r), 316, 403, 615c, 616, 617; 47 U.S.C. 255; 47 U.S.C. 151; 47 U.S.C. 301; 47 U.S.C. 303(r); 47 U.S.C. 316; 47 U.S.C. 403; 47 U.S.C. 615(c); 47 U.S.C. 616; 47 U.S.C. 617

Abstract: On December 15, 2016, the Commission amended its rules to facilitate a transition from text telephone (TTY) technology to real-time text (RTT) as a reliable and interoperable universal text solution over wireless Internet protocol (IP) enabled networks for people who are deaf, hard of hearing, deaf-blind, or have a speech disability. RTT, which allows text characters to be sent as they are being created, can be sent simultaneously with voice, and permits the use of off-the-shelf end user devices to make text telephone calls. The Commission also sought comment on the application of RTT to telecommunications relay services (TRS) and sought further comment on a sunset date for TTY support, as well as other matters pertaining to the deployment of RTT.

Timetable:

Action | Date | FR Cite
NPRM | 05/25/16 | 81 FR 33170
NPRM Comment Period End | 07/25/16
FNPRM | 01/23/17 | 82 FR 7766
R&O | 01/23/17 | 82 FR 7699
Public Notice | 03/16/17 | 82 FR 13972
FNPRM Comment Period End | 03/24/17
Public Notice Comment Period End | 04/10/17
Next Action Undetermined

Regulatory Flexibility Analysis Required: Yes.

Agency Contact: Michael Scott, Attorney Advisor, Disability Rights Office, Federal Communications Commission, 445 12th Street SW., Washington, DC 20554, Phone: 202 418-1264, Email: michael.scott@fcc.gov.

RIN: 3060-AK58

FEDERAL COMMUNICATIONS COMMISSION (FCC)

Office of Engineering and Technology

Long-Term Actions

290. New Advanced Wireless Services (ET Docket No. 00-258)

Legal Authority: 47 U.S.C. 154(i); 47 U.S.C. 157(a); 47 U.S.C. 303(c); 47 U.S.C. 303(f); 47 U.S.C. 303(g); 47 U.S.C. 303(r)

Abstract: This proceeding explores the possible uses of frequency bands below 3 GHz to support the introduction of new advanced wireless services, including third generations as well as future generations of wireless systems. Advanced wireless systems could provide for a wide range of voice data and broadband services over a variety of mobile and fixed networks. The Third Notice of Proposed Rulemaking discusses the frequency bands that are still under consideration in this proceeding and invites additional comments on their disposition. Specifically, it addresses the Unlicensed Personal Communications Service (UPCS) band at 1910-1930 MHz, the Multipoint Distribution Service (MDS) spectrum at 2155-2160/62 MHz bands, the Emerging Technology spectrum, at 2160-2165 MHz, and the bands reallocated from MSS 91990-2000 MHz, 2020-2025 MHz, and 2165-2180 MHz. We seek comment on these bands with respect to using them for paired or unpaired Advance Wireless Service (AWS) operations or as relocation spectrum for existing services. The seventh Report and Order facilitates the introduction of Advanced Wireless Service (AWS) in the band 1710-1755 MHz—an integral part of a 90 MHz spectrum allocation recently reallocated to allow for such new and innovative wireless services. We largely adopt the proposals set forth in our recent AWS Fourth NPRM in this proceeding that are designed to clear the 1710-1755 MHz band of incumbent Federal Government operations that would otherwise impede the development of new nationwide AWS services. These actions are consistent with previous actions in this proceeding and with the United States Department of Commerce, National Telecommunications and Information Administration (NTIA) 2002 Viability Assessment, which addressed relocation and reaccommodation options for Federal Government operations in the band. The eighth Report and Order reallocated the 2155-2160 MHz band for fixed and mobile services and designates the 2155-2175 MHz band for Advanced Wireless Service (AWS) use. This proceeding continues the Commission's ongoing efforts to promote spectrum utilization and efficiency with regard to the provision of new services, including Advanced Wireless Services. The Order requires Broadband Radio Service (BRS) licensees in the 2150-2160/62 MHz band to provide information on the construction status and operational parameters of each incumbent BRS system that would be the subject of relocation. The Notice of Proposed Rule Making requested comments on the specific relocation procedures applicable to Broadband Radio Service (BRS) operations in the 2150-2160/62 MHz band, which the Commission recently decided will be relocated to the newly restructured 2495-2690 MHz band. The Commission also requested comments on the specific relocation procedures applicable to Fixed Microwave Service (FS) operations in the 2160-2175 MHz band. The Office of Engineering and Technology (OET) and the Wireless Telecommunications Bureau (WTB) set forth the specific data that Broadband Radio Service (BRS) licensees in the 2150-2160/62 MHz band must file along with the deadline date and procedures for filing this data on the Commission's Universal Licensing System (ULS). The data will assist in determining future AWS licensees' relocation obligations. The ninth Report and Order established procedures for the relocation of Broadband Radio Service (BRS) operations from the 2150-2160/62 MHz band, as well as for the relocation of Fixed Microwave Service (FS) operations from the 2160-2175 MHz band, and modified existing relocation procedures for the 2110-2150 MHz and 2175-2180 MHz bands. It also established cost-sharing rules to identify the reimbursement obligations for Advanced Wireless Service (AWS) and Mobile Satellite Service (MSS) entrants benefiting from the relocation of incumbent FS operations in the 2110-2150 MHz and 2160-2200 MHz bands and AWS entrants benefiting from the relocation of BRS incumbents in the 2150-2160/62 MHz band. The Commission continues its ongoing efforts to promote spectrum utilization and efficiency with regard to the provision of new services, including AWS. The Order dismisses a petition for reconsideration filed by the Wireless Communications Association International, Inc. (WCA) as moot. Two petitions for reconsideration were filed in response to the ninth Report and Order. The Report and Orders and Declaratory Ruling concludes the Commission's longstanding efforts to relocate the Broadcast Auxiliary Service (BAS) from the 1990-2110 MHz band to the 2025-2110 MHz band, freeing up 35 megahertz of spectrum in order to foster the development of new and innovative services. This decision addresses the outstanding matter of Sprint Nextel Corporation's (Sprint Nextel) inability to agree with Mobile Satellite Service (MSS) operators in the band on the sharing of the costs to relocate the BAS incumbents. To resolve this controversy, the Commission applied its time-honored relocation principles for emerging technologies previously adopted for the BAS band to the instant relocation process, where delays and unanticipated developments have left ambiguities and misconceptions among the relocating parties. In the process, the Commission balances the responsibilities for and benefits of relocating incumbent BAS operations among all the new entrants in the different services that will operate in the band. The Commission proposed to modify its cost-sharing requirements for the 2 GHz BAS band because the circumstances surrounding the BAS transition are very different than what was expected when the cost-sharing requirements were adopted. The Commission believed that the best course of action was to propose new requirements that would address the ambiguity of applying the literal language of the current requirements to the changed circumstances, as well as balance the responsibilities for and benefits of relocating incumbent BAS operations among all new entrants in the band based on the Commission's relocation policies set forth in the Emerging Technologies proceeding. The Commission proposed to eliminate, as of January 1, 2009, the requirement that Broadcast Auxiliary Service (BAS) licensees in the 30 largest markets and fixed BAS links in all markets be transitioned before the Mobile Satellite Service (MSS) operators can begin offering service. The Commission also sought comments on how to mitigate interference between new MSS entrants and incumbent BAS licensees who had not completed relocation before the MSS entrants begin offering service. In addition, the Commission sought comments on allowing MSS operators to begin providing service in those markets where BAS incumbents have been transitioned. In the Further Notice of Proposed Rule Making the Commission proposed to modify its cost-sharing requirements for the 2 GHz BAS band because the circumstances surrounding the BAS transition are very different than what was expected when the cost- sharing requirements were adopted. The Commission believes that the best course of action is to propose new requirements that will address the ambiguity of applying the literal language of the current requirements to the changed circumstances, as well as balance the responsibilities for and benefits of relocating incumbent BAS operations among all new entrants in the band based on the Commission's relocation policies set forth in the Emerging Technologies proceeding.

Timetable:

Action | Date | FR Cite
NPRM | 01/23/01 | 66 FR 7438
NPRM Comment Period End | 03/09/01
Final Report | 04/11/01 | 66 FR 18740
FNPRM | 09/13/01 | 66 FR 47618
MO&O | 09/13/01 | 66 FR 47591
First R&O | 10/25/01 | 66 FR 53973
Petition for Reconsideration | 11/02/01 | 66 FR 55666
Second R&O | 01/24/03 | 68 FR 3455
Third NPRM | 03/13/03 | 68 FR 12015
Seventh R&O | 12/29/04 | 69 FR 7793
Petition for Reconsideration | 04/13/05 | 70 FR 19469
Eighth R&O | 10/26/05 | 70 FR 61742
Order | 10/26/05 | 70 FR 61742
NPRM | 10/26/05 | 70 FR 61752
Public Notice | 12/14/05 | 70 FR 74011
Ninth R&O and Order | 05/24/06 | 71 FR 29818
Petition for Reconsideration | 07/19/06 | 71 FR 41022
FNPRM | 03/31/08 | 73 FR 16822
R&O and NPRM | 06/23/09 | 74 FR 29607
FNPRM | 06/23/09 | 74 FR 29607
5th R&O, 11th R&O, 6th R&O, and Declaratory Ruling | 11/02/10 | 75 FR 67227
Next Action Undetermined

Regulatory Flexibility Analysis Required: Yes.

Agency Contact: Rodney Small, Economist, Federal Communications Commission, Office of Engineering and Technology, 445 12th Street SW., Washington, DC 20554, Phone: 202 418-2452, Fax: 202 418-1944, Email: rodney.small@fcc.gov.

RIN: 3060-AH65

291. Exposure to Radiofrequency Electromagnetic Fields (ET Docket No. 10-97)

Legal Authority: 47 U.S.C. 151; 47 U.S.C. 302 and 303; 47 U.S.C. 309(j); 47 U.S.C. 336

Abstract: In the Report and Order the Federal Communications Commission (Commission) resolved several issues regarding compliance with its regulations for conducting environmental reviews under the National Environmental Policy Act (NEPA) as they relate to the guidelines for human exposure to RF electromagnetic fields. More specifically, the Commission clarifies evaluation procedures and references to determine compliance with its limits, including specific absorption rate (SAR) as a primary metric for compliance, consideration of the pinna (outer ear) as an extremity, and measurement of medical implant exposure. The Commission also elaborates on mitigation procedures to ensure compliance with its limits, including labeling and other requirements for occupational exposure classification, clarification of compliance responsibility at multiple transmitter sites, and labeling of fixed consumer transmitters.

In the Order, pursuant to the authority delegated by the Commission, FCC amends sections 15.31(a)(2) and 15.38(b)(2) of the Commission's rules to reference the 2013 version of the American National Standards Institute (ANSI) C63.17 standard, Methods of Measurement of the Electromagnetic and Operational Compatibility of Unlicensed Personal Communications Service (UPCS) Devices, ANSI C63.17-2013. This version of the standard supersedes ANSI C63.17-2006, which contains measurement procedures for verifying the compliance of UPCS devices (including wideband voice and data devices) that operate in the 1920-1930 MHz frequency band with applicable requirements regarding radio frequency (RF) emission levels and spectrum access procedures in part 15 subpart D of the Commission's rules.

Timetable:

Action | Date | FR Cite
NPRM | 09/08/03 | 68 FR 52879
NPRM Comment Period End | 12/08/03
R&O | 06/04/13 | 78 FR 33634
Petition for Recon | 08/27/13 | 78 FR 52893
Order | 01/21/15 | 80 FR 2836
Next Action Undetermined

Regulatory Flexibility Analysis Required: Yes.

Agency Contact: Ira Keltz, Electronics Engineer, Federal Communications Commission, Office of Engineering and Technology, 445 12th Street SW., Washington, DC 20554, Phone: 202 418-0616, Fax: 202 418-1944, Email: ikeltz@fcc.gov.

RIN: 3060-AI17

292. Unlicensed Operation in the TV Broadcast Bands (ET Docket No. 04-186)

Legal Authority: 47 U.S.C. 154(i); 47 U.S.C. 302; 47 U.S.C. 303(e) and 303(f); 47 U.S.C. 303(r); 47 U.S.C. 307

Abstract: The Commission adopted rules to allow unlicensed radio transmitters to operate in the broadcast television spectrum at locations where that spectrum is not being used by licensed services (this unused TV spectrum is often termed “white spaces”). This action will make a significant amount of spectrum available for new and innovative products and services, including broadband data and other services for businesses and consumers. The actions taken are a conservative first step that includes many safeguards to prevent harmful interference to incumbent communications services. Moreover, the Commission will closely oversee the development and introduction of these devices to the market and will take whatever actions may be necessary to avoid, and if necessary, correct any interference that may occur. The Second Memorandum Opinion and Order finalizes rules to make the unused spectrum in the TV bands available for unlicensed broadband wireless devices. This particular spectrum has excellent propagation characteristics that allow signals to reach farther and penetrate walls and other structures. Access to this spectrum could enable more powerful public Internet connections—super Wi-Fi hot spots—with extended range, fewer dead spots, and improved individual speeds as a result of reduced congestion on existing networks. This type of “opportunistic use” of spectrum has great potential for enabling access to other spectrum bands and improving spectrum efficiency. The Commission's actions here are expected to spur investment and innovation in applications and devices that will be used not only in the TV band, but eventually in other frequency bands as well. This Order addressed five petitions for reconsideration of the Commission's decisions in the Second Memorandum Opinion and Order (“Second MO&O”) in this proceeding and modified rules in certain respects. In particular, the Commission: (1) Increased the maximum height above average terrain (HAAT) for sites where fixed devices may operate; (2) modified the adjacent channel emission limits to specify fixed rather than relative levels; and (3) slightly increased the maximum permissible power spectral density (PSD) for each category of TV bands device. These changes will result in decreased operating costs for fixed TVBDs and allow them to provide greater coverage, thus increasing the availability of wireless broadband services in rural and underserved areas without increasing the risk of interference to incumbent services. The Commission also revised and amended several of its rules to better effectuate the Commission's earlier decisions in this docket and to remove ambiguities.

Timetable:

Action | Date | FR Cite
NPRM | 06/18/04 | 69 FR 34103
First R&O | 11/17/06 | 71 FR 66876
FNPRM | 11/17/06 | 71 FR 66897
R&O and MO&O | 02/17/09 | 74 FR 7314
Petitions for Reconsideration | 04/13/09 | 74 FR 16870
Second MO&O | 12/06/10 | 75 FR 75814
Petitions for Reconsideration | 02/09/11 | 76 FR 7208
3rd MO&O and Order | 05/17/12 | 77 FR 28236
Next Action Undetermined

Regulatory Flexibility Analysis Required: Yes.

Agency Contact: Hugh Van Tuyl, Electronics Engineer, Federal Communications Commission, Office of Engineering and Technology, 445 12th Street SW., Washington, DC 20554, Phone: 202 418-7506, Fax: 202 418-1944, Email: hugh.vantuyl@fcc.gov.

RIN: 3060-AI52

293. Fixed and Mobile Services in the Mobile Satellite Service (ET Docket No. 10-142)

Legal Authority: 47 U.S.C. 154(i) and 301; 47 U.S.C. 303(c) and 303(f); 47 U.S.C. 303(r) and 303(y); 47 U.S.C. 310

Abstract: The Notice of Proposed Rulemaking proposed to take a number of actions to further the provision of terrestrial broadband services in the MSS bands. In the 2 GHz MSS band, the Commission proposed to add co-primary Fixed and Mobile allocations to the existing Mobile-Satellite allocation. This would lay the groundwork for providing additional flexibility in use of the 2 GHz spectrum in the future. The Commission also proposed to apply the terrestrial secondary market spectrum leasing rules and procedures to transactions involving terrestrial use of the MSS spectrum in the 2 GHz, Big LEO, and L-bands in order to create greater certainty and regulatory parity with bands licensed for terrestrial broadband service. The Commission also asked, in a notice of inquiry, about approaches for creating opportunities for full use of the 2 GHz band for standalone terrestrial uses. The Commission requested comment on ways to promote innovation and investment throughout the MSS bands while also ensuring market-wide mobile satellite capability to serve important needs like disaster recovery and rural access.

In the Report and Order, the Commission amended its rules to make additional spectrum available for new investment in mobile broadband networks while also ensuring that the United States maintains robust mobile satellite service capabilities. First, the Commission adds co-primary Fixed and Mobile allocations to the Mobile Satellite Service (MSS) 2 GHz band, consistent with the International Table of Allocations, allowing more flexible use of the band, including for terrestrial broadband services, in the future. Second, to create greater predictability and regulatory parity with the bands licensed for terrestrial mobile broadband service, the Commission extends its existing secondary market spectrum manager spectrum leasing policies, procedures, and rules that currently apply to wireless terrestrial services to terrestrial services provided using the Ancillary Terrestrial Component (ATC) of an MSS system. Petitions for Reconsideration have been filed in the Commission's rulemaking proceeding concerning Fixed and Mobile Services in the Mobile Satellite Service Bands at 1525-1559 MHz and 1626.5-1660.5 MHz, 1610-1626.5 MHz and 2483.5-2500 MHz, and 2000-2020 MHz and 2180-2200 MHz, and published pursuant to 47 CFR 1.429(e). See 1.4(b)(1) of the Commission's rules.

Timetable:

Action | Date | FR Cite
NPRM | 08/16/10 | 75 FR 49871
NPRM Comment Period End | 09/15/10
Reply Comment Period End | 09/30/10
R&O | 05/31/11 | 76 FR 31252
Petitions for Reconsideration | 08/10/11 | 76 FR 49364
Next Action Undetermined

Regulatory Flexibility Analysis Required: Yes.

Agency Contact: Nicholas Oros, Electronics Engineer, Federal Communications Commission, 445 12th Street SW., Washington, DC 20554, Phone: 202 418-0636, Email: nicholas.oros@fcc.gov.

RIN: 3060-AJ46

294. Operation of Radar Systems in the 76-77 GHZ Band (ET Docket No. 11-90)

Legal Authority: 47 U.S.C. 151 to 152; 47 U.S.C. 154(i); 47 U.S.C. 301 to 302; 47 U.S.C. 303(f)

Abstract: The Commission proposed to amend its rules to enable enhanced vehicular radar technologies in the 76-77 GHz band to improve collision avoidance and driver safety. Vehicular radars can determine the exact distance and relative speed of objects in front of, beside, or behind a car to improve the driver's ability to perceive objects under bad visibility conditions or objects that are in blind spots. These modifications to the rules will provide more efficient use of spectrum, and enable the automotive and fixed radar application industries to develop enhanced safety measures for drivers and the general public. The Commission takes this action in response to petitions for rulemaking filed by Toyota Motor Corporation (“TMC”) and Era Systems Corporation (“Era”). The Report and Order amends the Commission's rules to provide a more efficient use of the 76-77 GHz band, and to enable the automotive and aviation industries to develop enhanced safety measures for drivers and the general public. Specifically, the Commission eliminated the in-motion and not-in-motion distinction for vehicular radars, and instead adopted new uniform emission limits for forward, side, and rear-looking vehicular radars. This will facilitate enhanced vehicular radar technologies to improve collision avoidance and driver safety. The Commission also amended its rules to allow the operation of fixed radars at airport locations in the 76-77 GHz band for purposes of detecting foreign object debris on runways and monitoring aircraft and service vehicles on taxiways and other airport vehicle service areas that have no public vehicle access. The Commission took this action in response to petitions for rulemaking filed by Toyota Motor Corporation (“TMC”) and Era Systems Corporation (“Era”). Petitions for Reconsideration were filed by Navtech Radar, Ltd. and Honeywell International Inc.

Navtech Radar, Ltd. and Honeywell International, Inc., filed petitions for reconsideration in response to the Vehicular Radar R&O that modified the Commission's part 15 rules to permit vehicular radar technologies and airport-based fixed radar applications in the 76-77 GHz band.

The Commission denied Honeywell's petition. Section 1.429(b) of the Commission's rules provides three ways in which a petition for reconsideration can be granted, and none of these have been met. Honeywell has not shown that its petition relies on facts regarding fixed radar use which had not previously been presented to the Commission, nor does it show that its petition relies on facts that relate to events that changed since Honeywell had the last opportunity to present its facts regarding fixed radar use.

The Commission stated in the Vehicular Radar R&O, “that no parties have come forward to support fixed radar applications beyond airport locations in this band,” and it decided not to adopt provisions for unlicensed fixed radar use other than those for FOD detection applications at airport locations. Because Navtech first participated in the proceeding when it filed its petition well after the decision was published, its petition fails to meet the timeliness standard of section 1.429(d).

In connection with the Commission's decision to deny the petitions for reconsideration discussed above, the Commission terminates ET Docket Nos. 10-28 and 11-90 (pertaining to vehicular radar).

Timetable:

Action | Date | FR Cite
NPRM | 06/16/11 | 76 FR 35176
R&O | 08/13/12 | 77 FR 48097
Petition for Reconconsideration | 11/11/12 | 77 FR 68722
Reconsideration Order | 03/06/15 | 80 FR 12120
Next Action Undetermined

Regulatory Flexibility Analysis Required: Yes.

Agency Contact: Aamer Zain, Federal Communications Commission, 445 12th Street SW., Washington, DC 20554, Phone: 202 418-2437, Email: aamer.zain@fcc.gov.

RIN: 3060-AJ68

295. Federal Earth Stations-Non Federal Fixed Satellite Service Space Stations; Spectrum for Non-Federal Space Launch Operations; ET Docket No. 13-115

Legal Authority: 47 U.S.C. 154; 47 U.S.C. 302(a); 47 U.S.C. 303; 47 U.S.C. 336

Abstract: The Notice of Proposed Rulemaking proposes to make spectrum allocation proposals for three different space-related purposes. The Commission makes two alternative proposals to modify the Allocation Table to provide interference protection for Fixed-Satellite Service (FSS) and Mobile-Satellite Service (MSS) earth stations operated by Federal agencies under authorizations granted by the National Telecommunications and Information Administration (NTIA) in certain frequency bands. The Commission also proposes to amend a footnote to the Allocation Table to permit a Federal MSS system to operate in the 399.9 to 400.05 MHz band; it also makes alternative proposals to modify the Allocation Table to provide access to spectrum on an interference protected basis to Commission licensees for use during the launch of launch vehicles (i.e. rockets). The Commission also seeks comment broadly on the future spectrum needs of the commercial space sector. The Commission expects that, if adopted, these proposals would advance the commercial space industry and the important role it will play in our Nation's economy and technological innovation now and in the future.

Timetable:

Action | Date | FR Cite
NPRM | 07/01/13 | 78 FR 39200
Next Action Undetermined

Regulatory Flexibility Analysis Required: Yes.

Agency Contact: Nicholas Oros, Electronics Engineer, Federal Communications Commission, 445 12th Street SW., Washington, DC 20554, Phone: 202 418-0636, Email: nicholas.oros@fcc.gov.

RIN: 3060-AK09

296. Authorization of Radiofrequency Equipment; ET Docket No. 13-44

Legal Authority: 47 U.S.C. 151; 47 U.S.C. 154(i); 47 U.S.C. 157(a); 47 U.S.C. 301; 47 U.S.C. 303(f); 47 U.S.C. 303(g); 47 U.S.C. 303(r); 47 U.S.C. 307(e); 47 U.S.C. 332

Abstract: The Commission is responsible for an equipment authorization program for radiofrequency (RF) devices under part 2 of its rules. This program is one of the primary means that the Commission uses to ensure that the multitude of RF devices used in the United States operate effectively without causing harmful interference and otherwise comply with the Commission rules. All RF devices subject to equipment authorization must comply with the Commission's technical requirement before they can be imported or marketed. The Commission or a Telecommunication Certification Body (TCB) must approve some of these devices before they can be imported or marketed, while others do not require such approval. The Commission last comprehensively reviewed its equipment authorization program more than 10 years ago. The rapid innovation in equipment design since that time has led to ever-accelerating growth in the number of parties applying for equipment approval. The Commission therefore believes that the time is now right for us to comprehensively review our equipment authorization processes to ensure that they continue to enable this growth and innovation in the wireless equipment market. In May of 2012, the Commission began this reform process by issuing an Order to increase the supply of available grantee codes. With this Notice of Proposed Rulemaking (NPRM), the Commission continues its work to review and reform the equipment authorization processes and rules. This Notice of Proposed Rulemaking proposes certain changes to the Commission's part 2 equipment authorization processes to ensure that they continue to operate efficiently and effectively. In particular, it addresses the role of TCBs in certifying RF equipment and post-market surveillance, as well as the Commission's role in assessing TCB performance. The NPRM also addressed the role of test laboratories in the RF equipment approval process, including accreditation of test labs and the Commission's recognition of laboratory accreditation bodies, and measurement procedures used to determine RF equipment compliance. Finally, it proposes certain modifications to the rules regarding TCBs that approve terminal equipment under part 68 of the rules that are consistent with our proposed modifications to the rules for TCBs that approve RF equipment. Specifically, the Commission proposes to recognize the National Institute for Standards and Technology (NIST) as the organization that designates TCBs in the United States and to modify the rules to reference the current International Organization for Standardization and International Electrotechnical Commission (ISO/IEC) guides used to accredit TCBs.

This Report and Order updates the Commission's radiofrequency (RF) equipment authorization program to build on the success realized by its use of Commission-recognized Telecommunications Certification Bodies (TCBs). The rules the Commission is adopting will facilitate the continued rapid introduction of new and innovative products to the market while ensuring that these products do not cause harmful interference to each other or to other communications devices and services.

Timetable:

Action | Date | FR Cite
NPRM | 05/03/13 | 78 FR 25916
R&O | 06/12/15 | 80 FR 33425
Memorandum, Opinion & Order | 06/29/16 | 81 FR 42264
Next Action Undetermined

Regulatory Flexibility Analysis Required: Yes.

Agency Contact: Hugh Van Tuyl, Electronics Engineer, Federal Communications Commission, Office of Engineering and Technology, 445 12th Street SW., Washington, DC 20554, Phone: 202 418-7506, Fax: 202 418-1944, Email: hugh.vantuyl@fcc.gov.

RIN: 3060-AK10

297. Operation of Radar Systems in the 76-77 GHZ Band (ET Docket No. 15-26)

Legal Authority: 47 U.S.C. 1; 47 U.S.C. 4(i); 47 U.S.C. 154(i); 47 U.S.C. 302; 47 U.S.C. 303(f); 47 U.S.C. 303(r); 47 U.S.C. 332; 47 U.S.C. 337

Abstract: The Notice of Proposed Rulemaking proposes to authorize radar applications in the 76-81 GHz band. The Commission seeks to develop a flexible and streamlined regulatory framework that will encourage efficient, innovative uses of the spectrum and to allow various services to operate on an interference-protected basis. In doing so, it further seeks to adopt service rules that will allow for the deployment of the various radar applications in this band, both within and outside the U.S. The Commission takes this action in response to a petition for rulemaking filed by Robert Bosch, LLC (Bosch) and two petitions for reconsideration of the 2012 Vehicular Radar R&O.

Timetable:

Action | Date | FR Cite
NPRM | 03/06/15 | 80 FR 12120
NPRM Comment Period End | 04/06/15
NPRM Reply Comment Period End | 04/20/15
Next Action Undetermined

Regulatory Flexibility Analysis Required: Yes.

Agency Contact: Aamer Zain, Federal Communications Commission, 445 12th Street SW., Washington, DC 20554, Phone: 202 418-2437, Email: aamer.zain@fcc.gov.

RIN: 3060-AK29

298. Spectrum Access for Wireless Microphone Operations (GN Docket Nos. 14-166 and 12-268)

Legal Authority: 47 U.S.C. 151; 47 U.S.C. 154(i); 47 U.S.C. 157(a); 47 U.S.C. 301; 47 U.S.C. 303(f); 47 U.S.C. 303(g); 47 U.S.C. 303(r); 47 U.S.C. 307(e); 47 U.S.C. 332

Abstract: The Notice of Proposed Rule Making initiated a proceeding to address how to accommodate the long-term needs of wireless microphone users. Wireless microphones play an important role in enabling broadcasters and other video programming networks to serve consumers, including as they cover breaking news and broadcast live sports events. They enhance event productions in a variety of settings including theaters and music venues, film studios, conventions, corporate events, houses of worship, and internet webcasts. They also help create high quality content that consumers demand and value. Recent actions by the Commission, and in particular the repurposing of broadcast television band spectrum for wireless services set forth in the Incentive Auction R&O, will significantly alter the regulatory environment in which wireless microphones operate, which necessitates our addressing how to accommodate wireless microphone users in the future.

In the Report and Order, the Commission takes several steps to accommodate the long-term needs of wireless microphone users. Wireless microphones play an important role in enabling broadcasters and other video programming networks to serve consumers, including as they cover breaking news and live sports events. They enhance event productions in a variety of settings including theaters and music venues, film studios, conventions, corporate events, houses of worship, and internet webcasts. They also help create high quality content that consumers demand and value. In particular, the Commission provide additional opportunities for wireless microphone operations in the TV bands following the upcoming incentive auction, and the Commission provide new opportunities for wireless microphone operations to access spectrum in other frequency bands where they can share use of the bands without harming existing users.

Timetable:

Action | Date | FR Cite
NPRM | 11/21/14 | 79 FR 69387
NPRM Comment Period End | 01/05/15 |
NPRM Reply Comment Period End | 01/26/15 |
R&O | 11/17/15 | 80 FR 71702
Next Action Undetermined |  |

Regulatory Flexibility Analysis Required: Yes.

Agency Contact: Paul Murray, Attorney Advisor, Federal Communications Commission, Office of Engineering and Technology, 445 12th Street SW., Washington, DC 20554, Phone: 202 418-0688, Fax: 202 418-7447, Email: paul.murray@fcc.gov.

RIN: 3060-AK30

FEDERAL COMMUNICATIONS COMMISSION (FCC)

Office of Engineering and Technology

Completed Actions

299. Radio Experimentation and Market Trials Under Part 5 of the Commission's Rules and Streamlining Other Related Rules (ET Docket No. 10-236)

Legal Authority: 47 U.S.C. 154(i); 47 U.S.C. 301 and 303

Abstract: The Commission initiated this proceeding to promote innovation and efficiency in spectrum use in the Experimental Radio Service (ERS). For many years, the ERS has provided fertile ground for testing innovative ideas that have led to new services and new devices for all sectors of the economy. The Commission proposed to leverage the power of experimental radio licensing to accelerate the rate at which these ideas transform from prototypes to consumer devices and services. Its goal is to inspire researchers to dream, discover, and deliver the innovations that push the boundaries of the broadband ecosystem. The resulting advancements in devices and services available to the American public and greater spectrum efficiency over the long term will promote economic growth, global competitiveness, and a better way of life for all Americans.

In the Report and Order (R&O), the Commission revised and streamlined its rules to modernize the Experimental Radio Service (ERS). The rules adopted in the R&O updated the ERS to a more flexible framework to keep pace with the speed of modern technological change while continuing to provide an environment where creativity can thrive. To accomplish this transition, the Commission created three new types of ERS licenses—the program license, the medical testing license, and the compliance testing license—to benefit the development of new technologies, expedite their introduction to the marketplace, and unleash the full power of innovators to keep the United States at the forefront of the communications industry. The Commission's actions also modified the market trial rules to eliminate confusion and more clearly articulate its policies with respect to marketing products prior to equipment certification. The Commission believes that these actions will remove regulatory barriers to experimentation, thereby permitting institutions to move from concept to experimentation to finished product more rapidly and to more quickly implement creative problem-solving methodologies.

The Memorandum Opinion and Order responds to three petitions for reconsideration seeking to modify certain rules adopted in the Report and Order in this proceeding. In response, the Commission modifies its rules, consistent with past practice, to permit conventional Experimental Radio Service (ERS) licensees and compliance testing licensees to use bands exclusively allocated to the passive services in some circumstances; clarifies that some cost recovery is permitted for the testing and operation of experimental medical devices that take place under its market trial rules; and adds a definition of emergency notification providers to its rules to clarify that all participants in the Emergency Alert System (EAS) are such providers. However, the Commission declines to expand the eligibility for medical testing licenses.

In the Further Notice of Proposed Rulemaking the Commission proposes to modify the rules for program experimental licenses to permit experimentation for radio frequency (RF)-based medical devices, if the device being tested is designed to comply with all applicable service rules in part 18, Industrial, Scientific, and Medical Equipment; part 95, Personal Radio Services subpart H Wireless Medical Telemetry Service; or part 95, subpart I Medical Device Radiocommunication Service. This proposal is designed to establish parity between all qualified medical device manufacturers for conducting basic research and clinical trials with RF-based medical devices as to permissible frequencies of operation.

This Memorandum Opinion and Order responds to three petitions for reconsideration seeking to modify certain rules adopted in the Report and Order in this proceeding. In response, the Commission modifies its rules, consistent with past practice, to permit conventional Experimental Radio Service (ERS) licensees and compliance testing licensees to use bands exclusively allocated to the passive services in some circumstances; clarifies that some cost recovery is permitted for the testing and operation of experimental medical devices that take place under its market trial rules; and adds a definition of emergency notification providers: to its rules to clarify that all participants in the Emergency Alert System (EAS) are such providers. However, the Commission declines to expand the eligibility for medical testing licenses.

Timetable:

Action | Date | FR Cite
NPRM | 02/08/11 | 76 FR 6928
NPRM Comment Period End | 03/10/11 |
R&O | 04/29/13 | 78 FR 25138
FNPRM | 08/31/15 | 80 FR 52437
MO&O | 08/31/15 | 80 FR 52408
2nd R&O | 07/25/16 | 81 FR 48362

Regulatory Flexibility Analysis Required: Yes.

Agency Contact: Nnake Nweke, Chief, Experimental Licensing Branch, Federal Communications Commission, Office of Engineering and Technology, 445 12th Street SW., Washington, DC 20554, Phone: 202 418-0785, Email: nnake.nweke@fcc.gov.

RIN: 3060-AJ62

300. WRC-07 Implementation (ET Docket No. 12-338)

Legal Authority: 47 U.S.C. 151; 47 U.S.C. 154; 47 U.S.C. 301; 47 U.S.C. 302(a); 47 U.S.C. 303

Abstract: In the Notice of Proposed Rulemaking (NPRM), the Commission proposed to amend parts 1, 2, 74, 78, 87, 90, and 97 of its rules to implement allocation decisions from the World Radiocommunication Conference (Geneva, 2007) (WRC 07) concerning portions of the radio frequency (RF) spectrum between 108 MHz and 20.2 GHz and to make certain updates to its rules in this frequency range. The NPRM follows the Commission's July 2010 WRC-07 Table Clean-up Order, 75 FR 62924, October 13, 2010, which made certain nonsubstantive, editorial revisions to the Table of Frequency Allocations (Allocation Table) and to other related rules. The Commission also addressed the recommendations for implementation of the WRC-07 Final Acts that the National Telecommunications and Information Administration (NTIA) submitted to the Commission in August 2009. As part of its comprehensive review of the Allocation Table, the Commission also proposed to make allocation changes that are not related to the WRC-07 Final Acts and update certain service rules, and requested comment on other allocation issues that concern portions of the RF spectrum between 137.5 kHz and 54.25 GHz.

In the Report and Order the Commission implemented allocation changes from the World Radiocommunication Conference (Geneva, 2007) (WRC-07) and updated related service rules. The Commission took this action in order to conform its rules, to the extent practical, to the decisions that the international community made at WRC-07. This action will promote the advancement of new and expanded services and provide significant benefits to the American people. In addition, the Commission revised the International Table of Frequency Allocations within its rules to generally reflect the allocation changes made at the World Radiocommunication Conference (Geneva, 2012) (WRC-12).

Timetable:

Action | Date | FR Cite
NPRM | 12/27/12 | 77 FR 76250
NPRM Comment Period End | 02/25/13 |
Report and Order | 04/23/15 | 80 FR 38811

Regulatory Flexibility Analysis Required: Yes.

Agency Contact: Tom Mooring, Electronics Engineer, Federal Communications Commission, Office of Engineering and Technology, 445 12th Street SW., Washington, DC 20554, Phone: 202 418-2450, Fax: 202 418-1944, Email: tom.mooring@fcc.gov.

RIN: 3060-AJ93

FEDERAL COMMUNICATIONS COMMISSION (FCC)

International Bureau

Final Rule Stage

301. Comprehensive Review of Licensing and Operating Rules for Satellite Services (IB Docket No. 12-267)

Legal Authority: 47 U.S.C. 154(i); 47 U.S.C. 157(a); 47 U.S.C. 161; 47 U.S.C. 303(c); 47 U.S.C. 303(g); 47 U.S.C. 303(r)

Abstract: The Commission adopted a Notice of Proposed Rulemaking (NPRM) to initiate a comprehensive review of part 25 of the Commission's rules, which governs the licensing and operation of space stations and earth stations. The Commission proposed amendments to modernize the rules to better reflect evolving technology, to eliminate unnecessary technical and information filing requirements, and to reorganize and simplify existing requirements. In the ensuing Report and Order, the Commission adopted most of its proposed changes and revised over 150 rule provisions. Several proposals raised by commenters in the proceeding, however, were not within the scope of the original NPRM. To address these and other issues, the Commission released a Further Notice of Proposed Rulemaking (FNPRM). The FNPRM proposed additional rule changes to facilitate international coordination of proposed satellite networks, to revise system implementation milestones and the associated bond, and to expand the applicability of routine licensing standards. Following the FNPRM, the Commission issued a Second Report and Order adopting most of its proposals in the FNPNRM. Among other changes, the Commission established a two-step licensing procedure for most geostationary satellite applicants to facilitate international coordination, simplified the satellite development milestones, adopted an escalating bond requirement to discourage speculation, and refined the two-degree orbital spacing policy for most geostationary satellites to protect existing services. In addition, in May 2016, the International Bureau published a Public Notice inviting comment on the appropriate implementation schedule for a Carrier Identification requirement adopted in the first Report and Order in this proceeding.

Timetable:

Action | Date | FR Cite
NPRM | 11/08/12 | 77 FR 67172
NPRM Comment Period End | 02/13/13 |
Report and Order | 02/12/14 | 79 FR 8308
FNPRM | 10/31/14 | 79 FR 65106
FNPRM Comment Period End | 03/02/15 |
Public Notice | 05/31/16 | 81 FR 34301
2nd R&O | 08/18/16 | 81 FR 55316
Order on Recon | 12/00/17 |

Regulatory Flexibility Analysis Required: Yes.

Agency Contact: Clay DeCell, Attorney Advisor, Federal Communications Commission, 445 12th Street SW., Washington, DC 20554, Phone: 202 418-0803, Email: clay.decell@fcc.gov.

RIN: 3060-AJ98

FEDERAL COMMUNICATIONS COMMISSION (FCC)

International Bureau

Long-Term Actions

302. International Settlements Policy Reform (IB Docket No. 11-80)

Legal Authority: 47 U.S.C. 151 to 152; 47 U.S.C. 154; 47 U.S.C. 201 to 205; 47 U.S.C. 208; 47 U.S.C. 211; 47 U.S.C. 214; 47 U.S.C. 303(r); 47 U.S.C. 309; 47 U.S.C. 403

Abstract: The FCC is reviewing the International Settlements Policy (ISP). It governs how U.S. carriers negotiate with foreign carriers for the exchange of international traffic, and is the structure by which the Commission has sought to respond to concerns that foreign carriers with market power are able to take advantage of the presence of multiple U.S. carriers serving a particular market. In 2011, the FCC released an NPRM which proposed to further deregulate the international telephony market and enable U.S. consumers to enjoy competitive prices when they make calls to international destinations. First, it proposed to remove the ISP from all international routes, except Cuba. Second, the FCC sought comment on a proposal to enable the Commission to better protect U.S. consumers from the effects of anticompetitive conduct by foreign carriers in instances necessitating Commission intervention. In 2012, the FCC adopted a Report and Order which eliminated the ISP on all routes, but maintained the nondiscrimination requirement of the ISP on the U.S.-Cuba route and codified it at 47 CFR 63.22(f). In the Report and Order the FCC also adopted measures to protect U.S. consumers from anticompetitive conduct by foreign carriers. In 2016, the FCC released an FNPRM proposing to remove the nondiscrimination requirement on the U.S.-Cuba route.

Timetable:

Action | Date | FR Cite
NPRM | 05/13/11 | 76 FR 42625
NPRM Comment Period End | 09/02/11 |
Report and Order | 02/15/13 | 78 FR 11109
FNPRM | 03/04/16 | 81 FR 11500
FNPRM Comment Period End | 04/18/16 |
Next Action Undetermined |  |

Regulatory Flexibility Analysis Required: Yes.

Agency Contact: David Krech, Assoc. Chief, Telecommunications & Analysis Div., Federal Communications Commission, International Bureau, 445 12th Street SW., Washington, DC 20554, Phone: 202 418-7443, Fax: 202 418-2824, Email: david.krech@fcc.gov.

RIN: 3060-AJ77

303. Expanding Broadband and Innovation Through Air-Ground Mobile Broadband Secondary Service for Passengers Aboard Aircraft in the 14.0-14.5 GHz Band; GN Docket No. 13-114

Legal Authority: 47 U.S.C. 151 to 152; 47 U.S.C. 154(i); 47 U.S.C. 301 to 303; 47 U.S.C. 324

Abstract: In this docket, the Commission establishes a secondary allocation for the Aeronautical Mobile Service in the 14.0-14.5 GHz band and establishes service, technical, and licensing rules for air-ground mobile broadband. The Notice of Proposed Rulemaking requests public comment on a secondary allocation and service, technical, and licensing rules for air-ground mobile broadband.

Timetable:

Action | Date | FR Cite
NPRM (Release Date) | 05/09/13
Next Action Undetermined

Regulatory Flexibility Analysis Required: Yes.

Agency Contact: Sean O'More, Attorney Advisor, Federal Communications Commission, International Bureau, 445 12th Street SW., Washington, DC 20554, Phone: 202 418-2453, Email: sean.omore@fcc.gov.

RIN: 3060-AK02

304. Terrestrial Use of the 2473-2495 MHz Band for Low-Power Mobile Broadband Networks; Amendments to Rules of Mobile Satellite Service System; IB Docket No. 13-213

Legal Authority: 47 U.S.C. 154(i); 47 U.S.C. 157(a); 47 U.S.C. 302(a); 47 U.S.C. 303(c); 47 U.S.C. 303(e); 47 U.S.C. 303(f); 47 U.S.C. 303(g); 47 U.S.C. 303(j); 47 U.S.C. 303(r)

Abstract: In this docket, the Commission proposes modified rules for the operation of the Ancillary Terrestrial Component of the single Mobile-Satellite Service system operating in the Big GEO S band. The changes would allow Globalstar, Inc. to deploy a low-power broadband network using its licensed spectrum at 2483.5-2495 MHz under certain limited technical criteria, and with the same equipment utilize spectrum in the adjacent 2473-2483.5 MHz band, pursuant to technical rules for unlicensed operations in that band.

Timetable:

Action | Date | FR Cite
NPRM | 02/19/14 | 79 FR 9445
NPRM Comment Period End | 05/05/14
R&O | 01/31/17 | 82 FR 8814
Next Action Undetermined

Regulatory Flexibility Analysis Required: Yes.

Agency Contact: Stephen Duall, Chief, Satellite Policy Branch, Federal Communications Commission, International Bureau, 445 12th Street SW., Washington, DC 20554, Phone: 202 418-1103, Fax: 202 418-0748, Email: stephen.duall@fcc.gov.

RIN: 3060-AK16

305. Review of Foreign Ownership Policies for Broadcast, Common Carrier and Aeronautical Radio Licensees Under Section 310(B)(4) of the Communications Act of 1934, As Amended (Docket No. 15-236)

Legal Authority: 47 U.S.C. 151 to 152; 47 U.S.C. 154(i); 47 U.S.C. 154(j); 47 U.S.C. 211; 47 U.S.C. 303(r); 47 U.S.C. 309 to 310; 47 U.S.C. 403

Abstract: The FCC extended its foreign ownership rules and procedures that apply to common carrier licensees to broadcast licensees, with certain modifications to tailor them to the broadcast context. The FCC also revised the methodology a licensee should use to assess its compliance with the 25 percent foreign ownership benchmark in section 31 0(b)(4) of the Communications Act of 1934, as amended, in order to reduce regulatory burdens on applicants and licensees. Finally, the FCC clarified and updated existing foreign ownership policies and procedures for broadcast, common carrier and aeronautical licensees. Notice of a petition for reconsideration of the proceeding was published in the Federal Register on February 1, 2017.

Timetable:

Action | Date | FR Cite
NPRM | 11/06/15 | 80 FR 68815
NPRM Comment Period End | 01/20/16
R&O | 12/01/16 | 81 FR 86586
R&O PRA | 12/29/16 | 81 FR 95993
Petition for Recon | 02/01/17 | 82 FR 8907
Technical Amendment | 03/06/17 | 82 FR 12512
PRA Notice | 03/06/17 | 82 FR 12592
Next Action Undetermined

Regulatory Flexibility Analysis Required: Yes.

Agency Contact: Kimberly Cook, Attorney Advisor, Federal Communications Commission, 445 12th Street SW., Washington, DC 20554, Phone: 202 418-7532, Email: kimberly.cook@fcc.gov.

RIN: 3060-AK47

306. • Update to Parts 2 and 25 Concerning Nongeostationary, Fixed-Satellite Service Systems and Related Matters; IB Docket No. I6-408

Legal Authority: 47 U.S.C. 154(i); 47 U.S.C. 303; 47 U.S.C. 316

Abstract: On January 11, 2017, the Commission began a rulemaking to update its rules and policies concerning non-geostationary-satellite orbit (NGSO), fixed-satellite service (FSS) systems and related matters. The proposed changes would, among other things, provide for more flexible use of the 17.8-20.2 GHz bands for FSS, promote shared use of spectrum among NGSO FSS satellite systems, and remove unnecessary design restrictions on NGSO FSS systems.

Timetable:

Action | Date | FR Cite
NPRM | 01/11/17 | 82 FR 3258
NPRM Comment Period End | 04/10/17
Next Action Undetermined

Regulatory Flexibility Analysis Required: Yes.

Agency Contact: Clay DeCell, Attorney Advisor, Federal Communications Commission, 445 12th Street SW., Washington, DC 20554, Phone: 202 418-0803, Email: clay.decell@fcc.gov.

RIN: 3060-AK59

FEDERAL COMMUNICATIONS COMMISSION (FCC)

International Bureau

Completed Actions

307. Space Station Licensing Reform (IB Docket No. 02-34)

Legal Authority: 47 U.S.C. 154(i); 47 U.S.C. 157; 47 U.S.C. 303(c); 47 U.S.C. 303(g)

Abstract: In 2002, the Commission released a Notice of Proposed Rulemaking to streamline its procedures for reviewing satellite license applications. The Commission invited comment on alternatives to the processing round” procedure for licensing satellite systems, under which the Commission considered all competing applications at the same time and resolved mutual exclusivity through often lengthy negotiations by the applicants. In the First Report and Order, the Commission adopted a first-come, first-served licensing procedure for most geostationary orbit (GSO) satellite applications, and a modified processing round procedure for most non-geostationary orbit (NGSO) satellite applications. Under the modified processing round procedure, the available spectrum would be divided evenly among the qualified applicants without the need for negotiations. The Commission also adopted measures to discourage speculation, including to require a bond on most satellite licensees, payable if the licensee misses a milestone. The bond amounts were originally set at $5 million for each GSO satellite and $7.5 million for each NGSO satellite system. Concurrently with the First Report and Order, the Commission adopted a Further Notice of Proposed Rulemaking inviting comment on whether to revise the bond amounts on a long-term basis. In a Second Report and Order, the Commission adopted a streamlined procedure for certain kinds of modified satellite operations.

In a Third Report and Order, the Commission adopted a standardized application form for satellite licenses, and adopted a mandatory electronic filing requirement for certain satellite applications. In a Fourth Report and Order, the Commission extended mandatory electronic filing to all satellite and earth station applications, and implemented two measures that allow space station operators to make certain changes to their systems without prior regulatory approval. In a Fifth Report and Order and First Order on Reconsideration, the Commission denied certain petitions for reconsideration of the First Report and Order and revised the bond amounts from $5 million to $3 million for each GSO satellite and from $7.5 million to $5 million for each NGSO satellite system. In a Second Order on Reconsideration, the Commission eliminated a presumption that at least three satellite licensees were necessary in a processing round to make reasonably efficient use of the available spectrum and amended its rules governing transfers of control of non-U.S.-licensed space stations.

Timetable:

Action | Date | FR Cite
NPRM | 03/19/02 | 67 FR 12498
NPRM Comment Period End | 07/02/02
Second R&O | 11/03/03 | 68 FR 62247
Second FNPRM | 09/12/03 | 68 FR 53702
Third R&O | 11/12/03 | 68 FR 63994
FNPRM | 08/27/03 | 68 FR 51546
First R&O | 08/27/03 | 68 FR 51499
FNPRM Comment Period End | 10/27/03
Fourth R&O | 08/06/04 | 69 FR 47790
Fifth R&O, First Order on Reconsideration | 08/20/04 | 69 FR 51586
2nd Order on Reconsideration | 10/31/16 | 81 FR 75338

Regulatory Flexibility Analysis Required: Yes.

Agency Contact: Clay DeCell, Attorney Advisor, Federal Communications Commission, 445 12th Street SW., Washington, DC 20554, Phone: 202 418-0803, Email: clay.decell@fcc.gov.

RIN: 3060-AH98

FEDERAL COMMUNICATIONS COMMISSION (FCC)

Media Bureau

Proposed Rule Stage

308. • Authorizing Permissive Use of the “Next Generation” Broadcast Television Standard (GN Docket No. 16-142)

Legal Authority: 47 U.S.C. 151; 47 U.S.C. 154; 47 U.S.C. 157; 47 U.S.C. 301; 47 U.S.C. 303; 47 U.S.C. 307; 47 U.S.C. 308; 47 U.S.C. 309; 47 U.S.C. 316; 47 U.S.C. 319; 47 U.S.C. 325(b); 47 U.S.C. 336; 47 U.S.C. 399(b); 47 U.S.C. 403; 47 U.S.C. 534; 47 U.S.C. 535

Abstract: In this proceeding, the Commission proposes to authorize television broadcasters to use the “Next Generation” ATSC 3.0 broadcast television transmission standard on a voluntary, market-driven basis, while they continue to deliver current-generation digital television broadcast service to their viewers. The Commission seeks to adopt rules that will afford broadcasters flexibility to deploy ATSC 3.0-based transmissions, while minimizing the impact on, and costs to, consumers and other industry stakeholders.

Timetable:

Action | Date | FR Cite
NPRM | 03/10/17 | 82 FR 13285
NPRM Comment Period End | 05/09/17

Regulatory Flexibility Analysis Required: Yes.

Agency Contact: Evan Baranoff, Attorney, Policy Division, Federal Communications Commission, Media Bureau, 445 12th Street SW., Washington, DC 20554, Phone: 202 418-7142, Email: evan.baranoff@fcc.gov.

RIN: 3060-AK56

FEDERAL COMMUNICATIONS COMMISSION (FCC)

Media Bureau

Final Rule Stage

309. Channel Sharing by Full Power and Class A Stations Outside of the Incentive Auction Context; (MB Docket No. 15-137)

Legal Authority: 47 U.S.C. 151; 47 U.S.C. 154; 47 U.S.C. 301; 47 U.S.C. 303; 47 U.S.C. 307 to 310; 47 U.S.C. 316; 47 U.S.C. 319; 47 U.S.C. 338; 47 U.S.C. 403; 47 U.S.C. 614 to 615

Abstract: In this proceeding, the Commission considers rules to enable full power and Class A television stations to share a channel with another licensee outside of the incentive auction context.

Timetable:

Action | Date | FR Cite
NPRM | 07/14/15 | 80 FR 40957
NPRM Comment Period End | 08/13/15
NPRM Reply Comment Period End | 08/28/15
1st Order on Recon | 11/02/15 | 80 FR 67337
2nd Order on Recon | 11/12/15 | 80 FR 67344
R&O (Released 03/24/2017) | 12/00/17

Regulatory Flexibility Analysis Required: Yes.

Agency Contact: Kim Matthews, Attorney, Policy Division, Federal Communications Commission, Media Bureau, 445 12th Street SW., Washington, DC 20554, Phone: 202 418-2154, Fax: 202 418-2053, Email: kim.matthews@fcc.gov.

RIN: 3060-AK42

FEDERAL COMMUNICATIONS COMMISSION (FCC)

Media Bureau

Long-Term Actions

310. Broadcast Ownership Rules

Legal Authority: 47 U.S.C. 151; 47 U.S.C. 152(a); 47 U.S.C. 154(i); 47 U.S.C. 303; 47 U.S.C. 307; 47 U.S.C. 309 and 310

Abstract: Section 202(h) of the Telecommunications Act of 1996 requires the Commission to review its ownership rules every four years and determine whether any such rules are necessary in the public interest as the result of competition. Accordingly, every four years, the Commission undertakes a comprehensive review of its broadcast multiple and cross-ownership limits examining: Cross-ownership of TV and radio stations; local TV ownership limits; national TV cap; and dual network rule. The last review undertaken was the 2014 review. The Commission incorporated the record of the 2010 review, and sought additional data on market conditions and competitive indicators. The Commission also sought comment on whether to eliminate restrictions on newspaper/radio combined ownership and whether to eliminate the radio/television cross-ownership rule in favor of reliance on the local radio rule and the local television rule. Ultimately, the Commission retained the existing rules with modifications to account for the digital television transition. Petitions for reconsideration are pending.

Timetable:

Action | Date | FR Cite
NPRM | 10/05/01 | 66 FR 50991
R&O | 08/05/03 | 68 FR 46286
Public Notice | 02/19/04 | 69 FR 9216
FNPRM | 08/09/06 | 71 FR 4511
Second FNPRM | 08/08/07 | 72 FR 44539
R&O and Order on Reconsideration | 02/21/08 | 73 FR 9481
Notice of Inquiry | 06/11/10 | 75 FR 33227
NPRM | 01/19/12 | 77 FR 2868
NPRM Comment Period End | 03/19/12
FNPRM | 05/20/14 | 79 FR 29010
2nd R&O | 11/01/16 | 81 FR 76220
Next Action Undetermined

Regulatory Flexibility Analysis Required: Yes.

Agency Contact: Brendan Holland, Chief, Industry Analysis Div., Media Bureau, Federal Communications Commission, 445 12th Street SW., Washington, DC 20554, Phone: 202 418-2757, Email: brendan.holland@fcc.gov.

RIN: 3060-AH97

311. Establishment of Rules for Digital Low-Power Television, Television Translator, and Television Booster Stations (MB Docket No. 03-185)

Legal Authority: 47 U.S.C. 309; 47 U.S.C. 336

Abstract: This proceeding initiated the digital television conversion for low-power television (LPTV) and television translator stations. The rules and policies adopted as a result of this proceeding provide the framework for these stations' conversion from analog to digital broadcasting.

The Report and Order adopts definitions and permissible use provisions for digital TV translator and LPTV stations. The Second Report and Order takes steps to resolve the remaining issues in order to complete the low-power television digital transition. The third Notice of Proposed Rulemaking seeks comment on a number of issues related to the potential impact of the incentive auction and the repacking process.

Timetable:

Action | Date | FR Cite
NPRM | 09/26/03 | 68 FR 55566
NPRM Comment Period End | 11/25/03
R&O | 11/29/04 | 69 FR 69325
FNPRM and MO&O | 10/18/10 | 75 FR 63766
2nd R&O | 07/07/11 | 76 FR 44821
3rd NPRM | 11/28/14 | 79 FR 70824
NPRM Comment Period End | 12/29/14
NPRM Comment Period End | 12/29/14
NPRM Reply Comment Period End | 01/12/15
3rd R&O | 02/01/16 | 81 FR 5041
4th NPRM | 02/01/16 | 81 FR 5086
Comment Period End | 02/22/16
Next Action Undetermined

Regulatory Flexibility Analysis Required: Yes.

Agency Contact: Shaun Maher, Attorney, Policy Division, Federal Communications Commission, Media Bureau, 445 12th Street SW., Washington, DC 20554, Phone: 202 418-2324, Fax: 202 418-2827, Email: shaun.maher@fcc.gov.

RIN: 3060-AI38

312. Promoting Diversification of Ownership in the Broadcast Services (MB Docket No. 07-294)

Legal Authority: 47 U.S.C. 151; 47 U.S.C. 152(a); 47 U.S.C. 154(i) and (j); 47 U.S.C. 257; 47 U.S.C. 303(r); 47 U.S.C. 307 to 310; 47 U.S.C. 336; 47 U.S.C. 534 and 535

Abstract: Diversity and competition are longstanding and important Commission goals. The measures proposed, as well as those adopted in this proceeding, are intended to promote diversity of ownership of media outlets. In the Report and Order and Third FNPRM, measures are enacted to increase participation in the broadcasting industry by new entrants and small businesses, including minority- and women-owned businesses. In the Report and Order and Fourth FNPRM, the Commission adopts improvements to its data collection in order to obtain an accurate and comprehensive assessment of minority and female broadcast ownership in the United States. The Memorandum Opinion & Order addressed petitions for reconsideration of the rules, and also sought comment on a proposal to expand the reporting requirements to non-attributable interests. In 2016, the Commission made improvements to the collection of data reported on Forms 323 and 323-E.

Pursuant to a remand from the Third Circuit, the measures adopted in the 2009 Diversity Order were put forth for comment in the NPRM for the 2010 review of the Commission's Broadcast Ownership rules. The Commission sought additional comment in 2014. The Commission addressed the remand in the 2016 Second Report and Order.

Timetable:

Action | Date | FR Cite
R&O | 05/16/08 | 73 FR 28361
Third FNPRM | 05/16/08 | 73 FR 28400
R&O | 05/27/09 | 74 FR 25163
Fourth FNPRM | 05/27/09 | 74 FR 25305
MO&O | 10/30/09 | 74 FR 56131
NPRM | 01/19/12 | 77 FR 2868
5th NPRM | 01/15/13 | 78 FR 2934
6th FNPRM | 01/15/13 | 78 FR 2925
FNPRM | 05/20/14 | 79 FR 29010
7th FNPRM | 02/26/15 | 80 FR 10442
Comment Period End | 03/30/15
Reply Comment Period End | 04/30/15
R&O | 04/04/16 | 81 FR 19432
2nd R&O | 11/01/16 | 81 FR 76220
Next Action Undetermined

Regulatory Flexibility Analysis Required: Yes.

Agency Contact: Brendan Holland, Chief, Industry Analysis Div., Media Bureau, Federal Communications Commission, 445 12th Street SW., Washington, DC 20554, Phone: 202 418-2757, Email: brendan.holland@fcc.gov.

RIN: 3060-AJ27

313. Closed Captioning of Internet Protocol-Delivered Video Programming: Implementation of the Twenty-First Century Communications and Video Accessibility Act of 2010 (MB Docket No. 11-154)

Legal Authority: 47 U.S.C. 154(i); 47 U.S.C. 154(j); 47 U.S.C. 303; 47 U.S.C. 330(b); 47 U.S.C. 613; 47 U.S.C. 617

Abstract: Pursuant to the Commission's responsibilities under the Twenty-First Century Communications and Video Accessibility Act of 2010, this proceeding was initiated to adopt rules to govern the closed captioning requirements for the owners, providers, and distributors of video programming delivered using Internet protocol.

Timetable:

Action | Date | FR Cite
NPRM | 09/28/11 | 76 FR 59963
R&O | 03/20/12 | 77 FR 19480
Order on Recon, FNPRM | 07/02/13 | 78 FR 39691
2nd Order on Recon | 08/05/14 | 79 FR 45354
2nd FNPRM | 08/05/14 | 79 FR 45397
Next Action Undetermined

Regulatory Flexibility Analysis Required: Yes.

Agency Contact: Maria Mullarkey, Attorney, Policy Division, Media Bureau, Federal Communications Commission, 445 12th Street SW., Washington, DC 20554, Phone: 202 418-1067, Email: maria.mullarkey@fcc.gov.

RIN: 3060-AJ67

314. Noncommercial Educational Station Fundraising for Third-Party Nonprofit Organizations (MB Docket No. 12-106)

Legal Authority: 47 U.S.C. 151; 47 U.S.C. 154(i); 47 U.S.C. 303(r); 47 U.S.C. 399(b)

Abstract: The proceeding was initiated to analyze the Commission's longstanding policy prohibiting noncommercial educational broadcast stations from conducting on-air fundraising activities that interrupt regular programming for the benefit of third-party nonprofit organizations.

Timetable:

Action | Date | FR Cite
NPRM | 06/22/12 | 77 FR 37638
NPRM Comment Period End | 07/23/12
Next Action Undetermined

Regulatory Flexibility Analysis Required: Yes.

Agency Contact: Mary Beth Murphy, Chief, Policy Division, Media Bureau, Federal Communications Commission, 445 12th Street SW., Washington, DC 20554, Phone: 202 418-2132, Email: marybeth.murphy@fcc.gov.

RIN: 3060-AJ79

315. Accessibility of User Interfaces and Video Programming Guides and Menus (MB Docket No. 12-108)

Legal Authority: 47 U.S.C. 151; 47 U.S.C. 154(i); 47 U.S.C. 303(r); 47 U.S.C. 303(aa); 47 U.S.C. 303(bb)

Abstract: This proceeding was initiated to implement sections 204 and 205 of the Twenty-First Century Communications and Video Accessibility Act. These sections generally require that user interfaces on digital apparatus and navigation devices used to view video programming be accessible to and usable by individuals who are blind or visually impaired.

Timetable:

Action | Date | FR Cite
NPRM | 06/18/13 | 78 FR 36478
NPRM Comment Period End | 07/15/13
R&O | 12/20/13 | 78 FR 77210
FNPRM | 12/20/13 | 78 FR 77074
2nd FNPRM | 02/04/16 | 81 FR 5971
2nd R&O | 02/04/16 | 81 FR 5921
Next Action Undetermined

Regulatory Flexibility Analysis Required: Yes.

Agency Contact: Maria Mullarkey, Attorney, Policy Division, Media Bureau, Federal Communications Commission, 445 12th Street SW., Washington, DC 20554, Phone: 202 418-1067, Email: maria.mullarkey@fcc.gov.

RIN: 3060-AK11

316. Revision to Public Inspection Requirement (MB Docket No. 16-161)

Legal Authority: 47 U.S.C. 154

Abstract: In this proceeding, the Commission eliminates two public inspection file requirements to reduce the regulatory burden on commercial broadcasters and cable operators.

Timetable:

Action | Date | FR Cite
NPRM | 06/22/16 | 81 FR 40617
Report and Order | 02/23/17 | 82 FR 11406
Next Action Undetermined

Regulatory Flexibility Analysis Required: Yes.

Agency Contact: Kim Matthews, Attorney, Policy Division, Federal Communications Commission, Media Bureau, 445 12th Street SW., Washington, DC 20554, Phone: 202 418-2154, Fax: 202 418-2053, Email: kim.matthews@fcc.gov.

RIN: 3060-AK50

FEDERAL COMMUNICATIONS COMMISSION (FCC)

Office of Managing Director

Long-Term Actions

317. Assessment and Collection of Regulatory Fees for Fiscal Year 2016

Legal Authority: 47 U.S.C. 159

Abstract: Section 9 of the Communications Act of 1934, as amended, 47 U.S.C. 159, requires the FCC to recover the cost of its activities by assessing and collecting annual regulatory fees from beneficiaries of the activities.

Timetable:

Action | Date | FR Cite
NPRM | 05/19/16
NPRM Comment Period End | 06/20/16
R&O | 09/26/16 | 81 FR 65926
Next Action Undetermined

Regulatory Flexibility Analysis Required: Yes.

Agency Contact: Roland Helvajian, Office of the Managing Director, Federal Communications Commission, 445 12th Street SW., Washington, DC 20554, Phone: 202 418-0444, Email: roland.helvajian@fcc.gov.

RIN: 3060-AK53

FEDERAL COMMUNICATIONS COMMISSION (FCC)

Public Safety and Homeland Security Bureau

Long-Term Actions

318. Revision of the Rules To Ensure Compatibility With Enhanced 911 Emergency Calling Systems (CC Docket No. 94-102; PS Docket No. 07-114)

Legal Authority: 47 U.S.C. 134(i); 47 U.S.C. 151; 47 U.S.C. 201; 47 U.S.C. 208; 47 U.S.C. 215; 47 U.S.C. 303; 47 U.S.C. 309

Abstract: In a series of orders in several related proceedings issued since 1996, the Federal Communications Commission has taken action to improve the quality and reliability of 911 emergency services for wireless phone users. Rules have been adopted governing the availability of basic 911 services and the implementation of enhanced 911 (E911) for wireless services.

Timetable:

Action | Date | FR Cite
FNPRM | 08/02/96 | 61 FR 40374
R&O | 08/02/96 | 61 FR 40348
MO&O | 01/16/98 | 63 FR 2631
Second R&O | 06/28/99 | 64 FR 34564
Third R&O | 11/04/99 | 64 FR 60126
Second MO&O | 12/29/99 | 64 FR 72951
Fourth MO&O | 10/02/00 | 65 FR 58657
FNPRM | 06/13/01 | 66 FR 31878
Order | 11/02/01 | 66 FR 55618
R&O | 05/23/02 | 67 FR 36112
Public Notice | 07/17/02 | 67 FR 46909
Order to Stay | 07/26/02
Order on Reconsideration | 01/22/03 | 68 FR 2914
FNPRM | 01/23/03 | 68 FR 3214
R&O, Second FNPRM | 02/11/04 | 69 FR 6578
Second R&O | 09/07/04 | 69 FR 54037
NPRM | 06/20/07 | 72 FR 33948
NPRM Comment Period End | 09/18/07
R&O | 02/14/08 | 73 FR 8617
Public Notice | 09/25/08 | 73 FR 55473
Comment Period End | 10/18/08
Public Notice | 11/18/09 | 74 FR 59539
Comment Period End | 12/04/09
FNPRM, NOI | 11/02/10 | 75 FR 67321
Second R&O | 11/18/10 | 75 FR 70604
Order, Comment Period Extension | 01/07/11 | 76 FR 1126
Comment Period End | 02/18/11
Final Rule | 04/28/11 | 76 FR 23713
NPRM | 08/04/11 | 76 FR 47114
Second FNPRM | 08/04/11 | 76 FR 47114
3rd R&O | 09/28/11 | 76 FR 59916
NPRM Comment Period End | 11/02/11
3rd FNPRM | 03/28/14 | 79 FR 17820
Order Extending Comment Period | 06/10/14 | 79 FR 33163
3rd FNPRM Comment Period End | 07/14/14
Public Notice (release date) | 11/20/14
Public Notice Comment Period End | 12/17/14
4th R&O | 03/04/15 | 80 FR 11806
Final Rule | 08/03/15 | 80 FR 45897
Next Action Undetermined

Regulatory Flexibility Analysis Required: Yes.

Agency Contact: Timothy May, Public Safety and Homeland Security Bureau, Federal Communications Commission, 445 12th Street SW., Washington, DC 20554, Phone: 202 418-1463, Email: timothy.may@fcc.gov.

RIN: 3060-AG34

319. Enhanced 911 Services for Wireline and Multi-Line Telephone Systems; PS Docket Nos. 10-255 and 07-114

Legal Authority: 47 U.S.C. 151; 47 U.S.C. 154(i); 47 U.S.C. 201; 47 U.S.C. 222; 47 U.S.C. 251

Abstract: The policies set forth in the Report and Order will assist State governments in drafting legislation that will ensure that multi-line telephone systems are compatible with the enhanced 911 network. The Public Notice seeks comment on whether the Commission, rather than States, should regulate multiline telephone systems, and whether part 68 of the Commission's rules should be revised.

Timetable:

Action | Date | FR Cite
NPRM | 10/11/94 | 59 FR 54878
FNPRM | 01/23/03 | 68 FR 3214
Second FNPRM | 02/11/04 | 69 FR 6595
R&O | 02/11/04 | 69 FR 6578
Public Notice | 01/13/05 | 70 FR 2405
Comment Period End | 03/29/05
NOI | 01/13/11 | 76 FR 2297
NOI Comment Period End | 03/14/11
Public Notice (Release Date) | 05/21/12
Public Notice Comment Period End | 08/06/12
Next Action Undetermined

Regulatory Flexibility Analysis Required: Yes.

Agency Contact: Timothy May, Public Safety and Homeland Security Bureau, Federal Communications Commission, 445 12th Street SW., Washington, DC 20554, Phone: 202 418-1463, Email: timothy.may@fcc.gov.

RIN: 3060-AG60

320. Implementation of 911 Act (CC Docket No. 92-105, WT Docket No. 00-110)

Legal Authority: 47 U.S.C. 151; 47 U.S.C. 154(i) and 154(j); 47 U.S.C. 157; 47 U.S.C. 160; 47 U.S.C. 202; 47 U.S.C. 208; 47 U.S.C. 210; 47 U.S.C. 214; 47 U.S.C. 251(e); 47 U.S.C. 301; 47 U.S.C. 303; 47 U.S.C. 308 to 309(j); 47 U.S.C. 310

Abstract: This proceeding was separate from the Commission's proceeding on Enhanced 911 Emergency Systems (E911) in that it intended to implement provisions of the Wireless Communications and Public Safety Act of 1999 through the promotion of public safety by the deployment of a seamless, nationwide emergency communications infrastructure that includes wireless communications services. More specifically, the chief goal of the proceeding is to ensure that all emergency calls are routed to the appropriate local emergency authority to provide assistance. The E911 proceeding goes a step further and was aimed at improving the effectiveness and reliability of wireless 911 dispatchers with additional information on wireless 911 calls.

Timetable:

Action | Date | FR Cite
Fourth R&O, Third NPRM | 09/19/00 | 65 FR 56752
NPRM | 09/19/00 | 65 FR 56757
Fifth R&O, First R&O, and MO&O | 01/14/02 | 67 FR 1643
Final Rule | 01/25/02 | 67 FR 3621
Next Action Undetermined

Regulatory Flexibility Analysis Required: Yes.

Agency Contact: Timothy May, Public Safety and Homeland Security Bureau, Federal Communications Commission, 445 12th Street SW., Washington, DC 20554, Phone: 202 418-1463, Email: timothy.may@fcc.gov.

RIN: 3060-AH90

321. Commission Rules Concerning Disruptions to Communications (PS Docket No. 11-82)

Legal Authority: 47 U.S.C.155; 47 U.S.C. 154; 47 U.S.C. 201; 47 U.S.C. 251

Abstract: The 2004 Report and Order extended the Commission's outage reporting requirements to non-wireline carriers and streamlined reporting through a new electronic template. A Further Notice of Proposed Rulemaking regarding the unique communications needs of airports also remains pending. The 2012 Report and Order extended the Commission's outage reporting requirements to interconnected Voice over Internet Protocol services where there is a complete loss of connectivity that has the potential to affect at least 900,000 user minutes. Interconnected VoIP services providers must now file outage reports through the same electronic mechanism as providers of other services. The Commission indicated that the technical issues involved in identifying and reporting significant outages of broadband Internet services require further study. In May 2016, the Commission released a Report and Order, FNPRM, and Order on Reconsideration (see also dockets 04-35 and 15-80). The FNPRM proposed rules to extend Part 4 outage reporting to broadband services. Comments and replies were received by the Commission in August and September 2016.

Timetable:

Action | Date | FR Cite
NPRM | 03/26/04 | 69 FR 15761
FNPRM | 11/26/04 | 69 FR 68859
R&O | 12/03/04 | 69 FR 70316
Announcement of Effective Date and Partial Stay | 12/30/04 | 69 FR 78338
Petition for Reconsideration | 02/15/05 | 70 FR 7737
Amendment of Delegated Authority | 02/21/08 | 73 FR 9462
Public Notice | 08/02/10
NPRM | 06/09/11 | 76 FR 33686
NPRM Comment Period End | 08/08/11
R&O | 04/27/12 | 77 FR 25088
Final Rule; Correction | 01/30/13 | 78 FR 6216
R&O | 07/12/16 | 81 FR 45055
FNPRM | 07/12/16 | 81 FR 45095
FNPRM Comment Period End | 09/12/16
Next Action Undetermined

Regulatory Flexibility Analysis Required: Yes.

Agency Contact: Brenda Villanueva, Attorney Advisor, Public Safety and Homeland Security Bureau, Federal Communications Commission, 445 12th Street SW., Washington, DC 20554, Phone: 202 418-7005, Email: brenda.villanueva@fcc.gov.

RIN: 3060-AI22

322. E911 Requirements for IP-Enabled Service Providers (Dockets Nos. GN 11-117, PS 07-114, WC 05-196, WC 04-36)

Legal Authority: 47 U.S.C. 151; 47 U.S.C. 154(i) and 154(j); 47 U.S.C. 251(e); 47 U.S.C. 303(r)

Abstract: In this proceeding, the Commission adopted E911 requirements for interconnected Voice Over Internet Protocol (VOIP) service providers. The pending notices seek comment on what additional steps the Commission should take to ensure that VOIP providers interconnecting with the public switched telephone network, provide ubiquitous and reliable enhanced 911 service.

Timetable:

Action | Date | FR Cite
NPRM | 03/29/04 | 69 FR 16193
NPRM | 06/29/05 | 70 FR 37307
R&O | 06/29/05 | 70 FR 37273
NPRM Comment Period End | 09/12/05
NPRM | 06/20/07 | 72 FR 33948
NPRM Comment Period End | 09/18/07
FNPRM, NOI | 11/02/10 | 75 FR 67321
Order, Extension of Comment Period | 01/07/11 | 76 FR 1126
Comment Period End | 02/18/11
2nd FNPRM, NPRM | 08/04/11 | 76 FR 47114
2nd FNPRM, NPRM Comment Period End | 11/02/11
Next Action Undetermined

Regulatory Flexibility Analysis Required: Yes.

Agency Contact: Timothy May, Public Safety and Homeland Security Bureau, Federal Communications Commission, 445 12th Street SW., Washington, DC 20554, Phone: 202 418-1463, Email: timothy.may@fcc.gov.

RIN: 3060-AI62

323. Wireless E911 Location Accuracy Requirements; PS Docket No. 07-114

Legal Authority: 47 U.S.C. 151; 47 U.S.C. 154; 47 U.S.C. 332

Abstract: This is related to the proceedings in which the FCC has previously acted to improve the quality of all emergency services. Wireless carriers must provide specific automatic location information in connection with 911 emergency calls to Public Safety Answering Points (PSAPs). Wireless licensees must satisfy Enhanced 911 location accuracy standards at either a county-based or a PSAP-based geographic level.

Timetable:

Action | Date | FR Cite
NPRM | 06/20/07 | 72 FR 33948
R&O | 02/14/08 | 73 FR 8617
Public Notice | 09/25/08 | 73 FR 55473
FNPRM; NOI | 11/02/10 | 75 FR 67321
Public Notice | 11/18/09 | 74 FR 59539
2nd R&O | 11/18/10 | 75 FR 70604
Second NPRM | 08/04/11 | 76 FR 47114
Second NPRM Comment Period End | 11/02/11 |
Final Rule | 04/28/11 | 76 FR 23713
NPRM, 3rd R&O, and 2nd FNPRM | 09/28/11 | 76 FR 59916
3rd FNPRM | 03/28/14 | 79 FR 17820
Order Extending Comment Period | 06/10/14 | 79 FR 33163
3rd FNPRM Comment Period End | 07/14/14
Public Notice (Release Date) | 11/20/14
Public Notice Comment Period End | 12/17/14
4th R&O | 03/04/15 | 80 FR 11806
Final Rule | 08/03/15 | 80 FR 45897
Next Action Undetermined

Regulatory Flexibility Analysis Required: Yes.

Agency Contact: Timothy May, Public Safety and Homeland Security Bureau, Federal Communications Commission, 445 12th Street SW., Washington, DC 20554, Phone: 202 418-1463, Email: timothy.may@fcc.gov.

RIN: 3060-AJ52

324. Proposed Amendments to Service Rules Governing Public Safety Narrowband Operations in the 769-775 and 799-805 MHZ Bands; PS Docket No. 13-87

Legal Authority: 47 U.S.C. 151; 47 U.S.C. 160; 47 U.S.C. 201; 47 U.S.C. 303; 47 U.S.C. 337(a); 47 U.S.C. 403

Abstract: This proceeding seeks to amend the Commission's rules to promote spectrum efficiency, interoperability, and flexibility in 700 MHz public safety narrowband operations (769-775 and 799-805 MHz).

Timetable:

Action | Date | FR Cite
NPRM | 04/19/13 | 78 FR 23529
Final Rule | 12/20/14 | 79 FR 71321
Final Rule Effective | 01/02/15
FNPRM | 09/29/16 | 81 FR 65984
Order on Recon | 09/29/16 | 81 FR 66830
Next Action Undetermined

Regulatory Flexibility Analysis Required: Yes.

Agency Contact: Brian Marenco, Electronics Engineer, Federal Communications Commission, 445 12th Street SW., Washington, DC 20554, Phone: 202 418-0838, Email: brian.marenco@fcc.gov.

RIN: 3060-AK19

325. Improving Outage Reporting for Submarine Cables and Enhancing Submarine Cable Outage Data; GN Docket No. 15-206

Legal Authority: 47 U.S.C. 151; 47 U.S.C. 154; 47 U.S.C. 34 to 39; 47 U.S.C. 301

Abstract: This proceeding takes steps toward assuring the reliability and resiliency of submarine cables, a critical piece of the Nation's communications infrastructure, by proposing to require submarine cable licensees to report to the Commission when outages occur and communications are disrupted. The Commission's intent is to enhance national security and emergency preparedness by these actions.

Timetable:

Action | Date | FR Cite
NPRM (Release Date) | 09/17/15
R&O | 06/24/16 | 81 FR 52354
Petitions for Recon | 09/08/16
Petitions for Recon—Public Comment | 10/31/16 | 81 FR 75368
Next Action Undetermined

Regulatory Flexibility Analysis Required: Yes.

Agency Contact: Peter Shroyer, Attorney Advisor, Federal Communications Commission, Public Safety Homeland Security Bureau, 445 12th Street SW., Washington, DC 20554, Phone: 201 418-1575, Email: peter.shroyer@fcc.gov.

RIN: 3060-AK39

326. Amendments to Part 4 of the Commission's Rules Concerning Disruptions to Communications; PS Docket No. 15-80

Legal Authority: 47 CFR 0; 47 CFR 4; 47 CFR 63

Abstract: The 2004 Report and Order extended the Commission's communication disruptions reporting rules to non-wireline carriers and streamlined reporting through a new electronic template, see docket ET Docket 04-35. In 2015, this proceeding, PS Docket 15-80, was opened to amend the original communications disruption reporting rules from 2004 in order to reflect technology transitions observed throughout the telecommunications sector. The Commission seeks to further study the possibility to share the reporting database information and access with state and other federal entities. In May 2016, the Commission released a Report and Order, FNPRM, and Order on Reconsideration (see also dockets 11-82 & 04-35). The R&O adopted rules to update the part 4 requirements to reflect technology transitions. The FNPRM also seeks comment on sharing information in the reporting database.

Timetable:

Action | Date | FR Cite
NPRM | 06/16/15 | 80 FR 34321
NPRM Comment Period End | 07/31/15
FNPRM | 07/12/16 | 81 FR 45095
R&O | 07/12/16 | 81 FR 45055
FNPRM Comment Period End | 09/12/16
Next Action Undetermined

Regulatory Flexibility Analysis Required: Yes.

Agency Contact: Brenda Villanueva, Attorney Advisor, Public Safety and Homeland Security Bureau, Federal Communications Commission, 445 12th Street SW., Washington, DC 20554, Phone: 202 418-7005, Email: brenda.villanueva@fcc.gov.

RIN: 3060-AK40

327. New Part 4 of the Commission's Rules Concerning Disruptions to Communications; ET Docket No. 04-35

Legal Authority: 47 U.S.C. 154 to 155; 47 U.S.C. 201; 47 U.S.C. 251; 47 U.S.C. 307; 47 U.S.C. 316

Abstract: The proceeding creates a new part 4 in title 47, and amends part 63.100. The proceeding updates the Commission's communication disruptions reporting rules for wireline providers formerly found in 47 CFR 63.100, and extends these rules to other non-wireline providers. Through this proceeding, the Commission streamlines the reporting process through an electronic template. The Report and Order received several petitions for reconsideration, of which two were eventually withdrawn. In 2015, seven were addressed in an Order on Reconsideration and in 2016 another petition was addressed in an Order on Reconsideration. One petition (CPUC Petition) remains pending regarding NORS database sharing with states, which is addressed in a separate proceeding, PS Docket 15-80. To the extent the communication disruption rules cover VoIP, the Commission studies and addresses these questions in a separate docket, PS Docket 11-82.

In May 2016, the Commission released a Report and Order, FNPRM, and Order on Reconsideration (see dockets 11-82 & 15-80). The Order on Reconsideration addressed outage reporting for events at airports, and the FNPRM sought comment on database sharing.

Timetable:

Action | Date | FR Cite
NPRM | 03/26/04 | 69 FR 15761
R&O | 11/26/04 | 69 FR 68859
Denial for Petition for Partial Stay | 12/02/04
Seek Comment on Petition for Recon | 02/02/10
Reply Period End | 03/19/10
Seek Comment on Broadband and Interconnected VOIP Service Providers | 07/02/10
Reply Period End | 08/16/12
R&O and Order on Recon | 06/16/15 | 80 FR 34321
FNPRM | 07/12/16 | 81 FR 45095
R&O | 07/12/16 | 81 FR 45055
Next Action Undetermined

Regulatory Flexibility Analysis Required: Yes.

Agency Contact: Brenda Villanueva, Attorney Advisor, Public Safety and Homeland Security Bureau, Federal Communications Commission, 445 12th Street SW., Washington, DC 20554, Phone: 202 418-7005, Email: brenda.villanueva@fcc.gov.

RIN: 3060-AK41

328. Wireless Emergency Alerts (WEA); PS Docket No. 15-91

Legal Authority: Pub. L. 109-347, title VI; 47 U.S.C. 151; 47 U.S.C. 154(i)

Abstract: This proceeding was initiated to improve WEA messaging, to ensure that WEA alerts reach only those individuals to whom they are relevant, and to establish an end-to-end testing program based on advancements in technology.

Timetable:

Action | Date | FR Cite
NPRM | 11/19/15 | 80 FR 77289
NPRM Comment Period End | 01/13/16
NPRM Reply Comment Period End | 02/12/16
Next Action Undetermined

Regulatory Flexibility Analysis Required: Yes.

Agency Contact: Lisa Fowlkes, Deputy Bureau Chief, Federal Communications Commission, Public Safety and Homeland Security Bureau, 445 12th Street SW., Washington, DC 20554, Phone: 202 418-7452, Email: lisa.fowlkes@fcc.gov.

RIN: 3060-AK54

FEDERAL COMMUNICATIONS COMMISSION (FCC)

Public Safety and Homeland Security Bureau

Completed Actions

329. 700 MHz Public Safety Broadband—First Net (PS Docket Nos. 12-94 & 06-229 and WT 06-150)

Legal Authority: 47 U.S.C. 151 to 152; 47 U.S.C. 301 to 303; 47 U.S.C. 307 to 309; Pub. L. 112-96

Abstract: This action proposes technical rules to protect against harmful radio frequency interference in the spectrum designated for public safety services under the Middle Class Tax Relief and Job Creation Act of 2012.

Timetable:

Action | Date | FR Cite
NPRM | 04/24/13 | 78 FR 24138
NPRM Comment Period End | 05/24/13
R&O | 01/06/14 | 79 FR 588
R&O | 09/16/16 | 81 FR 63714

Regulatory Flexibility Analysis Required: Yes.

Agency Contact: Roberto Mussenden, Attorney Advisor, Federal Communications Commission, 445 12th Street SW., Washington, DC 20554, Phone: 202 418-1428, Email: roberto.mussenden@fcc.gov.

RIN: 3060-AJ99

330. Amendment of Part 90 of the Commission's Rules To Enable Railroad Police Officers To Access Public Safety Interoperability and Mutual Aid Channels

Legal Authority: 47 U.S.C. 151 to 152; 47 U.S.C. 154(j); 47 U.S.C. 301; 47 U.S.C. 303; 47 U.S.C. 316; 47 U.S.C. 337

Abstract: In this proceeding, we amend our rules to permit railroad police officers to use public safety interoperability channels to communicate with public safety entities already authorized to use to use those channels.

Timetable:

Action | Date | FR Cite
ANPRM Comment Period End | 11/13/15
NPRM | 11/13/15 | 80 FR 58421
NPRM Reply Comment Period End | 11/30/15
R&O | 09/28/16 | 81 FR 66538

Regulatory Flexibility Analysis Required: Yes.

Agency Contact: John Evanoff, Attorney Advisor, Federal Communications Commission, Public Safety and Homeland Security Bureau, 445 12th Street SW., Washington, DC 20554, Phone: 202 418-0848, Email: john.evanoff@fcc.gov.

RIN: 3060-AK51

FEDERAL COMMUNICATIONS COMMISSION (FCC)

Wireless Telecommunications Bureau

Final Rule Stage

331. Promoting Technological Solutions To Combat Wireless Contraband Device Use in Correctional Facilities; GN Docket No. 13-111

Legal Authority: 47 U.S.C. 151 to 152; 47 U.S.C. 154(i); 47 U.S.C. 154(j); 47 U.S.C. 301; 47 U.S.C. 303(a); 47 U.S.C. 303(b); 47 U.S.C. 307 to 310; 47 U.S.C. 332

Abstract: In this proceeding, the Commission proposes rules to encourage development of multiple technological solutions to combat the use of contraband wireless devices in correctional facilities nationwide. The Commission proposes to streamline rules governing lease agreement modifications between wireless providers and managed access system operators. It also proposes to require wireless providers to terminate service to a contraband wireless device.

Timetable:

Action | Date | FR Cite
NPRM | 06/18/13 | 78 FR 36469
NPRM Comment Period End | 08/08/13
R&O and FNPRM (Released 03/24/2017) | 12/00/17

Regulatory Flexibility Analysis Required: Yes.

Agency Contact: Melissa Conway, Attorney Advisor, Wireless Bureau, Federal Communications Commission, 445 12th Street SW., Washington, DC 20554, Phone: 202 418-2887, Email: melissa.conway@fcc.gov.

RIN: 3060-AK06

332. 800 MHz Cellular Telecommunications Licensing Reform; Docket No. 12-40

Legal Authority: 47 U.S.C. 151 to 152; 47 U.S.C. 154(i); 47 U.S.C. 301 to 303; 47 U.S.C. 308; 47 U.S.C. 309(j); 47 U.S.C. 332

Abstract: The proceeding was launched to revisit and update various rules governing licensing for the 800 MHz cellular radiotelephone service. Most notably, the current site-based model for issuing licenses is under review, mindful of the evolution of this commercial wireless mobile service since its inception more than 30 years ago and the licensing models used for newer wireless telecommunications services. On November 10, 2014, the FCC released a Report and Order (R&O) and a companion Further Notice of Proposed Rulemaking (FNPRM) to revise rules governing the 800 MHz Cellular Service. In the R&O, the FCC eliminated various regulatory requirements and streamlined requirements remaining in place, while retaining Cellular Service licensees' ability to expand into an area that is not yet licensed. In the FNPRM, the FCC proposes and seeks comment on additional Cellular Service reforms of licensing rules and the radiated power rules, to promote flexibility and help foster the deployment of newer technologies such as LTE.

Timetable:

Action | Date | FR Cite
NPRM | 03/16/12 | 77 FR 15665
NPRM Comment Period End | 05/15/12
NPRM Reply Comment Period End | 06/14/12
R&O | 12/05/14 | 79 FR 72143
FNPRM | 12/22/14 | 79FR 76268
Final Rule Effective (with 3 exceptions) | 01/05/15
FNPRM Comment Period End | 01/21/15
FNPRM Reply Comment Period End | 02/20/15
2nd R&O, Order, and 2nd FNPRM (Released 03/24/2017) | 12/00/17

Regulatory Flexibility Analysis Required: Yes.

Agency Contact: Nina Shafran, Attorney Advisor, Wireless Bureau, Federal Communications Commission, 445 12th Street SW., Washington, DC 20554, Phone: 202 418-2781, Email: nina.shafran@fcc.gov.

RIN: 3060-AK13

333. Updating Part 1 Competitive Bidding Rules (WT Docket No. 14-170)

Legal Authority: 47 U.S.C. 151; 47 U.S.C. 154(i); 47 U.S.C. 303(r); 47 U.S.C. 309(j); 47 U.S.C. 316

Abstract: This proceeding was initiated to revise some of the Commission's general part 1 rules governing competitive bidding for spectrum licenses to reflect changes in the marketplace, including the challenges faced by new entrants, as well as to advance the statutory directive to ensure that small businesses, rural telephone companies, and businesses owned by members of minority groups and women are given the opportunity to participate in the provision of spectrum-based services. In July 2015, the Commission revised its competitive bidding rules, specifically adopting revised requirements for eligibility for bidding credits, a new rural service provider bidding credit, a prohibition on joint bidding agreements and other changes.

Timetable:

Action | Date | FR Cite
NPRM | 11/14/14 | 79 FR 68172
Public Notice | 03/16/15 | 80 FR 15715
Public Notice | 04/23/15 | 80 FR 22690
R&O | 09/18/15 | 80 FR 56764
Public Notice on Petitions for Reconsideration | 11/10/15 | 80 FR 69630
Order on Recon | 12/00/17

Regulatory Flexibility Analysis Required: Yes.

Agency Contact: Kelly Quinn, Assistant Chief, Auctions and Spectrum Access Division, Federal Communications Commission, 445 12th Street SW., Washington, DC 20554, Phone: 202 418-0660, Email: kelly.quinn@fcc.gov.

RIN: 3060-AK28

FEDERAL COMMUNICATIONS COMMISSION (FCC)

Wireless Telecommunications Bureau

Long-Term Actions

334. Reexamination of Roaming Obligations of Commercial Mobile Radio Service Providers

Legal Authority: 47 U.S.C. 151; to 152(n); 47 U.S.C. 154(i) and 154(j); 47 U.S.C. 201(b); 47 U.S.C. 251(a); 47 U.S.C. 253; 47 U.S.C. 303(r); 47 U.S.C. 332(c)(1)(B); 47 U.S.C. 309

Abstract: This rulemaking considers whether the Commission should adopt an automatic roaming rule for voice services for Commercial Mobile Radio Services and whether the Commission should adopt a roaming rule for mobile data services.

Timetable:

Action | Date | FR Cite
NPRM | 11/21/00 | 65 FR 69891
NPRM | 09/28/05 | 70 FR 56612
NPRM | 01/19/06 | 71 FR 3029
FNPRM | 08/30/07 | 72 FR 50085
Final Rule | 08/30/07 | 72 FR 50064
Final Rule | 04/28/10 | 75 FR 22263
FNPRM | 04/28/10 | 75 FR 22338
2nd R&O | 05/06/11 | 76 FR 26199
Order on Recon | 06/25/14 | 79 FR 43956
Declaratory Ruling (release date) | 12/18/14
Comment Period End | 02/14/15
Reply Comment Period End | 02/19/15
Next Action Undetermined

Regulatory Flexibility Analysis Required: Yes.

Agency Contact: Jennifer Salhus, Attorney, Federal Communications Commission, 445 12th Street SW., Washington, DC 20554, Phone: 202 418-2823, Email: jsalhus@fcc.gov.

RIN: 3060-AH83

335. Review of Part 87 of the Commission's Rules Concerning Aviation (WT Docket No. 01-289)

Legal Authority: 47 U.S.C. 154; 47 U.S.C. 303; 47 U.S.C. 307(e)

Abstract: This proceeding is intended to streamline, consolidate, and revise our part 87 rules governing the Aviation Radio Service. The rule changes are designed to ensure these rules reflect current technological advances.

Timetable:

Action | Date | FR Cite
NPRM | 10/16/01 | 66 FR 64785
NPRM Comment Period End | 03/14/02
R&O and FNPRM | 10/16/03
FNPRM | 04/12/04 | 69 FR 19140
FNPRM Comment Period End | 07/12/04
R&O | 06/14/04 | 69 FR 32577
NPRM | 12/06/06 | 71 FR 70710
NPRM Comment Period End | 03/06/07
Final Rule | 12/06/06 | 71 FR 70671
3rd R&O | 03/29/11 | 76 FR 17347
Stay Order | 03/29/11 | 76 FR 17353
3rd FNPRM | 01/30/13 | 78 FR 6276
Next Action Undetermined

Regulatory Flexibility Analysis Required: Yes.

Agency Contact: Jeff Tobias, Attorney Advisor, Federal Communications Commission, Wireless Telecommunications Bureau, 445 12th Street SW., Washington, DC 20554, Phone: 202 418-0680, Email: jeff.tobias@fcc.gov.

RIN: 3060-AI35

336. Implementation of the Commercial Spectrum Enhancement Act (CSEA) and Modernization of the Commission's Competitive Bidding Rules and Procedures (WT Docket No. 05-211)

Legal Authority: 15 U.S.C. 79; 47 U.S.C. 151; 47 U.S.C. 154(i) and (j); 47 U.S.C. 155; 47 U.S.C. 155(c); 47 U.S.C. 157; 47 U.S.C. 225; 47 U.S.C. 303(r); 47 U.S.C. 307; 47 U.S.C. 309; 47 U.S.C. 309(j); 47 U.S.C. 325(e); 47 U.S.C. 334; 47 U.S.C. 336; 47 U.S.C. 339; 47 U.S.C. 554

Abstract: This proceeding implements rules and procedures needed to comply with the Commercial Spectrum Enhancement Act (CSEA). It establishes a mechanism for reimbursing Federal agencies' out-of-spectrum auction proceeds for the cost of relocating their operations from certain “eligible frequencies” that have been reallocated from Federal to non-Federal use. It also seeks to improve the Commission's ability to achieve Congress' directives with regard to designated entities and to ensure that, in accordance with the intent of Congress, every recipient of its designated entity benefits is an entity that uses its licenses to directly provide facilities-based telecommunications services for the benefit of the public.

Timetable:

Action | Date | FR Cite
NPRM | 06/14/05 | 70 FR 43372
Declaratory Ruling | 06/14/05 | 70 FR 43322
R&O | 01/24/06 | 71 FR 6214
FNPRM | 02/03/06 | 71 FR 6992
Second R&O | 04/25/06 | 71 FR 26245
Order on Reconsideration of Second R&O | 06/02/06 | 71 FR 34272
NPRM | 06/21/06 | 71 FR 35594
Second Order and Reconsideration of Second R&O | 04/04/08 | 73 FR 18528
Order | 03/21/12 | 77 FR 16470
Order on Recon of 1st R&O, 3rd Order on Recon of 2nd R&O, and 3rd R&O | 09/18/15 | 80 FR 56764
Next Action Undetermined

Regulatory Flexibility Analysis Required: Yes.

Agency Contact: Kelly Quinn, Assistant Chief, Auctions and Spectrum Access Division, Federal Communications Commission, 445 12th Street SW., Washington, DC 20554, Phone: 202 418-0660, Email: kelly.quinn@fcc.gov.

RIN: 3060-AI88

337. Facilitating the Provision of Fixed and Mobile Broadband Access, Educational, and Other Advanced Services in the 2150-2162 and 2500-2690 MHz Bands

Legal Authority: 47 U.S.C. 154; 47 U.S.C. 301 to 303; 47 U.S.C. 307; 47 U.S.C. 309; 47 U.S.C. 332; 47 U.S.C. 336 and 337

Abstract: The Commission seeks comment on whether to assign Educational Broadband Service (EBS) spectrum in the Gulf of Mexico. It also seeks comment on how to license unassigned and available EBS spectrum. Specifically, we seek comment on whether it would be in the public interest to develop a scheme for licensing unassigned EBS spectrum that avoids mutual exclusivity; we ask whether EBS eligible entities could participate fully in a spectrum auction; we seek comment on the use of small business size standards and bidding credits for EBS if we adopt a licensing scheme that could result in mutually exclusive applications; we seek comment on the proper market size and size of spectrum blocks for new EBS licenses; and we seek comment on issuing one license to a State agency designated by the Governor to be the spectrum manager, using frequency coordinators to avoid mutually exclusive EBS applications, as well as other alternative licensing schemes. The Commission must develop a new licensing scheme for EBS in order to achieve the Commission's goal of facilitating the development of new and innovative wireless services for the benefit of students throughout the Nation. In addition, the Commission has sought comment on a proposal intended to make it possible to use wider channel bandwidths for the provision of broadband services in these spectrum bands. The proposed changes may permit operators to use spectrum more efficiently, and to provide higher data rates to consumers, thereby advancing key goals of the National Broadband Plan.

Timetable:

Action | Date | FR Cite
NPRM | 04/02/03 | 68 FR 34560
NPRM Comment Period End | 09/08/03
FNPRM | 07/29/04 | 69 FR 72048
FNPRM Comment Period End | 01/10/03
R&O | 07/29/04 | 69 FR 72020
MO&O | 04/27/06 | 71 FR 35178
FNPRM | 03/20/08 | 73 FR 26067
FNPRM Comment Period End | 07/07/08
MO&O | 03/20/08 | 73 FR 26032
MO&O | 09/28/09 | 74 FR 49335
FNPRM | 09/28/09 | 74 FR 49356
FNPRM Comment Period End | 10/13/09
R&O | 06/03/10 | 75 FR 33729
FNPRM | 05/27/11 | 76 FR 32901
FNPRM Comment Period End | 07/22/11
R&O | 07/16/14 | 79 FR 41448
Next Action Undetermined

Regulatory Flexibility Analysis Required: Yes.

Agency Contact: John Schauble, Deputy Chief, Broadband Division, Federal Communications Commission, Wireless Telecommunications Bureau, 445 12th Street SW., Washington, DC 20554, Phone: 202 418-0797, Email: john.schauble@fcc.gov.

RIN: 3060-AJ12

338. Service Rules for Advanced Wireless Services in the 2155-2175 MHz Band; WT Docket No. 13-185

Legal Authority: 47 U.S.C. 151 and 152; 47 U.S.C. 154(i); 47 U.S.C. 157; 47 U.S.C. 160; 47 U.S.C. 201; 47 U.S.C. 214; 47 U.S.C. 301

Abstract: This proceeding explores the possible uses of the 2155 to 2175 MHz frequency band (AWS-3) to support the introduction of new advanced wireless services, including third generation and future generations of wireless systems. Advanced wireless systems could provide for a wide range of voice data and broadband services over a variety of mobile and fixed networks. The Notice of Proposed Rulemaking (NPRM) sought comment on what service rules should be adopted in the AWS-3 band. We requested comment on rules for licensing this spectrum in a manner that will permit it to be fully and promptly used to bring advanced wireless services to American consumers. Our objective is to allow for the most effective and efficient use of the spectrum in this band, while also encouraging development of robust wireless broadband services. We proposed to apply our flexible, market-oriented rules to the band to do so. Thereafter, the Commission released a Further Notice of Proposed Rulemaking (FNPRM), seeking comment on the Commission's proposed AWS-3 rules, which include adding 5 megahertz of spectrum (2175 to 80 MHz) to the AWS-3 band, and requiring licensees of that spectrum to provide—using up to 25 percent of its wireless network capacity—free, two-way broadband Internet service at engineered data rates of at least 768 kbps downstream.

Timetable:

Action | Date | FR Cite
NPRM | 11/14/07 | 72 FR 64013
NPRM Comment Period End | 01/14/08
FNPRM | 06/25/08 | 73 FR 35995
FNPRM Comment Period End | 08/11/08
FNPRM | 08/20/13 | 78 FR 51559
FNPRM Comment Period End | 10/16/13
R&O | 06/04/14 | 79 FR 32366
Next Action Undetermined

Regulatory Flexibility Analysis Required: Yes.

Agency Contact: Peter Daronco, Deputy Division Chief, Broadband Division, Federal Communications Commission, Wireless Telecommunications Bureau, 445 12th Street SW., Washington, DC 20554, Phone: 202 418-7235, Email: peter.daronco@fcc.gov.

RIN: 3060-AJ19

339. Amendment of the Commission's Rules To Improve Public Safety Communications in the 800 MHz Band, and To Consolidate the 800 MHz and 900 MHz Business and Industrial/Land Transportation Pool Channels

Legal Authority: 47 U.S.C. 151; 47 U.S.C. 154(i); 47 U.S.C. 303; 47 U.S.C. 309; 47 U.S.C. 332

Abstract: This action adopts rules that retain the current site-based licensing paradigm for the 900 MHz B/ILT “white space”; adopts interference protection rules applicable to all licensees operating in the 900 MHz B/ILT spectrum; and lifts, on a rolling basis, the freeze placed on applications for new 900 MHz B/ILT licenses in September 2004—the lift being tied to the completion of rebanding in each 800 MHz National Public Safety Planning Advisory Committee (NPSPAC) region.

Timetable:

Action | Date | FR Cite
NPRM | 03/18/05 | 70 FR 13143
NPRM Comment Period End | 06/12/05 | 70 FR 23080
Final Rule | 12/16/08 | 73 FR 67794
Petition for Reconsideration | 03/12/09 | 74 FR 10739
Order on Reconsideration | 07/17/13 | 78 FR 42701
Next Action Undetermined

Regulatory Flexibility Analysis Required: Yes.

Agency Contact: Joyce Jones, Attorney Advisor, Wireless Telecommunications Bureau, Federal Communications Commission, 445 12th Street SW., Washington, DC 20554, Phone: 202 418-1327, Email: joyce.jones@fcc.gov.

RIN: 3060-AJ22

340. Amendment of Part 101 To Accommodate 30 MHz Channels in the 6525 to 6875 MHz Band and Provide Conditional Authorization on Channels in the 21.8-22.0 and 23.0-23.2 GHz Band (WT Docket No. 04-114)

Legal Authority: 47 U.S.C. 151 and 152; 47 U.S.C. 154(i); 47 U.S.C. 157; 47 U.S.C. 160; 47 U.S.C. 201; 47 U.S.C. 214; 47 U.S.C. 301 to 303; 47 U.S.C. 307 to 310; 47 U.S.C. 319; 47 U.S.C. 324; 47 U.S.C. 332 and 333

Abstract: The Commission seeks comments on modifying its rules to authorize channels with bandwidths of as much as 30 MHz in the 6525 to 6875 MHz band. We also propose to allow conditional authorization on additional channels in the 21.8-22.0 and 23.0-23.2 GHz bands.

Timetable:

Action | Date | FR Cite
NPRM | 06/29/09 | 74 FR 36134
NPRM Comment Period End | 07/22/09
R&O | 06/11/10 | 75 FR 41767
Next Action Undetermined

Regulatory Flexibility Analysis Required: Yes.

Agency Contact: John Schauble, Deputy Chief, Broadband Division, Federal Communications Commission, Wireless Telecommunications Bureau, 445 12th Street SW., Washington, DC 20554, Phone: 202 418-0797, Email: john.schauble@fcc.gov.

RIN: 3060-AJ28

341. Amendment of Part 90 of the Commission's Rules

Legal Authority: 47 U.S.C. 154; 47 U.S.C. 303

Abstract: This proceeding considers rule changes impacting miscellaneous part 90 Private Land Mobile Radio rules.

Timetable:

Action | Date | FR Cite
NPRM | 06/13/07 | 72 FR 32582
FNPRM | 04/14/10 | 75 FR 19340
Order on Reconsideration | 05/27/10 | 75 FR 29677
5th R&O | 05/16/13 | 78 FR 28749
Petition for Reconsideration | 07/23/13 | 78 FR 44091
Next Action Undetermined

Regulatory Flexibility Analysis Required: Yes.

Agency Contact: Rodney P. Conway, Engineer, Federal Communications Commission, Wireless Telecommunications Bureau, 445 12th Street SW., Washington, DC 20554, Phone: 202 418-2904, Fax: 202 418-1944, Email: rodney.conway@fcc.gov.

RIN: 3060-AJ37

342. Amendment of Part 101 of the Commission's Rules for Microwave Use and Broadcast Auxiliary Service Flexibility

Legal Authority: 47 U.S.C. 151 and 152; 47 U.S.C. 154(i) and 157; 47 U.S.C. 160 and 201; 47 U.S.C. 214; 47 U.S.C. 301 to 303; 47 U.S.C. 307 to 310; 47 U.S.C. 319 and 324; 47 U.S.C. 332 and 333

Abstract: In this document, the Commission commences a proceeding to remove regulatory barriers to the use of spectrum for wireless backhaul and other point-to-point and point-to-multipoint communications.

Timetable:

Action | Date | FR Cite
NPRM | 08/05/10 | 75 FR 52185
NPRM Comment Period End | 11/22/10
R&O | 09/27/11 | 76 FR 59559
FNPRM | 09/27/11 | 76 FR 59614
FNPRM Comment Period End | 10/25/11
R&O | 09/05/12 | 77 FR 54421
FNPRM | 09/05/12 | 77 FR 54511
FNPRM Comment Period End | 10/22/12
Next Action Undetermined

Regulatory Flexibility Analysis Required: Yes.

Agency Contact: John Schauble, Deputy Chief, Broadband Division, Federal Communications Commission, Wireless Telecommunications Bureau, 445 12th Street SW., Washington, DC 20554, Phone: 202 418-0797, Email: john.schauble@fcc.gov.

RIN: 3060-AJ47

343. Universal Service Reform Mobility Fund (WT Docket No. 10-208)

Legal Authority: 47 U.S.C. 151; 47 U.S.C. 154(i); 47 U.S.C. 155; 47 U.S.C. 160; 47 U.S.C. 201; 47 U.S.C. 205; 47 U.S.C. 225; 47 U.S.C. 254; 47 U.S.C. 301; 47 U.S.C. 303; 47 U.S.C. 303(c); 47 U.S.C. 303(f); 47 U.S.C. 303(r); 47 U.S.C. 303(y); 47 U.S.C. 309; 47 U.S.C. 310

Abstract: This proceeding establishes the Mobility Fund which provides an initial infusion of funds toward solving persistent gaps in mobile services through targeted, one-time support for the build-out of current and next-generation wireless infrastructure in areas where these services are unavailable.

Timetable:

Action | Date | FR Cite
NPRM | 10/14/10 | 75 FR 67060
NPRM Comment Period End | 01/18/11
R&O | 11/29/11 | 76 FR 73830
FNPRM | 12/16/11 | 76 FR 78384
R&O | 12/28/11 | 76 FR 81562
2nd R&O | 07/03/12 | 77 FR 39435
4th Order on Recon | 08/14/12 | 77 FR 48453
FNPRM | 07/09/14 | 79 FR 39196
R&O, Declaratory Ruling, Order, MO&O, and 7th Order on Recon | 07/09/14 | 79 FR 39163
FNPRM Comment Period End | 09/08/14
R&O | 10/07/16 | 81 FR 69696
FNPRM | 10/07/16 | 81 FR 69772
FNPRM Comment Period End | 01/05/17
FNPRM | 03/13/17 | 82 FR 13413
R&O | 03/28/17 | 82 FR 15422
R&O Correction | 04/04/17 | 82 FR 16297
FNPRM Comment Period End | 04/27/17
Next Action Undetermined

Regulatory Flexibility Analysis Required: Yes.

Agency Contact: Audra Hale-Maddox, Attorney Advisor, Federal Communications Commission, 445 12th Street SW., Washington, DC 20554, Phone: 202 418-2109, Email: audra.hale-maddox@fcc.gov.

RIN: 3060-AJ58

344. Fixed and Mobile Services in the Mobile Satellite Service Bands at 1525-1559 MHz and 1626.5-1660.5 MHz, 1610-1626.5 MHz and 2483.5-2500 MHz, and 2000-2020 MHz and 2180-2200 MHz

Legal Authority: 47 U.S.C. 151 and 154; 47 U.S.C. 303 and 310

Abstract: The Commission proposes steps making additional spectrum available for new investment in mobile broadband networks while ensuring that the United States maintains robust mobile satellite service capabilities. Mobile broadband is emerging as one of America's most dynamic innovation and economic platforms. Yet tremendous demand growth soon will test the limits of spectrum availability. Some 90 megahertz of spectrum allocated to the Mobile Satellite Service (MSS)—in the 2 GHz band, Big LEO band, and L-band—are potentially available for terrestrial mobile broadband use. The Commission seeks to remove regulatory barriers to terrestrial use, and to promote additional investments, such as those recently made possible by a transaction between Harbinger Capital Partners and SkyTerra Communications, while retaining sufficient market-wide MSS capability. The Commission proposes to add co-primary Fixed and Mobile allocations to the 2 GHz band, consistent with the International Table of Allocations. This allocation modification is a precondition for more flexible licensing of terrestrial services within the band. Second, the Commission proposes to apply the Commission's secondary market policies and rules applicable to terrestrial services to all transactions involving the use of MSS bands for terrestrial services to create greater predictability and regulatory parity with bands licensed for terrestrial mobile broadband service. The Commission also requests comment on further steps we can take to increase the value, utilization, innovation, and investment in MSS spectrum generally.

Timetable:

Action | Date | FR Cite
NPRM | 07/15/10 | 75 FR 49871
NPRM Comment Period End | 09/30/10
R&O | 04/06/11 | 76 FR 31252
Next Action Undetermined

Regulatory Flexibility Analysis Required: Yes.

Agency Contact: Blaise Scinto, Chief, Broadband Div., WTB, Federal Communications Commission, 445 12th Street SW., Washington, DC 20554, Phone: 202 418-1380, Email: blaise.scinto@fcc.gov.

RIN: 3060-AJ59

345. Improving Spectrum Efficiency Through Flexible Channel Spacing and Bandwidth Utilization for Economic Area-Based 800 MHz Specialized Mobile Radio Licensees (WT Docket Nos. 12-64 and 11-110)

Legal Authority: 47 U.S.C. 151 to 152; 47 U.S.C. 154; 47 U.S.C. 301; 47 U.S.C. 302(a); 47 U.S.C. 303; 47 U.S.C. 307 to 308

Abstract: This proceeding was initiated to allow EA-based 800 MHz SMR licensees in 813.5-824/858.5-869 MHz to exceed the channel spacing and bandwidth limitation in section 90.209 of the Commission's rules, subject to conditions.

Timetable:

Action | Date | FR Cite
NPRM | 03/29/12 | 77 FR 18991
NPRM Comment Period End | 04/13/12
R&O | 05/24/12 | 77 FR 33972
Petition for Recon Public Notice | 08/16/12 | 77 FR 53163
Petition for Recon PN Comment Period End | 09/27/12
Next Action Undetermined

Regulatory Flexibility Analysis Required: Yes.

Agency Contact: Linda Chang, Associate Chief, Mobility Div., Federal Communications Commission, Wireless Telecommunications Bureau, 445 12th Street SW., Washington, DC 20554, Phone: 202 418-1339, Fax: 202 418-7447, Email: linda.chang@fcc.gov.

RIN: 3060-AJ71

346. Service Rules for Advanced Wireless Services in the 2000-2020 MHz and 2180-2200 MHz Bands

Legal Authority: 47 U.S.C. 151; 47 U.S.C. 153; 47 U.S.C. 154(i); 47 U.S.C. 227; 47 U.S.C. 301 to 303; 47 U.S.C. 307 to 310; 47 U.S.C. 316; 47 U.S.C. 319; 47 U.S.C. 324; 47 U.S.C. 332 to 333

Abstract: In the Report and Order, the Commission increased the Nation's supply of spectrum for mobile broadband by removing unnecessary barriers to flexible use of spectrum currently assigned to the Mobile Satellite Service (MSS) in the 2 GHz band. This action carries out a recommendation in the National Broadband Plan that the Commission enable the provision of standalone terrestrial services in this spectrum. We do so by adopting service, technical, assignment, and licensing rules for this spectrum. These rules are designed to provide for flexible use of this spectrum, encourage innovation and investment in mobile broadband, and provide a stable regulatory environment in which broadband deployment could develop.

Timetable:

Action | Date | FR Cite
NPRM Comment Period End | 04/17/12
NPRM | 04/17/12 | 77 FR 22720
R&O | 05/05/13 | 78 FR 8229
Next Action Undetermined

Regulatory Flexibility Analysis Required: Yes.

Agency Contact: Peter Daronco, Deputy Division Chief, Broadband Division, Federal Communications Commission, Wireless Telecommunications Bureau, 445 12th Street SW., Washington, DC 20554, Phone: 202 418-7235, Email: peter.daronco@fcc.gov.

RIN: 3060-AJ73

347. Expanding the Economic and Innovation Opportunities of Spectrum Through Incentive Auctions; (GN Docket No. 12-268)

Legal Authority: 47 U.S.C. 309(j)(8)(G); 47 U.S.C. 1452

Abstract: In February 2012, the Middle Class Tax Relief and Job Creation Act was enacted (Pub. L. 112-96, 126 Stat. 156 (2012)). Title VI of that statute, commonly known as the Spectrum Act, provides the Commission with the authority to conduct incentive auctions to meet the growing demand for wireless broadband. Pursuant to the Spectrum Act, the Commission may conduct incentive auctions that will offer new initial spectrum licenses subject to flexible-use service rules on spectrum made available by licensees that voluntarily relinquish some or all of their spectrum usage rights in exchange for a portion, based on the value of the relinquished rights as determined by an auction, of the proceeds of bidding for the new licenses. In addition to granting the Commission general authority to conduct incentive auctions, the Spectrum Act requires the Commission to conduct an incentive auction of broadcast TV spectrum and sets forth special requirements for such an auction.

The Spectrum Act requires that the incentive auction consist of a reverse auction “to determine the amount of compensation that each broadcast television licensee would accept in return for voluntarily relinquishing some or all of its spectrum usage rights and a forward auction” that would allow mobile broadband providers to bid for licenses in the reallocated spectrum. Broadcast television licensees who elected to voluntarily participate in the auction had three basic options: Voluntarily go off the air; share spectrum; or move channels in exchange for receiving part of the proceeds from auctioning that spectrum to wireless providers.

In June 2014 the Commission adopted a Report and Order that laid out the general framework for the incentive auction. The incentive auction started on March 29, 2016, with the submission of initial commitments by eligible broadcast licensees that had submitted timely and complete applications, and bidding ended on March 30, 2017. The announcement of the closing of the incentive auction will start the 39-month transition period during which broadcasters will transition their stations to their post-auction channel assignments in the reorganized television bands.

Timetable:

Action | Date | FR Cite
NPRM | 11/21/12 | 77 FR 69933
R&O | 08/15/14 | 79 FR 48441
Notice | 01/29/15 | 80 FR 4816
Next Action Undetermined

Regulatory Flexibility Analysis Required: Yes.

Agency Contact: Rachel Kazan, Federal Communications Commission, 445 12th Street SW., Washington, DC 20554, Phone: 202 418-1500, Email: rachel.kazan@fcc.gov.

RIN: 3060-AJ82

348. Service Rules for Advanced Wireless Services of the Middle Class Tax Relief and Job Creation Act of 2012 Related to the 1915-1920 MHz and 1995-2000 MHz Bands (WT Docket No. 12-357)

Legal Authority: 47 U.S.C. 301 to 303; 47 U.S.C. 307 to 310

Abstract: The Commission proposes rules for the Advanced Wireless Services (AWS) H Block that would make available 10 megahertz of flexible use. The proposal would extend the widely deployed Personal Communications Services (PCS) band, which is used by the four national providers as well as regional and rural providers to offer mobile service across the nation. The additional spectrum for mobile use will help ensure that the speed, capacity, and ubiquity of the Nation's wireless networks keeps pace with the skyrocketing demand for mobile services.

Today's action is a first step to implement the congressional directive in the Middle Class Tax Relief and Job Creation Act of 2012 (Spectrum Act) to grant new initial licenses for the 1915-1920 MHz and 1995-2000 MHz bands (the Lower H Block and Upper H Block, respectively) through a system of competitive bidding,Â—unless doing so would cause harmful interference to commercial mobile service licenses in the 1930-1985 MHz (PCS downlink) band. The potential for harmful interference to the PCS downlink band relates only to the Lower H Block transmissions, and may be addressed by appropriate technical rules, including reduced power limits on H Block devices. We, therefore, propose to pair and license the Lower H Block and the Upper H Block for flexible use, including mobile broadband, aiming to assign the licenses through competitive bidding in 2013. In the event that we conclude that the Lower H Block cannot be used without causing harmful interference to PCS, we propose to license the Upper H Block for full power, and seek comment on appropriate use for the Lower H Block, including Unlicensed PCS.

Timetable:

Action | Date | FR Cite
NPRM | 01/08/13 | 78 FR 1166
NPRM Comment Period End | 03/06/13
R&O | 08/16/13 | 78 FR 50213
Next Action Undetermined

Regulatory Flexibility Analysis Required: Yes.

Agency Contact: Peter Daronco, Deputy Division Chief, Broadband Division, Federal Communications Commission, Wireless Telecommunications Bureau, 445 12th Street SW., Washington, DC 20554, Phone: 202 418-7235, Email: peter.daronco@fcc.gov.

RIN: 3060-AJ86

349. Amendment of Parts 1, 2, 22, 24, 27, 90 and 95 of the Commission's Rules To Improve Wireless Coverage Through The Use of Signal Boosters (WT Docket No. 10-4)

Legal Authority: 15 U.S.C. 79; 47 U.S.C. 151; 47 U.S.C. 154(i); 47 U.S.C. 154(j); 47 U.S.C. 155; 47 U.S.C. 157; 47 U.S.C. 225; 47 U.S.C. 227; 47 U.S.C. 303(r)

Abstract: This action adopts new technical, operational, and registration requirements for signal boosters. It creates two classes of signal boosters—consumer and industrial—with distinct regulatory requirements for each, thereby establishing a two-step transition process for equipment certification for both consumer and industrial signal boosters sold and marketed in the United States.

Timetable:

Action | Date | FR Cite
NPRM | 05/10/11 | 76 FR 26983
R&O | 04/11/13 | 78 FR 21555
Petition for Reconsideration | 06/06/13 | 78 FR 34015
Order on Reconsideration | 11/08/14 | 79 FR 70790
FNPRM | 11/28/14 | 79 FR 70837
Next Action Undetermined

Regulatory Flexibility Analysis Required: Yes.

Agency Contact: Amanda Huetinck, Attorney Advisor, WTB, Federal Communications Commission, 445 12th Street SW., Washington, DC 20554, Phone: 202 418-7090, Email: amanda.huetinck@fcc.gov.

RIN: 3060-AJ87

350. Amendment of the Commission's Rules Governing Certain Aviation Ground Station Equipment (Squitter) (WT Docket Nos. 10-61 and 09-42)

Legal Authority: 48 Stat. 1066, 1082 as amended; 47 U.S.C. 154; 47 U.S.C. 303; 47 U.S.C. 307(e); 47 U.S.C. 151 to 156; 47 U.S.C. 301

Abstract: This action amends part 87 rules to authorize new ground station technologies to promote safety and allow use of frequency 1090 MHz by aeronautical utility mobile stations for airport surface detection equipment (commonly referred to as “squitters”) to help reduce collisions between aircraft and airport ground vehicles.

Timetable:

Action | Date | FR Cite
NPRM | 04/28/10 | 75 FR 22352
R&O | 03/01/13 | 78 FR 61023
Next Action Undetermined

Regulatory Flexibility Analysis Required: Yes.

Agency Contact: Tim Maguire, Electronics Engineer, Federal Communications Commission, 445 12th Street SW., Washington, DC 20554, Phone: 202 418-2155, Fax: 202 418-7247, Email: tim.maguire@fcc.gov.

RIN: 3060-AJ88

351. Amendment of the Commission's Rules Concerning Commercial Radio Operators (WT Docket No. 10-177)

Legal Authority: 47 U.S.C. 154(i); 47 U.S.C. 303(r); 47 U.S.C. 332(a)2

Abstract: This action amends parts 0, 1, 13, 80, and 87 of the Commission's rules concerning commercial radio operator licenses for maritime and aviation radio stations in order to reduce administrative burdens on the telecom industry.

Timetable:

Action | Date | FR Cite
NPRM | 10/29/10 | 75 FR 66709
R&O | 05/29/13 | 78 FR 32165
Next Action Undetermined

Regulatory Flexibility Analysis Required: Yes.

Agency Contact: Stanislava Kimball, Attorney Advisor, Federal Communications Commission, 445 12th Street SW., Washington, DC 20554, Phone: 202 418-1306, Email: stanislava.kimball@fcc.gov.

RIN: 3060-AJ91

352. Amendment of Part 90 of the Commission's Rules To Permit Terrestrial Trunked Radio (TETRA) Technology; WT Docket No. 11-6

Legal Authority: 47 U.S.C. 154(i); 47 U.S.C. 161; 47 U.S.C. 303(g); 47 U.S.C. 303(r); 47 U.S.C. 332(c)(7)

Abstract: We modify our rules to permit the certification and use of Terrestrial Trunked Radio (TETRA) equipment under part 90 of our rules. TETRA is a spectrally efficient digital technology with the potential to provide valuable benefits to land mobile radio users, such as higher security and lower latency than comparable technologies. It does not, however, conform to all of our current part 90 technical rules. In the Notice of Proposed Rule Making and Order (NPRM) in this proceeding, the Commission proposed to amend part 90 to accommodate TETRA technology. We conclude that modifying the part 90 rules to permit the certification and use of TETRA equipment in two bands-the 450-470 MHz portion of the UHF band (421-512 MHz) and Business/Industrial Land Transportation 800 MHz band channels (809-824/854-869 MHz) that are not in the National Public Safety Planning Advisory Committee (NPSPAC) portion of the band-will give private land mobile radio (PLMR) licensees additional equipment alternatives without increasing the potential for interference or other adverse effects on other licensees.

Timetable:

Action | Date | FR Cite
NPRM | 05/11/11 | 76 FR 27296
R&O | 10/10/12 | 77 FR 61535
Order on Reconsideration | 08/09/13 | 78 FR 48627
Next Action Undetermined

Regulatory Flexibility Analysis Required: Yes.

Agency Contact: Tim Maguire, Electronics Engineer, Federal Communications Commission, 445 12th Street SW., Washington, DC 20554, Phone: 202 418-2155, Fax: 202 418-7247, Email: tim.maguire@fcc.gov.

RIN: 3060-AK05

353. Enabling Small Cell Use in the 3.5 GHz Band

Legal Authority: 47 U.S.C. 151 to 152; 47 U.S.C. 154(i); 47 U.S.C. 154(j) ; 47 U.S.C. 302(a); 47 U.S.C. 303 to 304; 47 U.S.C. 307(e); 47 U.S.C. 316

Abstract: The NPRM proposed to create a Citizens Broadband Service, licensed-by-rule pursuant to section 307(e) of the Communications Act and classified as a Citizens Band Service under part 95 of the Commission's rules. Access to and use of the 3.5 GHz band would be managed by a spectrum access system (SAS), incorporating a geo-location enabled dynamic database (similar to TVWS).

The Further Notice of Proposed Rulemaking proposes to create a new Citizens Broadband Radio Service in the 3550 to 3650 MHz band to be governed by a new part 96 of the Commission's rules. Access to and use of the 3550 to 3650 MHz band would be managed by a spectrum access system, incorporating a geo-location enabled dynamic database.

The Report and Order and Second Further Notice of Proposed Rulemaking adopted by the Commission established a new Citizens Broadband Radio Service for shared wireless broadband use of the 3550 to 3700 MHz band. The Citizens Broadband Radio Service is governed by a three-tiered spectrum authorization framework to accommodate a variety of commercial uses on a shared basis with incumbent federal and non-federal users of the band. Access and operations will be managed by a dynamic spectrum access system. The three tiers are: Incumbent Access, Priority Access, and General Authorized Access. Rules governing the Citizens Broadband Radio Service are found in part 96 of the Commission's rules.

Timetable:

Action | Date | FR Cite
NPRM | 01/08/13 | 78 FR 1188
NPRM Comment Period End | 03/19/13
FNPRM | 06/02/14 | 79 FR 31247
FNPRM Comment Period End | 08/15/14
R&O and 2nd FNPRM | 06/15/15 | 80 FR 34119
2nd FNPRM Comment Period End | 08/14/15
Next Action Undetermined

Regulatory Flexibility Analysis Required: Yes.

Agency Contact: Paul Powell, Attorney Advisor, Federal Communications Commission, 445 12th Street SW., Washington, DC 20554, Phone: 202 418-1613, Email: paul.powell@fcc.gov.

RIN: 3060-AK12

354. Use of Spectrum Bands Above 24 GHz for Mobile Services—Spectrum Frontiers; WT Docket 10-112

Legal Authority: 47 U.S.C. 151 to 154; 47 U.S.C. 157; 47 U.S.C. 160; 47 U.S.C. 201; 47 U.S.C. 225; 47 U.S.C. 227; 47 U.S.C. 301 to 302; 47 U.S.C. 302(a); 47 U.S.C. 303 to 304; 47 U.S.C. 307; 47 U.S.C. 309 to 310; 47 U.S.C. 316; 47 U.S.C. 319; 47 U.S.C. 332; 47 U.S.C. 336; 47 U.S.C. 1302

Abstract: In this proceeding, the Commission adopted service rules for licensing of mobile and other uses for millimeter wave (mmW) bands. These high frequencies previously have been best suited for satellite or fixed microwave applications; however, recent technological breakthroughs have newly enabled advanced mobile services in these bands, notably including very high speed and low latency services. This action will help facilitate Fifth Generation mobile services and other mobile services. In developing service rules for mmW bands, the Commission will facilitate access to spectrum, develop a flexible spectrum policy, and encourage wireless innovation.

Timetable:

Action | Date | FR Cite
NPRM | 01/13/16 | 81 FR 1802
NPRM Comment Period End | 02/26/16
FNPRM | 08/24/16 | 81 FR 58269
Comment Period End | 09/30/16
FNPRM Reply Comment Period End | 10/31/16
R&O | 11/14/16 | 81 FR 79894
Next Action Undetermined

Regulatory Flexibility Analysis Required: Yes.

Agency Contact: John Schauble, Deputy Chief, Broadband Division, Federal Communications Commission, Wireless Telecommunications Bureau, 445 12th Street SW., Washington, DC 20554, Phone: 202 418-0797, Email: john.schauble@fcc.gov.

RIN: 3060-AK44

FEDERAL COMMUNICATIONS COMMISSION (FCC)

Wireless Telecommunications Bureau

Completed Actions

355. Implementation of the Communications Act, Amendment of the Commission's Rules—Broadband PCS Competitive Bidding and the Commercial Mobile Radio Service Spectrum Cap

Legal Authority: 47 U.S.C. 154(i); 47 U.S.C. 301 and 302; 47 U.S.C. 303(r); 47 U.S.C. 309(j); 47 U.S.C. 332

Abstract: NPRM to modify the competitive bidding rules for the Broadband PCS F Block. Report and Order, adopted June 21, 1996, modified the PCS/cellular rule and the cellular spectrum cap.

Timetable:

Action | Date | FR Cite
O on Recon of Fifth MO&O and D, E, & F R&O | 11/15/00 | 65 FR 68927
Final Rule | 03/02/01 | 66 FR 13022
Final Rule | 06/04/01 | 66 FR 29911
Third NPRM | 08/27/04 | 69 FR 52632
PP Docket No. 03-253 Closed | 02/21/08
WT Docket No. 97-82 Closed | 11/02/11

Regulatory Flexibility Analysis Required: Yes.

Agency Contact: Audrey Bashkin, Staff Attorney, Federal Communications Commission, Wireless Telecommunications Bureau, 445 12th Street SW., Washington, DC 20554, Phone: 202 418-7535, Email: abashkin@fcc.gov.

RIN: 3060-AG21

FEDERAL COMMUNICATIONS COMMISSION (FCC)

Wireline Competition Bureau

Proposed Rule Stage

356. Jurisdictional Separations

Legal Authority: 47 U.S.C. 151; 47 U.S.C. 154(i) and 154(j); 47 U.S.C. 205; 47 U.S.C. 221(c); 47 U.S.C. 254; 47 U.S.C. 403; 47 U.S.C. 410

Abstract: Jurisdictional separations is the process, pursuant to part 36 of the Commission's rules, by which incumbent local exchange carriers apportion regulated costs between the intrastate and interstate jurisdictions. In 1997, the Commission initiated a proceeding seeking comment on the extent to which legislative changes, technological changes, and market changes warrant comprehensive reform of the separations process. In 2001, the Commission adopted the Federal-State Joint Board on Jurisdictional Separations' recommendation to impose an interim freeze on the part 36 category relationships and jurisdictional cost allocation factors for a period of five years, pending comprehensive reform of the part 36 separations rules. In 2006, the Commission adopted an Order and Further Notice of Proposed Rulemaking, which extended the separations freeze for a period of three years and sought comment on comprehensive reform. In 2009, the Commission adopted a Report and Order extending the separations freeze an additional year to June 2010. In 2010, the Commission adopted a Report and Order extending the separations freeze for an additional year to June 2011. In 2011, the Commission adopted a Report and Order extending the separations freeze for an additional year to June 2012. In 2012, the Commission adopted a Report and Order extending the separations freeze for an additional two years to June 2014. In 2014, the Commission adopted a Report and Order extending the separations freeze for an additional three years to June 2017.

On March 20, 2017, the Commission adopted a Further Notice of Proposed Rulemaking proposing to extend the separations freeze for an additional 18 months through December 2018 and to consider with the Separations Federal-State Joint Board comprehensive reform of the jurisdictional separations procedures in the Commission's rules.

Timetable:

Action | Date | FR Cite
NPRM | 11/05/97 | 62 FR 59842
NPRM Comment Period End | 12/10/97
Order | 06/21/01 | 66 FR 33202
Order and FNPRM | 05/26/06 | 71 FR 29882
Order and FNPRM Comment Period End | 08/22/06
R&O | 05/15/09 | 74 FR 23955
R&O | 05/25/10 | 75 FR 30301
R&O | 05/27/11 | 76 FR 30840
R&O | 05/23/12 | 77 FR 30410
R&O | 06/13/14 | 79 FR 36232
FNPRM | 11/00/17

Regulatory Flexibility Analysis Required: Yes.

Agency Contact: John Hunter, Attorney-Advisor, Federal Communications Commission, 445 12th Street SW., Washington, DC 20554, Phone: 202 418-1520, Email: john.hunter@fcc.gov.

RIN: 3060-AJ06

FEDERAL COMMUNICATIONS COMMISSION (FCC)

Wireline Competition Bureau

Final Rule Stage

357. Comprehensive Review of the Part 32 Uniform System of Accounts (WC Docket No. 14-130)

Legal Authority: 47 U.S.C. 151; 47 U.S.C. 154(i); 47 U.S.C. 201(b); 47 U.S.C. 219; 47 U.S.C. 220

Abstract: The Commission initiates a rulemaking proceeding to review the Uniform System of Accounts (USOA) to consider ways to minimize the compliance burdens on incumbent local exchange carriers while ensuring that the agency retains access to the information it needs to fulfill its regulatory duties. In light of the Commission's actions in areas of price cap regulation, universal service reform, and intercarrier compensation reform, the Commission stated that it is likely appropriate to streamline the existing rules even though those reforms may not have eliminated the need for accounting data for some purposes. The Commission's analysis and proposals are divided into three parts. First, the Commission proposes to streamline the USOA accounting rules while preserving their existing structure. Second, the Commission seeks more focused comment on the accounting requirements needed for price cap carriers to address our statutory and regulatory obligations. Third, the Commission seeks comment on several related issues, including state requirements, rate effects, implementation, continuing property records, and legal authority.

On February 23, 2017, the Commission adopted a Report and Order that revised the part 32 USOA to substantially reduce accounting burdens for both price cap and rate-of-return carriers. First, the Order streamlines the USOA for all carriers. In addition, the USOA will be aligned more closely with generally accepted accounting principles, or GAAP. Second, the Order allows price cap carriers to use GAAP for all regulatory accounting purposes as long as they comply with targeted accounting rules, which are designed to mitigate any impact on pole attachment rates. Alternatively, price cap carriers can elect to use GAAP accounting for all purposes other than those associated with pole attachment rates and continue to use the part 32 accounts for pole attachment rates for up to 12 years. Third, the Order addresses several miscellaneous issues, including referral to the Federal-State Joint Board on Separations the issue of examining jurisdictional separations rules in light of the reforms adopted to part 32.

Timetable:

Action | Date | FR Cite
NPRM | 09/15/14 | 79 FR 54942
NPRM Comment Period End | 11/14/14
NPRM Reply Comment Period End | 12/15/14
R&O (Released 2/23/2017) | 11/00/17

Regulatory Flexibility Analysis Required: Yes.

Agency Contact: Robin Cohn, Attorney Advisor, Federal Communications Commission, 445 12th Street SW., Washington, DC 20554, Phone: 202 418-2747, Email: robin.cohn@fcc.gov.

RIN: 3060-AK20

358. Protecting and Promoting the Open Internet (WC Docket No. 14-28)

Legal Authority: 47 U.S.C. 151; 47 U.S.C. 154(i) to (j); 47 U.S.C. 201(b)

Abstract: In May 2014, the Commission adopted a Notice of Proposed Rulemaking seeking comment on rules for Internet openness and the Commission's legal basis to adopt such rules following the Verizon v. FCC decision that vacated the Commission's 2010 Open Internet Order conduct-based rules. In February 2015, the Commission adopted a Report and Order on Remand, Declaratory Ruling, and Order (2015 Order) that reclassified broadband Internet access service under title II of the Communications Act. The Commission also adopted new rules banning blocking, throttling, and paid prioritization under its title II authority. Finally, the 2015 Order also adopted a general conduct standard applicable to broadband service providers, as well as additional reporting obligations.

The rules became effective on June 12, 2015, with the exception of the additional reporting obligations, which became effective on January 17, 2017.

In March 2017, the Commission adopted an Order granting a five-year waiver to broadband Internet access service providers with 250,000 or fewer broadband connections from the additional reporting obligations.

Timetable:

Action | Date | FR Cite
NPRM | 07/01/14 | 79 FR 37448
NPRM Comment Period End | 07/18/14
NPRM Reply Comment Period End | 09/15/14
R&O on Remand, Declaratory Ruling, and Order | 04/13/15 | 80 FR 19737
Waiver Order 03/02/2017 (Not yet published) | 06/00/17

Regulatory Flexibility Analysis Required: Yes.

Agency Contact: Zachary Ross, Attorney Advisor, Competiton Policy Division, WCB, Federal Communications Commission, 445 12th Street SW., Washington, DC 20554, Phone: 202 418-1033, Email: zachary.ross@fcc.gov.

RIN: 3060-AK21

FEDERAL COMMUNICATIONS COMMISSION (FCC)

Wireline Competition Bureau

Long-Term Actions

359. Telecommunications Carriers' Use of Customer Proprietary Network Information and Other Customer Information (CC Docket No. 96-115)

Legal Authority: 47 U.S.C. 151; 47 U.S.C. 154; 47 U.S.C. 222; 47 U.S.C. 272; 47 U.S.C. 303(r)

Abstract: The Commission adopted rules implementing the new statutory framework governing carrier use and disclosure of customer proprietary network information (CPNI) created by section 222 of the Communications Act of 1934, as amended. CPNI includes, among other things, to whom, where, and when a customer places a call, as well as the types of service offerings to which the customer subscribes and the extent to which the service is used.

Timetable:

Action | Date | FR Cite
NPRM | 05/28/96 | 61 FR 26483
Public Notice | 02/25/97 | 62 FR 8414
Second R&O and FNPRM | 04/24/98 | 63 FR 20364
Order on Recon | 10/01/99 | 64 FR 53242
Final Rule, Announcement of Effective Date | 01/26/01 | 66 FR 7865
Clarification Order and Second NPRM | 09/07/01 | 66 FR 50140
Third R&O and Third FNPRM | 09/20/02 | 67 FR 59205
NPRM | 03/15/06 | 71 FR 13317
NPRM | 06/08/07 | 72 FR 31782
Final Rule, Announcement of Effective Date | 06/08/07 | 72 FR 31948
Public Notice | 07/13/12 | 77 FR 35336
Next Action Undetermined

Regulatory Flexibility Analysis Required: Yes.

Agency Contact: Melissa Kirkel, Attorney Advisor, Federal Communications Commission, Wireline Competition Bureau, 445 12th Street SW., Washington, DC 20554, Phone: 202 418-7958, Fax: 202 418-1413, Email: melissa.kirkel@fcc.gov.

RIN: 3060-AG43

360. 2000 Biennial Regulatory Review—Telecommunications Service Quality Reporting Requirements

Legal Authority: 47 U.S.C. 154(i) and 154(j); 47 U.S.C. 201(b); 47 U.S.C. 303(r); 47 U.S.C. 403

Abstract: The notice of proposed rulemaking (NPRM) proposed to eliminate our current service quality reports (Automated Reporting Management Information System (ARMIS) Report 43-05 and 43-06) and replace them with a more consumer-oriented report. The NPRM proposed to reduce the reporting categories from more than 30 to 6, and addressed the needs of carriers, consumers, State public utility commissions, and other interested parties. On February 15, 2005, the Commission adopted an Order that extended the Federal-State Joint Conference on Accounting Issues until March 1, 2007. On September 6, 2008, the Commission adopted a Memorandum Opinion and Order granting conditional forbearance from the ARMIS 43-05 and 43-06 reporting requirements to all carriers that are required to file these reports.

Timetable:

Action | Date | FR Cite
NPRM | 12/04/00 | 65 FR 75657
Order | 02/06/02 | 67 FR 5670
Order | 03/22/05 | 70 FR 14466
MO&O | 10/15/08 | 73 FR 60997
Next Action Undetermined

Regulatory Flexibility Analysis Required: Yes.

Agency Contact: Cathy Zima, Deputy Chief, Industry Analysis Division, WCB, Federal Communications Commission, Wireline Competition Bureau, 445 12th Street SW., Washington, DC 20554, Phone: 202 418-7380, Fax: 202 418-6768, Email: cathy.zima@fcc.gov.

RIN: 3060-AH72

361. Numbering Resource Optimization

Legal Authority: 47 U.S.C. 151; 47 U.S.C. 154; 47 U.S.C. 201 et seq.; 47 U.S.C. 251(e)

Abstract: In 1999, the Commission released the Numbering Resource Optimization Notice of Proposed Rulemaking (Notice) in CC Docket 99-200. The Notice examined and sought comment on several administrative and technical measures aimed at improving the efficiency with which telecommunications numbering resources are used and allocated. It incorporated input from the North American Numbering Council (NANC), a Federal advisory committee, which advises the Commission on issues related to number administration. In the Numbering Resource Optimization First Report and Order and Further Notice of Proposed Rulemaking (NRO First Report and Order), released on March 31, 2000, the Commission adopted a mandatory utilization data reporting requirement, a uniform set of categories of numbers for which carriers must report their utilization, and a utilization threshold framework to increase carrier accountability and incentives to use numbers efficiently. In addition, the Commission adopted a single system for allocating numbers in blocks of 1,000, rather than 10,000, wherever possible, and established a plan for national rollout of thousands-block number pooling. The Commission also adopted numbering resource reclamation requirements to ensure that unused numbers are returned to the North American Numbering Plan (NANP) inventory for assignment to other carriers. Also, to encourage better management of numbering resources, carriers are required, to the extent possible, to first assign numbering resources within thousands blocks (a form of sequential numbering). In the NRO Second Report and Order, the Commission adopted a measure that requires all carriers to use at least 60 percent of their numbering resources before they may get additional numbers in a particular area. That 60 percent utilization threshold increases to 75 percent over the next 3 years. The Commission also established a 5-year term for the national Pooling Administrator and an auditing program to verify carrier compliance with the Commission's rules. Furthermore, the Commission addressed several issues raised in the Notice, concerning area code relief. Specifically, the Commission declined to amend the existing Federal rules for area code relief or specify any new Federal guidelines for the implementation of area code relief. The Commission also declined to state a preference for either all-services overlays or geographic splits as a method of area code relief. Regarding mandatory nationwide ten-digit dialing, the Commission declined to adopt this measure at the present time. Furthermore, the Commission declined to mandate nationwide expansion of the “D digit” (the “N” of an NXX or central office code) to include 0 or 1, or to grant state commissions the authority to implement the expansion of the D digit as a numbering resource optimization measure at the present time. In the NRO Third Report and Order, the Commission addressed national thousands-block number pooling administration issues, including declining to alter the implementation date for covered CMRS carriers to participate in pooling. The Commission also addressed Federal cost recovery for national thousands-block number pooling, and continued to require States to establish cost recovery mechanisms for costs incurred by carriers participating in pooling trials. The Commission reaffirmed the Months-To-Exhaust (MTE) requirement for carriers. The Commission declined to lower the utilization threshold established in the Second Report and Order, and declined to exempt pooling carriers from the utilization threshold. The Commission also established a safety valve mechanism to allow carriers that do not meet the utilization threshold in a given rate center to obtain additional numbering resources. In the NRO Third Report and Order, the Commission lifted the ban on technology-specific overlays (TSOs), and delegated authority to the Common Carrier Bureau, in consultation with the Wireless Telecommunications Bureau, to resolve any such petitions. Furthermore, the Commission found that carriers who violate our numbering requirements, or fail to cooperate with an auditor conducting either a “for cause” or random audit, should be denied numbering resources in certain instances. The Commission also reaffirmed the 180-day reservation period, declined to impose fees to extend the reservation period, and found that State commissions should be allowed password-protected access to the NANPA database for data pertaining to NPAs located within their State. The measures adopted in the NRO orders will allow the Commission to monitor more closely the way numbering resources are used within the NANP, and will promote more efficient allocation and use of NANP resources by tying a carrier's ability to obtain numbering resources more closely to its actual need for numbers to serve its customers. These measures are designed to create national standards to optimize the use of numbering resources by: (1) Minimizing the negative impact on consumers of premature area code exhausts; (2) ensuring sufficient access to numbering resources for all service providers to enter into or to compete in telecommunications markets; (3) avoiding premature exhaust of the NANP; (4) extending the life of the NANP; (5) imposing the least societal cost possible, and ensuring competitive neutrality, while obtaining the highest benefit; (6) ensuring that no class of carrier or consumer is unduly favored or disfavored by the Commission's optimization efforts; and (7) minimizing the incentives for carriers to build and carry excessively large inventories of numbers. In NRO Third Order on Recon in CC Docket No. 99-200, Third Further Notice of Proposed Rulemaking in CC Docket No. 99-200 and Second Further Notice of Proposed Rulemaking in CC Docket No, 95-116, the Commission reconsidered its findings in the NRO Third Report and Order regarding the local Number portability (LNP) and thousands-block number pooling requirements for carriers in the top 100 Metropolitan Statistical areas (MSAs). Specifically, the Commission reversed its clarification that those requirements extend to all carriers in the largest 100 MSAs, regardless of whether they have received a request from another carrier to provide LNP. The Commission also sought comment on whether the Commission should again extend the LNP requirements to all carriers in the largest 100 MSAs, regardless of whether they receive a request to provide LNP. The Commission also sought comment on whether all carriers in the top 100 MSAs should be required to participate in thousands-block number pooling, regardless of whether they are required to be LNP capable. In addition, the Commission sought comment on whether all MSAs included in Combined Metropolitan Statistical Areas (CMSAs) on the Census Bureau's list of the largest 100 MSAs should be included on the Commission's list of the top 100 MSAs. In the NRO Fourth Report and Order and Further Notice of Proposed Rulemaking, the Commission reaffirmed that carriers must deploy LNP in switches within the 100 largest Metropolitan Statistical Areas (MSAs) for which another carrier has made a specific request for the provision of LNP. The Commission delegated the authority to state commissions to require carriers operating within the largest 100 MSAs that have not received a specific request for LNP from another carrier to provide LNP, under certain circumstances and on a case-by-case basis. The Commission concluded that all carriers, except those specifically exempted, are required to participate in thousands-block number pooling in accordance with the national rollout schedule, regardless of whether they are required to provide LNP, including commercial mobile radio service (CMRS) providers that were required to deploy LNP as of November 24, 2003. The Commission specifically exempted from the pooling requirement rural telephone companies and Tier III CMRS providers that have not received a request to provide LNP. The Commission also exempted from the pooling requirement carriers that are the only service provider receiving numbering resources in a given rate center. Additionally, the Commission sought further comment on whether these exemptions should be expanded to include carriers where there are only two service providers receiving numbering resources in the rate center. Finally, the Commission reaffirmed that the 100 largest MSAs identified in the 1990 U.S. Census reports as well as those areas included on any subsequent U.S. Census report of the 100 largest MSAs. In the NRO Order and Fifth Further Notice of Proposed Rulemaking, the Commission granted petitions for delegated authority to implement mandatory thousands-block pooling filed by the Public Service Commission of West Virginia, the Nebraska Public Service Commission, the Oklahoma Corporation Commission, the Michigan Public Service Commission, and the Missouri Public Service Commission. In granting these petitions, the Commission permitted these states to optimize numbering resources and further extend the life of the specific numbering plan areas. In the Further Notice of Proposed Rulemaking, the Commission sought comment on whether it should delegate authority to all states to implement mandatory thousands-block number pooling consistent with the parameters set forth in the NRO Order.

In its 2013 Notice of Proposed Rulemaking, the Commission proposed to allow interconnected Voice over Internet Protocol providers to obtain telephone numbers directly from the North American Numbering Plan Administrator and the Pooling Administrator, subject to certain requirements. The Commission also sought comment on a forward-looking approach to numbers for other types of providers and uses, including telematics and public safety, and the benefits and number exhaust risks of granting providers other than interconnected Voice over Internet Protocol providers direct access.

In its 2015 Report and Order, the Commission established an authorization process to enable interconnected VoIP providers that choose to obtain access to North American Numbering Plan telephone numbers directly from the North American Numbering Plan Administrator and/or the Pooling Administrator (Numbering Administrators), rather than through intermediaries. The Order also set forth several conditions designed to minimize number exhaust and preserve the integrity of the numbering system. Specifically, the Commission required interconnected VoIP providers obtaining numbers to comply with the same requirements applicable to carriers seeking to obtain numbers. The requirements included any state requirements pursuant to numbering authority delegated to the states by the Commission, as well as industry guidelines and practices, among others. The Commission also required interconnected VoIP providers to comply with facilities readiness requirements adapted to this context, and with numbering utilization and optimization requirements. In addition, as conditions to requesting and obtaining numbers directly from the Numbering Administrators, the Commission required interconnected VoIP providers to: (1) Provide the relevant state commissions with regulatory and numbering contacts when requesting numbers in those states, (2) request numbers from the Numbering Administrators under their own unique OCN, (3) file any requests for numbers with the relevant state commissions at least 30 days prior to requesting numbers from the Numbering Administrators, and (4) provide customers with the opportunity to access all abbreviated dialing codes (N11 numbers) in use in a geographic area. Finally, the Order also modified Commission's rules in order to permit VoIP Positioning Center providers to obtain pseudo-Automatic Number Identification codes directly from the Numbering Administrators for purposes of providing E911 services.

Timetable:

Action | Date | FR Cite
NPRM | 06/17/99 | 64 FR 32471
R&O and FNPRM | 06/16/00 | 65 FR 37703
Second R&O and Second FNPRM | 02/08/01 | 66 FR 9528
Third R&O and Second Order on Recon | 02/12/02 | 67 FR 643
Third O on Recon and Third FNPRM | 04/05/02 | 67 FR 16347
Fourth R&O and Fourth NPRM | 07/21/03 | 68 FR 43003
Order and Fifth FNPRM | 03/15/06 | 71 FR 13393
Order | 06/19/13 | 78 FR 36679
NPRM & NOI | 06/19/13 | 78 FR 36725
R&O (release date) | 06/22/15
Next Action Undetermined

Regulatory Flexibility Analysis Required: Yes.

Agency Contact: Marilyn Jones, Attorney, Federal Communications Commission, Wireline Competition Bureau, 445 12th Street SW., Washington, DC 20554, Phone: 202 418-2357, Fax: 202 418-2345, Email: marilyn.jones@fcc.gov.

RIN: 3060-AH80

362. National Exchange Carrier Association Petition

Legal Authority: 47 U.S.C. 151 and 152; 47 U.S.C. 201 and 202; . . .

Abstract: In a Notice of Proposed Rulemaking (NPRM) released on July 19, 2004, the Commission initiated a rulemaking proceeding to examine the proper number of end user common line charges (commonly referred to as subscriber line charges or SLCs) that carriers may assess upon customers that obtain derived channel T-1 service where the customer provides the terminating channelization equipment and upon customers that obtain Primary Rate Interface (PRI) Integrated Service Digital Network (ISDN) service.

Timetable:

Action | Date | FR Cite
NPRM | 08/13/04 | 69 FR 50141
NPRM Comment Period End | 11/12/04
Next Action Undetermined

Regulatory Flexibility Analysis Required: Yes.

Agency Contact: Douglas Slotten, Attorney Advisor, Federal Communications Commission, Wireline Competition Bureau, 445 12th Street SW., Washington, DC 20554, Phone: 202 418-1572, Email: douglas.slotten@fcc.gov.

RIN: 3060-AI47

363. IP-Enabled Services; WC Docket No. 04-36

Legal Authority: 47 U.S.C. 151 and 152; . . .

Abstract: The notice seeks comment on ways in which the Commission might categorize or regulate IP-enabled services. It poses questions regarding the proper allocation of jurisdiction over each category of IP-enabled service. The notice then requests comment on whether the services comprising each category constitute “telecommunications services” or “information services” under the definitions set forth in the Act. Finally, noting the Commission's statutory forbearance authority and title I ancillary jurisdiction, the notice describes a number of central regulatory requirements (including, for example, those relating to access charges, universal service, E911, and disability accessibility), and asks which, if any, should apply to each category of IP-enabled services.

Timetable:

Action | Date | FR Cite
NPRM | 03/29/04 | 69 FR 16193
NPRM Comment Period End | 07/14/04
First R&O | 06/03/05 | 70 FR 37273
Public Notice | 06/16/05 | 70 FR 37403
First R&O Effective | 07/29/05 | 70 FR 43323
Public Notice | 08/31/05 | 70 FR 51815
R&O | 07/10/06 | 71 FR 38781
R&O and FNPRM | 06/08/07 | 72 FR 31948
FNPRM Comment Period End | 07/09/07 | 72 FR 31782
R&O | 08/06/07 | 72 FR 43546
Public Notice | 08/07/07 | 72 FR 44136
R&O | 08/16/07 | 72 FR 45908
Public Notice | 11/01/07 | 72 FR 61813
Public Notice | 11/01/07 | 72 FR 61882
Public Notice | 12/13/07 | 72 FR 70808
Public Notice | 12/20/07 | 72 FR 72358
R&O | 02/21/08 | 73 FR 9463
NPRM | 02/21/08 | 73 FR 9507
Order | 05/15/08 | 73 FR 28057
Order | 07/29/09 | 74 FR 37624
R&O | 08/07/09 | 74 FR 39551
Public Notice | 10/14/09 | 74 FR 52808
Announcement of Effective Date | 03/19/10 | 75 FR 13235
Public Notice | 05/20/10 | 75 FR 28249
Public Notice | 06/11/10 | 75 FR 33303
NPRM, Order, & NOI | 06/19/13 | 78 FR 36679
R&O | 10/29/15 | 80 FR 66454
Erratum | 01/11/16 | 81 FR 1131
Announcement of Effective Date | 02/24/16 | 81 FR 5920
Next Action Undetermined

Regulatory Flexibility Analysis Required: Yes.

Agency Contact: Melissa Kirkel, Attorney Advisor, Federal Communications Commission, Wireline Competition Bureau, 445 12th Street SW., Washington, DC 20554, Phone: 202 418-7958, Fax: 202 418-1413, Email: melissa.kirkel@fcc.gov.

RIN: 3060-AI48

364. Service Quality, Customer Satisfaction, Infrastructure and Operating Data Gathering (WC Docket Nos. 08-190, 07-139, 07-204, 07-273, 07-21)

Legal Authority: 47 U.S.C. 151 to 155; 47 U.S.C. 160 and 161; 47 U.S.C. 20 to 205; 47 U.S.C. 215; 47 U.S.C. 218 to 220; 47 U.S.C. 251 to 271; 47 U.S.C. 303(r) and 332; 47 U.S.C. 403; 47 U.S.C. 502 and 503

Abstract: This notice of proposed rulemaking (NPRM) tentatively proposes to collect infrastructure and operating data that is tailored in scope to be consistent with Commission objectives from all facilities-based providers of broadband and telecommunications. Similarly, the NPRM also tentatively proposes to collect data concerning service quality and customer satisfaction from all facilities-based providers of broadband and telecommunications. The NPRM seeks comment on the proposals, on the specific information to be collected, and on the mechanisms for collecting information. On June 27, 2013, the Commission adopted a Report and Order addressing collection of broadband deployment data from facilities-based providers.

Timetable:

Action | Date | FR Cite
NPRM | 10/15/08 | 73 FR 60997
NPRM Comment Period End | 11/14/08
Reply Comment Period End | 12/15/08
NPRM | 02/28/11 | 76 FR 12308
NPRM Comment Period End | 03/30/11
Reply Comment Period End | 04/14/11
R&O | 08/13/13 | 78 FR 49126
Next Action Undetermined

Regulatory Flexibility Analysis Required: Yes.

Agency Contact: Cathy Zima, Deputy Chief, Industry Analysis Division, WCB, Federal Communications Commission, Wireline Competition Bureau, 445 12th Street SW., Washington, DC 20554, Phone: 202 418-7380, Fax: 202 418-6768, Email: cathy.zima@fcc.gov.

RIN: 3060-AJ14

365. Development of Nationwide Broadband Data To Evaluate Reasonable and Timely Deployment of Advanced Services to All Americans

Legal Authority: 15 U.S.C. 251; 47 U.S.C. 252; 47 U.S.C. 257; 47 U.S.C. 271; 47 U.S.C. 1302; 47 U.S.C. 160(b); 47 U.S.C. 161(a)(2)

Abstract: The Report and Order streamlined and reformed the Commission's Form 477 Data Program, which is the Commission's primary tool to collect data on broadband and telephone services.

Timetable:

Action | Date | FR Cite
NPRM | 05/16/07 | 72 FR 27519
Order | 07/02/08 | 73 FR 37861
Order | 10/15/08 | 73 FR 60997
NPRM | 02/08/11 | 76 FR 10827
Order | 06/27/13 | 78 FR 49126
Next Action Undetermined

Regulatory Flexibility Analysis Required: Yes.

Agency Contact: Chelsea Fallon, Assistant Division Chief, Federal Communications Commission, 445 12th Street SW., Washington, DC 20554, Phone: 202 418-7991, Email: chelsea.fallon@fcc.gov.

RIN: 3060-AJ15

366. Local Number Portability Porting Interval and Validation Requirements (WC Docket No. 07-244)

Legal Authority: 47 U.S.C. 151; 47 U.S.C. 154(i); 47 U.S.C. 154(j); 47 U.S.C. 251; 47 U.S.C. 303(r)

Abstract: In 2007, the Commission released a Notice of Proposed Rulemaking in WC Docket No. 07-244. The Notice sought comment on whether the Commission should adopt rules specifying the length of the porting intervals or other details of the porting process. It also tentatively concluded that the Commission should adopt rules reducing the porting interval for wireline-to-wireline and intermodal simple port requests, specifically, to a 48-hour porting interval.

In the Local Number Portability Porting Interval and Validation Requirements First Report and Order and Further Notice of Proposed Rulemaking, released on May 13, 2009, the Commission reduced the porting interval for simple wireline and simple intermodal port requests, requiring all entities subject to its local number portability (LNP) rules to complete simple wireline-to-wireline and simple intermodal port requests within one business day. In a related Further Notice of Proposed Rulemaking (FNPRM), the Commission sought comment on what further steps, if any, the Commission should take to improve the process of changing providers.

In the LNP Standard Fields Order, released on May 20, 2010, the Commission adopted standardized data fields for simple wireline and intermodal ports. The Order also adopts the NANC's recommendations for porting process provisioning flows and for counting a business day in the context of number porting.

Timetable:

Action | Date | FR Cite
NPRM | 02/21/08 | 73 FR 9507
R&O and FNPRM | 07/02/09 | 74 FR 31630
R&O | 06/22/10 | 75 FR 35305
Public Notice | 12/21/11 | 76 FR 79607
Public Notice | 06/06/13 | 78 FR 34015
R&O | 05/26/15 | 80 FR 29978
Next Action Undetermined

Regulatory Flexibility Analysis Required: Yes.

Agency Contact: Melissa Kirkel, Attorney Advisor, Federal Communications Commission, Wireline Competition Bureau, 445 12th Street SW., Washington, DC 20554, Phone: 202 418-7958, Fax: 202 418-1413, Email: melissa.kirkel@fcc.gov.

RIN: 3060-AJ32

367. Implementation of Section 224 of the Act; A National Broadband Plan for Our Future (WC Docket No. 07-245, GN Docket No. 09-51)

Legal Authority: 47 U.S.C. 151; 47 U.S.C. 154(i); 47 U.S.C. 154(j); 47 U.S.C. 224

Abstract: In 2010, the Commission released an Order and Further Notice of Proposed Rulemaking that implemented certain pole attachment recommendations of the National Broadband Plan and sought comment regarding others. On April 7, 2011, the Commission adopted a Report and Order and Order on Reconsideration that sets forth a comprehensive regulatory scheme for access to poles, and modifies existing rules for pole attachment rates and enforcement. In 2015, the Commission issued an Order on Reconsideration that further harmonized the pole attachment rates paid by telecommunications and cable providers.

The 2015 Order on Reconsideration is currently under appeal before the U.S. Court of Appeals for the Eighth Circuit in Ameren Corporation, et al. v. FCC, Case No: 16-1683.

Timetable:

Action | Date | FR Cite
NPRM | 02/06/08 | 73 FR 6879
FNPRM | 07/15/10 | 75 FR 41338
Declaratory Ruling | 08/03/10 | 75 FR 45494
R&O | 05/09/11 | 76 FR 26620
Order on Recon | 02/03/16 | 81 FR 5605
Next Action Undetermined

Regulatory Flexibility Analysis Required: Yes.

Agency Contact: Michael Ray, Attorney, Federal Communications Commission, 445 12th Street SW., Washington, DC 20554, Phone: 202 418-0357.

RIN: 3060-AJ64

368. Rural Call Completion; WC Docket No. 13-39

Legal Authority: 47 U.S.C. 151; 47 U.S.C. 154(i); 47 U.S.C. 201(b); 47 U.S.C. 202(a); 47 U.S.C. 218; 47 U.S.C. 220(a); 47 U.S.C. 257(a); 47 U.S.C. 403

Abstract: The recordkeeping, retention, and reporting requirements in the Report and Order improve the Commission's ability to monitor problems with completing calls to rural areas, and enforce restrictions against blocking, choking, reducing, or restricting calls. The Further Notice of Proposed Rulemaking sought comment on additional measures intended to further ensure reasonable and nondiscriminatory service to rural areas. The Report and Order applies new recordkeeping, retention, and reporting requirements to providers of long-distance voice service that make the initial long-distance call path choice for more than 100,000 domestic retail subscriber lines which, in most cases, is the calling party's long-distance provider. Covered providers are required to file quarterly reports and retain the call detail records for at least six calendar months. Qualifying providers may certify that they meet a Safe Harbor which reduces their reporting and retention obligations, or seek a waiver of these rules from the Wireline Competition Bureau, in consultation with the Enforcement Bureau. The Report and Order also adopts a rule prohibiting all originating and intermediate providers from causing audible ringing to be sent to the caller before the terminating provider has signaled that the called party is being alerted.

On February 13, 2015, the Wireline Competition Bureau provided additional guidance regarding how providers must categorize information. The Commission also adopted an Order on Reconsideration addressing petitions for reconsideration. Reports have been due quarterly beginning with the second quarter of 2015.

Timetable:

Action | Date | FR Cite
NPRM | 04/12/13 | 78 FR 21891
Public Notice | 05/07/13 | 78 FR 26572
NPRM Comment Period End | 05/28/13
R&O and FNPRM | 12/17/13 | 78 FR 76218
PRA 60 Day Notice | 12/30/13 | 78 FR 79448
FNPRM Comment Period End | 02/18/14
PRA Comments Due | 03/11/14
Public Notice | 05/06/14 | 79 FR 25682
Order on Reconsideration | 12/10/14 | 79 FR 73227
Erratum | 01/08/15 | 80 FR 1007
Public Notice | 03/04/15 | 80 FR 11954
Next Action Undetermined

Regulatory Flexibility Analysis Required: Yes.

Agency Contact: E. Alex Espinoza, Attorney-Advisor, Federal Communications Commission, 445 12th Street SW., Washington, DC 20554, Phone: 202 418-0849, Email: alex.espinoza@fcc.gov.

RIN: 3060-AJ89

369. Rates for Inmate Calling Services; WC Docket No. 12-375

Legal Authority: 47 U.S.C. 151; 47 U.S.C. 154(i) to (j); 47 U.S.C. 225; 47 U.S.C. 276; 47 U.S.C. 303(r); 47 CFR 64

Abstract: In the Report and Order portion of this document, the Federal Communications Commission adopts rule changes to ensure that rates for both interstate and intrastate inmate calling services (ICS) are fair, just, and reasonable, as required by statute, and limits ancillary service charges imposed by ICS providers. In the Report and Order, the Commission sets caps on all interstate and intrastate calling rates for ICS, establishes a tiered rate structure based on the size and type of facility being served, limits the types of ancillary services that ICS providers may charge for and caps the charges for permitted fees, bans flat-rate calling, facilitates access to ICS by people with disabilities by requiring providers to offer free or steeply discounted rates for calls using TTY, and imposes reporting and certification requirements to facilitate continued oversight of the ICS market. In the Further Notice portion of the item, the Commission seeks comment on ways to promote competition for ICS, video visitation, rates for international calls, and considers an array of solutions to further address areas of concern in the ICS industry. In an Order on Reconsideration, the Commission amends its rate caps and amends the definition of “mandatory tax or mandatory fee.”

Timetable:

Action | Date | FR Cite
NPRM | 01/22/13 | 78 FR 4369
FNPRM | 11/13/13 | 78 FR 68005
R&O | 11/13/13 | 78 FR 67956
FNPRM Comment Period End | 12/20/13
Announcement of Effective Date | 06/20/14 | 79 FR 33709
2nd FNPRM | 11/21/14 | 79 FR 69682
2nd FNPRM Comment Period End | 01/15/15
2nd FNPRM Reply Comment Period End | 01/20/15
3rd FNPRM | 12/18/15 | 80 FR 79020
2nd R&O | 12/18/15 | 80 FR 79136
3rd FNPRM Comment Period End | 01/19/16
3rd FNPRM Reply Comment Period End | 02/08/16
Order on Reconsideration | 09/12/16 | 81 FR 62818
Announcement of OMB Approval | 03/01/17 | 82 FR 12182
Correction to Announcement of OMB Approval | 03/08/17 | 82 FR 12922
Next Action Undetermined

Regulatory Flexibility Analysis Required: Yes.

Agency Contact: Gil Strobel, Deputy Pricing Policy Div. Chief, WCB, Federal Communications Commission, 445 12th Street SW., Washington, DC 20554, Phone: 202 418-7084.

RIN: 3060-AK08

370. Technology Transitions; GN Docket No. 13-5, WC Docket No. 05-25

Legal Authority: 47 U.S.C. 214; 47 U.S.C. 251

Abstract: This proceeding seeks to strengthen public safety, pro-consumer and pro-competition policies and protections in a manner appropriate for technology transitions that are underway and for networks and services that emerge from those transitions. The Notice of Proposed Rulemaking proposed new rules to ensure reliable backup power for consumers of IP-based voice and data services across networks that provide residential fixed service that substitutes for and improves upon the kind of traditional telephony used by people to dial 911. It also proposed new and revised rules to protect consumers by ensuring they are informed about their choices and the services provided to them when carriers retire legacy facilities (e.g., copper networks) and seek to discontinue legacy services (e.g., basic voice service). Finally, it proposed revised rules to protect competition where it exists today, so that the mere change of a network facility or discontinuance of a legacy service does not deprive small- and medium-size business, schools, libraries, and other enterprises of the ability to choose the kinds of innovative services that best suit their needs.

The Report and Order, Order on Reconsideration and Further Notice of Proposed Rulemaking: (i) Adopted rules updating the process by which incumbent LECs notify interconnecting entities of planned copper retirements; (ii) clarified that a carrier must obtain Commission approval before discontinuing, reducing, or impairing a service used as a wholesale input, but only when the carrier's actions will discontinue, reduce, or impair service to end users, including a carrier-customer's retail end users; (iii) adopted an interim rule requiring that to receive authority to discontinue, reduce, or impair a legacy TDM-based service special access service or commercial wholesale platform service that is used as a wholesale input by competitive providers, an incumbent LEC must as a condition to obtaining discontinuance authority commit to providing competitive carriers wholesale access on reasonably comparable rates, terms, and conditions; (iv) proposed specific criteria for the Commission to consider in determining whether to authorize carriers to discontinue a legacy retail service in favor of a retail service based on a newer technology; (v) sought comment on updating the rules governing the discontinuance process, including regarding the timing of notice to consumers, the method for providing that notice, and providing notice to Tribal governments; (vi) sought comment on extending the end point of the interim rule adopted in the Report and Order as it applies to the commercial wholesale platform service; and (vii) sought comment on whether to adopt objective criteria to measure an ILEC's good faith in responding to competitive LEC requests for additional information in connection with a copper retirement notice and whether a planned copper retirement should be postponed when an ILEC has failed to fulfill the new good faith communication requirement adopted in the Report and Order.

The Second Report and Order and Order on Reconsideration: (i) Adopted rules updating the process by which carriers seek Commission authorization for the discontinuance of legacy services in favor of services based on newer technologies; (ii) set forth consumer education requirements for carriers seeking to discontinue legacy services in favor of services based on newer technologies; (iii) revised rules to authorize carriers to provide notice to customers of discontinuance applications by email; (iv) revised rules to require carriers to provide notice of discontinuance applications to Tribal entities; (v) revised rules to provide new titles for copper retirement notices and certifications; (vi) revised rules to provide that if a competitive LEC files a section 214(a) discontinuance application based on an incumbent LEC's copper retirement notice without an accompanying discontinuance of TDM-based service, the competitive LEC's application will be automatically granted on the effective date of the copper retirement as long as (1) the competitive LEC submits its discontinuance application to the Commission at least 40 days before the incumbent LEC's copper retirement effective date, and (2) the competitive LEC's discontinuance application contains a certification that the basis for the application is the incumbent LEC's planned copper retirement.

Timetable:

Action | Date | FR Cite
NPRM | 01/06/15 | 80 FR 450
NPRM Comment Period End | 02/05/15 |
NPRM Reply Comment Period End | 03/09/15 |
FNPRM | 09/25/15 | 80 FR 57768
R&O | 09/25/15 | 80 FR 57768
FNPRM Comment Period End | 10/26/15 |
FNPRM Reply Comment Period End | 11/24/15 |
2nd R&O | 09/12/16 | 81 FR 62632
Next Action Undetermined |  |

Regulatory Flexibility Analysis Required: Yes.

Agency Contact: Michele Levy Berlove, Attorney Advisor, Federal Communications Commission, 445 12th Street SW., Washington, DC 20554, Phone: 202 418-1477, Email: michele.berlove@fcc.gov.

RIN: 3060-AK32

371. Modernizing Common Carrier Rules, WC Docket No. 15-33

Legal Authority: 47 U.S.C. 151; 47 U.S.C. 152(a); 47 U.S.C. 154(j); 47 U.S.C. 154(i); 47 U.S.C. 160 to 161; 47 U.S.C. 201 to 205; 47 U.S.C. 214; 47 U.S.C. 218 to 221; 47 U.S.C. 225 to 228; 47 U.S.C. 254; 47 U.S.C. 303; 47 U.S.C. 308; 47 U.S.C. 403; 47 U.S.C. 410; 47 U.S.C. 571; 47 U.S.C. 1302; 52 U.S.C. 30141

Abstract: The Notice of Proposed Rulemaking (Notice) seeks to update our rules to better reflect current requirements and technology by removing outmoded regulations from the Code of Federal Regulations (CFR). The Notice proposes to update the CFR by (1) eliminating certain rules from which the Commission has forborn, and (2) eliminating references to telegraph service in certain rules. We propose to eliminate several rules from which the Commission has granted unconditional forbearance for all carriers. These are: (1) Section 64.804(c)-(g), which governs a carrier's recordkeeping and other obligations when it extends to federal candidates unsecured credit for communications service; (2) sections 42.4, 42.5, and 42.7, which require carriers to preserve certain records; (3) section 64.301, which requires carriers to provide communications service to foreign governments for international communications; (4) section 64.501, governing telephone companies' obligations when recording telephone conversations; (5) section 64.5001(a)-(c)(2), and (c)(4), which imposes certain reporting and certification requirements for prepaid calling card providers; and (6) section 64.1, governing traffic damage claims for carriers engaged in radio-telegraph, wire-telegraph, or ocean-cable service. We also propose to remove references to telegraph from certain sections of the Commission's rules. This proposal is consistent with Recommendation 5.38 of the Process Reform Report. Specifically, we propose to remove telegraph from: (1) Section 36.126 (separations); (2) section 54.706(a)(13) (universal service contributions); and (3) sections 63.60(c), 63.61, 63.62, 63.65(a)(4), 63.500(g), 63.501(g), and 63.504(k) (discontinuance).

Timetable:

Action | Date | FR Cite
NPRM | 05/06/15 | 80 FR 25989
Next Action Undetermined |  |

Regulatory Flexibility Analysis Required: Yes.

Agency Contact: Nirali Patel, Deputy Chief, Competition Policy Division, WCB, Federal Communications Commission, 445 12th Street SW., Washington, DC 20554, Phone: 202 418-7830, Email: nirali.patel@fcc.gov.

RIN: 3060-AK33

372. Numbering Policies for Modern Communications, WC Docket No. 13-97

Legal Authority: 47 U.S.C. 151; 47 U.S.C. 153 to 154; 47 U.S.C. 201 to 205; 47 U.S.C. 251; 47 U.S.C. 303(r)

Abstract: This Order establishes a process to authorize interconnected VoIP providers to obtain North American Numbering Plan (NANP) telephone numbers directly from the Numbering Administrators, rather than through intermediaries. Section 52.15(g)(2)(i) of the Commission's rules limits access to telephone numbers to entities that demonstrate they are authorized to provide service in the area for which the numbers are being requested. The Commission has interpreted this rule as requiring evidence of either a state certificate of public convenience and necessity (CPCN) or a Commission license. Neither authorization is typically available in practice to interconnected VoIP providers. Thus, as a practical matter, generally only telecommunications carriers are able to provide the proof of authorization required under our rules, and thus able to obtain numbers directly from the Numbering Administrators. This Order establishes an authorization process to enable interconnected VoIP providers that choose direct access to request numbers directly from the Numbering Administrators. Next, the Order sets forth several conditions designed to minimize number exhaust and preserve the integrity of the numbering system.

The Order requires interconnected VoIP providers obtaining numbers to comply with the same requirements applicable to carriers seeking to obtain numbers. These requirements include any state requirements pursuant to numbering authority delegated to the states by the Commission, as well as industry guidelines and practices, among others. The Order also requires interconnected VoIP providers to comply with facilities readiness requirements adapted to this context, and with numbering utilization and optimization requirements. As conditions to requesting and obtaining numbers directly from the Numbering Administrators, interconnected VoIP providers are also required to: (1) Provide the relevant state commissions with regulatory and numbering contacts when requesting numbers in those states, (2) request numbers from the Numbering Administrators under their own unique OCN, (3) file any requests for numbers with the relevant state commissions at least 30 days prior to requesting numbers from the Numbering Administrators, and (4) provide customers with the opportunity to access all abbreviated dialing codes (N11 numbers) in use in a geographic area.

Finally, the Order also modifies Commission's rules in order to permit VoIP Positioning Center (VPC) providers to obtain pseudo-Automatic Number Identification (p-ANI) codes directly from the Numbering Administrators for purposes of providing E911 services.

Timetable:

Action | Date | FR Cite
NPRM | 06/19/13 | 78 FR 36725
NPRM Comment Period End | 07/19/13
R&O | 10/29/15 | 80 FR 66454
Next Action Undetermined

Regulatory Flexibility Analysis Required: Yes.

Agency Contact: Marilyn Jones, Attorney, Federal Communications Commission, Wireline Competition Bureau, 445 12th Street SW., Washington, DC 20554, Phone: 202 418-2357, Fax: 202 418-2345, Email: marilyn.jones@fcc.gov.

RIN: 3060-AK36

373. • Implementation of the Universal Service Portions of the 1996 Telecommunications Act

Legal Authority: 47 U.S.C. 151 et seq.

Abstract: The Telecommunications Act of 1996 expanded the traditional goal of universal service to include increased access to both telecommunications and advanced services such as high-speed Internet for all consumers at just, reasonable and affordable rates. The Act established principles for universal service that specifically focused on increasing access to evolving services for consumers living in rural and insular areas, and for consumers with low-incomes. Additional principles called for increased access to high-speed Internet in the nation's schools, libraries and rural health care facilities. The FCC established four programs within the Universal Service Fund to implement the statute. The four programs are:

Connect America Fund (formally known as High-Cost Support) for rural areas

Lifeline (for low-income consumers), including initiatives to expand phone service for Native Americans

Schools and Libraries (E-rate)

Rural Health Care

The Universal Service Fund is paid for by contributions from telecommunications carriers, including wireline and wireless companies, and interconnected Voice over Internet Protocol (VoIP) providers, including cable companies that provide voice service, based on an assessment on their interstate and international end-user revenues. The Universal Service Administrative Company, or USAC, administers the four programs and collects monies for the Universal Service Fund under the direction of the FCC.

On December 20, 2016, the Commission adopted measures to address the significant demand for Alternative Connect America Cost Model (A-CAM) support.

On March 2, 2017, the Commission implements Connect America Phase II auction in which service providers will compete to receive support to offer voice and broadband service in unserved high cost areas.

Timetable:

Action | Date | FR Cite
R&O and FNPRM | 01/13/17 | 82 FR 4275
NPRM Comment Period End | 02/13/17
NPRM Reply Comment Period End | 02/27/17
R&O and Order on Recon | 03/21/17 | 82 FR 14466
Next Action Undetermined

Regulatory Flexibility Analysis Required: Yes.

Agency Contact: Nakesha Woodward, Program Support Assistant, Federal Communications Commission, 445 12th Street SW., Washington, DC 20554, Phone: 202 418-1502, Email: kesha.woodward@fcc.gov.

RIN: 3060-AK57

[FR Doc. 2017-16981 Filed 8-23-17; 8:45 am]

BILLING CODE 6712-01-P